ENVIRONMENTAL PROTECTION AGENCY

40 CFR Part 52

[PA200-4201; FRL-8249-6]

Approval and Promulgation of Air Quality Implementation Plans; Pennsylvania; Update to Materials Incorporated by Reference

AGENCY: Environmental Protection Agency (EPA).

ACTION: Final rule; Notice of administrative change.

SUMMARY: EPA is updating the materials submitted by Pennsylvania that are incorporated by reference (IBR) into the State implementation plan (SIP). The regulations affected by this update have been previously submitted by the Pennsylvania Department of Environmental Protection and approved by EPA. This update affects the SIP materials that are available for public inspection at the National Archives and Records Administration (NARA), the Air and Radiation Docket and Information Center located at EPA Headquarters in Washington, DC, and the Regional Office.

EFFECTIVE DATE: This action is effective January 3, 2007.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State revises as necessary to address the unique air pollution problems. Therefore, EPA, from time to time must take action on SIP revisions containing new and/or revised regulations to make them part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On February 25, 2005 (70 FR 9450), EPA published a Federal Register beginning the new IBR procedure for Pennsylvania. In this document, EPA is doing the following:

1. Announcing the update to the IBR material as of November 1, 2006.

2. Making corrections to the following entries listed in the paragraph 52.2020(c)(1) chart, as described below:

a. Title 25, Sections 121.1 and 145.42—In the “Additional explanation/§ 52.2063 citation” column, text is added referring to the SIP-effective date of the revised rules.

b. Title 25, Sections 129.201 through 129.205 and Chapter 145, subsections B and C—In the “Additional explanation/§ 52.2063 citation” column, text is added referring to the SIP-effective date of the new rules.

c. Title 25, Sections 129.54, 129.59, 129.60, 129.61, and 129.68—In the “EPA approval date” column, the EPA approval date and Federal Register page citation are revised.

d. Title 25, Chapter 130, Subchapters A and B—In the “Additional explanation/§ 52.2063 citation” column, the text referring to the SIP-effective date is removed from all entries.

e. Title 67, Chapters 175 and 177—In the State citation column, the word “Section” is added before all numerical entries.

3. Making corrections to the paragraph 52.2020(d)(1) chart, as described below:

a. The title of the second column is revised from “Permit no.” to “Permit number.”

b. Entry for the Hercules Cement Company—The permit number is revised.

Pennsylvania Power and Light Co. (PP&L)-Montour—The permit number is revised.

c. Entries for the Tennessee Gas Pipeline Company, Stations 321 and 219-In the “Additional explanation/§ 52.2063 citation” column, the text referring to the SIP-effective date is removed.

d. Entry for the Tennessee Gas Pipeline Corporation—Buck Township—The entry in the “Name of source” column is revised to read, “Transcontinental Gas Pipeline Corporation-Buck Township.”

e. Entry for Alcoa Extrusion, Inc.—The state effective date is revised.

f. Entry for Stoney Creek Technologies, LLC—The permit number is revised.

g. Entry for Texas Eastern Transmission Corporation (Dauphin County)—The permit number is revised.

h. Entry for United Refining Company—The state effective date is revised.

i. Entries for Waste Management Disposal Services of Pennsylvania (Pottstown Landfill), Waste Management Disposal Services of PA, Inc., and Armstrong World Industries, Inc.—The citation in the “Additional explanation/§ 52.2063 citation” column is revised.

4. Making corrections to the following entries listed in the paragraph 52.2020(e)(1) chart, as described below:

a. Entry for Mobile Budgets for Post-1996 and 2005 attainment plans for the Philadelphia-Wilmington-Trenton 1-Hour Ozone Nonattaiment Area—The revised entry adds a date and Federal Register citation, inadvertently omitted in the February 25, 2005 Federal Register document, in which EPA approved revisions to these mobile budgets.

b. Entry for Ozone Maintenance Plan, Reading Area (Berks County)—The revised entry adds a date and Federal Register citation, inadvertently omitted in the February 25, 2005 Federal Register document, in which EPA approved revisions to this ozone maintenance plan.

EPA has determined that today's rule falls under the “good cause” exemption in section 553(b)(3)(B) of the Administrative Procedures Act (APA) which, upon finding “good cause,” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

III. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Pennsylvania SIP compilations had previously afforded interested parties the opportunity to file a petition for judicial review in the United States Court of Appeals for the appropriate circuit within 60 days of such rulemaking action. Thus, EPA sees no need in this action to reopen the 60-day period for filing such petitions for judicial review for this “Identification of plan” reorganization update action for Pennsylvania.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 21, 2006.
William T. Wisniewski,
Acting Regional Administrator, Region III.

40 CFR part 52 is amended as follows:

PART 52—[AMENDED]

1. The authority for citation for part 52 continues to read as follows:

Authority: 42.U.S.C. 7401 et seq.

Subpart NN—Pennsylvania

2. Section 52.2020 is amended by revising paragraphs (b), (c), (d), and (e) to read as follows:

§ 52.2020 Identification of plan.

* * * * *

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after November 1, 2006 will be incorporated by reference in the next update to the SIP compilation.

(2) EPA Region III certifies that the rules/regulations provided by EPA at the addresses in paragraph (b)(3) of this section are an exact duplicate of the officially promulgated State rules/regulations which have been approved as part of the State implementation plan as of November 1, 2006.

(3) Copies of the materials incorporated by reference may be inspected at the EPA Region III Office at 1650 Arch Street, Philadelphia, PA 19103; the EPA, Air and Radiation Docket and Information Center, EPA West Building, 1301 Constitution Avenue, NW., Washington, DC 20460; or at the National Archives and Records Administration (NARA). For information on the availability of this material at NARA, call 202-741-6030, or go to: http://www.archives.gov/federal_register/code_of_federal_regulations/ibr_locations.html.

(c) EPA-Approved Regulations

(1) EPA-Approved Pennsylvania Regulations
State citation | Title/subject | State effective date | EPA approval date | Additional explanation/§ 52.2063 citation
Title 25.—Environmental Protection
Article III.—Air Resources
Chapter 121—General Provisions
Section 121.1 | Definitions | 12/11/04 | 9/29/06, 71 FR 57428 | Revised; SIP-effective date is 10/30/06.
Section 121.2 | Purpose | 3/20/72 | 5/31/72, 37 FR 10842 | (c)(1).
Section 121.3 | Applicability | 3/20/72 | 5/31/72, 37 FR 10842 | (c)(1).
Section 121.4 | Regional Organization of the Department | 5/23/92 | 12/22/94, 59 FR 65971 | (c)(94).
Section 121.7 | Prohibition of Air Pollution | 3/20/72 | 5/31/72, 37 FR 10842 | (c)(1).
Section 121.8 | Compliance responsibilities | 8/13/77 | 12/17/79, 44 FR 73031 | (c)(21); correction published 8/22/80, (45 FR 56060).
Section 121.9 | Circumvention | 3/20/72 | 5/31/72, 37 FR 10842 | (c)(1).
Section 121.10 | Existing orders | 3/20/72 | 5/31/72, 37 FR 10842 | (c)(1).
Section 121.11 | Severability clause | 3/20/72 | 5/31/72, 37 FR 10842 | (c)(1); no longer in PA DEP rules.
Chapter 123—Standards for Contaminants
Fugitive Emissions
Section 123.1(a) through (c) | Prohibition of certain fugitive emissions | 8/29/77 | 12/17/79, 44 FR 73031 | (c)(21); Paragraph 123.1(d) is not in the SIP.
Section 123.2 | Fugitive particulate matter | 8/13/83 | 7/27/84, 49 FR 30183 | (c)(60).
Particulate Matter Emissions
Section 123.11 | Combustion units | 3/20/72 | 5/31/72, 37 FR 10842 | (c)(1).
Appendix A [Graph] | Particulate Matter—Combustion Units | 3/20/72 | 5/31/72, 37 FR 10842 | (c)(1).
Section 123.12 | Incinerators | 3/20/72 | 5/31/72, 37 10842 | (c)(1).
Section 123.13(a) through (c) | Processes | 8/27/80 | 11/13/81, 46 FR 55971 | (c)(39); paragraph 123.13(d) is not in the SIP.
Appendix B [Graph] | Particulate Matter—Processes Listed in Table 1 | 3/20/72 | 5/31/72, 37 FR 10842 | (c)(1).
Appendix C [Graph] | Particulate Matter—Processes Not Listed in Table 1 | 3/20/72 | 5/31/72, 37 FR 10842 | (c)(1).
Sulfur Compound Emissions
Section 123.21 | General | 3/20/72 | 5/31/72, 37 FR 10842 | (c)(1).
Section 123.22 | Combustion units [General provisions—air basins and non-air basins] | 3/20/72 | 5/31/72, 37 FR 10842 | (c)(1).
Section 123.22(a) | Combustion units—non air basins | 8/1/79 | 8/18/81, 46 FR 43423 | (c)(36); approved as part of the control strategy for the Armstrong County sulfur dioxide nonattainment area.
Section 123.22(b) | Combustion units—Erie Air Basin | 8/1/79 | 8/8/79, 44 FR 46465 | (c)(20); correction published 1/23/80, (45 FR 5303).
Section 123.22(c) | Combustion units—Southeast PA Air Basin | 10/1/78 | 6/4/79, 44 FR 31980 | (c)(18).
Section 123.22(c) | Combustion units—Upper Beaver Valley Air Basin | 8/21/82 | 7/5/83, 48 FR 30630 | (c)(53).
Section 123.22(d) | Combustion units—Lower Beaver Valley Air Basin | 1/1/81 | 12/16/81, 46 FR 61267 | (c)(40).
Figure 4 [Graph] | Sulfur Oxides—Combustion Units | 3/20/72 | 5/31/72, 37 FR 10842 | (c)(1).
Section 123.24 | Primary zinc smelters | 8/11/75 | 4/30/76, 41 FR 18077 | (c)(14).
Section 123.25 | Monitoring requirements | 10/27/90 | 6/30/93, 58 FR 34911 | (c)(81).
Odor Emissions
Section 123.31 | Limitations | 3/20/72 | 5/31/72, 37 FR 10842 | (c)(1); SIP version of Section 123.31 is different from State version.
Visible Emissions
Section 123.41 | Limitations | 3/20/72 | 5/31/72, 37 FR 10842 | (c)(1).
Section 123.42 (Except 123.42(4) | Exceptions | 3/20/72 | 5/31/72, 37 FR 10842 | (c)(1); Paragraph is paragraph declared not 123.42(4)) in SIP at (c)(21).
Section 123.43 | Measuring Techniques | 3/20/72 | 5/31/72, 37 FR 10842 | (c)(1).
Section 123.44 | Limitations of visible fugitive air contaminants from operation of any coke oven battery | 12/27/97 | 6/11/02, 67 FR 39854 | (c)(189).
Section 123.45 | Alternative opacity limitations | 6/20/81 | 1/19/83, 48 FR 2319 | (c)(48).
Appendix D [Chart] | Alternate Opacity Limitation—Application | 6/20/81 | 1/19/83, 48 FR 2319 | (c)(48).
Section 123.46 | Monitoring requirements | 6/20/81 | 1/19/83, 48 FR 2319 | (c)(48).
Nitrogen Compound Emissions
Section 123.51 | Monitoring requirements | 10/20/90 | 9/23/92, 57 FR 43905 | (c)(74).
NOX Allowance Requirements
Section 123.101 | Purpose | 11/1/97 | 6/6/00, 65 FR 35840 | (c)(145).
Section 123.102 | Source NOX allowance requirements and NOX allowance control period | 11/1/97 | 6/6/00, 65 FR 35840 | (c)(145).
Section 123.103 | General NOX allowance provisions | 11/1/97 | 6/6/00, 65 FR 35840 | (c)(145).
Section 123.104 | Source authorized account representative requirements | 11/1/97 | 6/6/00, 65 FR 35840 | (c)(145).
Section 123.105 | NATS provisions | 11/1/97 | 6/6/00, 65 FR 35840 | (c)(145).
Section 123.106 | NOX allowance transfer protocol | 11/1/97 | 6/6/00, 65 FR 35840 | (c)(145).
Section 123.107 | NOX allowance transfer procedures | 11/1/97 | 6/6/00, 65 FR 35840 | (c)(145).
Section 123.108 | Source emissions monitoring requirements | 11/1/97 | 6/6/00, 65 FR 35840 | (c)(145).
Section 123.109 | Source emissions reporting requirements | 11/1/97 | 6/6/00, 65 FR 35840 | (c)(145).
Section 123.110 | Source compliance requirements | 11/1/97 | 6/6/00, 65 FR 35840 | (c)(145).
Section 123.111 | Failure to meet source compliance requirements | 11/1/97 | 6/6/00, 65 FR 35840 | (c)(145).
Section 123.112 | Source operating permit provision requirements | 11/1/97 | 6/6/00, 65 FR 35840 | (c)(145).
Section 123.113 | Source recordkeeping requirements | 11/1/97 | 6/6/00, 65 FR 35840 | (c)(145).
Section 123.114 | General NOX allocation provisions | 11/1/97 | 6/6/00, 65 FR 35840 | (c)(145).
Section 123.115 | Initial NOX allowance NOX allocations | 3/11/00 | 6/6/00, 65 FR 35840 | (c)(145).
Section 123.116 | Source opt-in provisions | 11/1/97 | 6/6/00, 65 FR 35840 | (c)(145).
Section 123.117 | New NOX affected source provisions | 11/1/97 | 6/6/00, 65 FR 35840 | (c)(145).
Section 123.118 | Emission reduction credit provisions | 11/1/97 | 6/6/00, 65 FR 35840 | (c)(145).
Section 123.119 | Bonus NOX allowance awards | 11/1/97 | 6/6/00, 65 FR 35840 | (c)(145).
Section 123.120 | Audit | 11/1/97 | 6/6/00, 65 FR 35840 | (c)(145).
Appendix E [Chart] | Appendix E [NOX Allowances Chart] | 3/11/00 | 6/6/00, 65 FR 35840 | (c)(145).
Chapter 126—Standard for Motor Fuels
Subchapter A.—Oxygenate Content of Gasoline
Section 126.101 | General | 8/19/95 | 12/17/99, 64 FR 70589 | (c)(142).
Section 126.102 | Sampling and testing | 8/19/95 | 2/17/99, 64 FR 70589 | (c)(142).
Section 126.103 | Recordkeeping and reporting | 8/19/95 | 12/17/99, 64 FR 70589 | (c)(142).
Section 126.104 | Labeling requirements | 8/19/95 | 12/17/99, 64 FR 70589 | (c)(142).
Subchapter C.—Gasoline Volatility Requirements
Section 126.301 (a) through (c) | Compliant fuel requirement | 11/1/97 | 6/8/98, 63 FR 31116 | (c)(131).
Section 126.302 (Except Paragraph (a)(6) pertaining to RFG) | Recordkeeping and reporting | 11/1/97 | 6/8/98, 63 FR 31116 | (c)(131).
Section 126.303(a) | Compliance and test methods | 11/1/97 | 6/8/98, 63 FR 31116 | (c)(131).
Subchapter D.—Motor Vehicle Emissions Control Program
General Provisions
Section 126.401 | Purpose | 12/5/98 | 12/28/99, 64 FR 72564 | (c)(141)(i)(C).
Section 126.402 | NLEV scope and applicability | 12/5/98 | 12/28/99, 64 FR 72564 | (c)(141)(i)(C).
Pennsylvania Clean Vehicles Program
Section 126.411 | General requirements | 12/5/98 | 12/28/99, 64 FR 72564 | (c)(141)(i)(C).
Section 126.412 | Emission requirements | 12/5/98 | 12/28/99, 64 FR 72564 | (c)(141)(i)(C).
Section 126.413 | Exemptions | 12/5/98 | 12/28/99, 64 FR 72564 | (c)(141)(i)(C).
Applicable Motor Vehicle Testing
Section 126.421 | New motor vehicle certification testing | 12/5/98 | 12/28/99, 64 FR 72564 | (c)(141)(i)(C).
Section 126.422 | New motor vehicle compliance testing | 12/5/98 | 12/28/99, 64 FR 72564 | (c)(141)(i)(C).
Section 126.423 | Assembly line testing | 12/5/98 | 12/28/99, 64 FR 72564 | (c)(141)(i)(C).
Section 126.424 | In-use motor vehicle enforcement testing | 12/5/98 | 12/28/99, 64 FR 72564 | (c)(141)(i)(C).
Section 126.425 | In-use surveillance testing | 12/5/98 | 12/28/99, 64 FR 72564 | (c)(141)(i)(C).
Motor Vehicle Manufacturers's Obligations
Section 126.431 | Warranty and recall | 12/5/98 | 12/28/99, 64 FR 72564 | (c)(141)(i)(C).
Section 126.432 | Reporting requirements | 12/5/98 | 12/28/99, 64 FR 72564 | (c)(141)(i)(C).
Motor Vehicle Dealer Responsibilities
Section 126.441 | Responsibilities of motor vehicle dealers | 12/5/98 | 12/28/99, 64 FR 72564 | (c)(141)(i)(C).
Chapter 127—Construction, Modification, Reactivation, and Operation of Sources
Subchapter A.—General
Section 127.1 | Purpose | 11/26/94 | 7/30/96, 61 FR 39497 | (c)(110)(i)(C).
Section 127.3 | Operational flexibility | 11/26/94 | 7/30/96, 61 FR 39497 | (c)(110)(i)(C).
Subchapter B.—Plan Approval Requirements
Section 127.11 | Plan approval requirements | 11/26/94 | 7/30/96, 61 FR 39497 | (c)(110)(i)(C).
Section 127.11a. | Reactivation of sources | 11/26/94 | 7/30/96, 61 FR 39497 | (c)(110)(i)(C).
Section 127.12 | Content of applications | 11/26/94 | 7/30/96, 61 FR 39497 | (c)(110)(i)(C).
Section 127.12a | Compliance review | 11/26/94 | 7/30/96, 61 FR 39497 | (c)(110)(i)(C).
Section 127.12b | Plan approval terms and conditions | 11/26/94 | 7/30/96, 61 FR 39497 | (c)(110)(i)(C).
Section 127.12c | Plan approval reporting requirements | 11/26/94 | 7/30/96, 61 FR 39497 | (c)(110)(i)(C).
Section 127.13 | Extensions | 11/26/94 | 7/30/96, 61 FR 39497 | (c)(110)(i)(C).
Section 127.13a | Plan approval changes for cause | 11/26/94 | 7/30/96, 61 FR 39497 | (c)(110)(i)(C).
Section 127.13b | Denial of Plan approval application | 11/26/94 | 7/30/96, 61 FR 39497 | (c)(110)(i)(C).
Section 127.13c | Notice of basis for certain plan approval decisions | 11/26/94 | 7/30/96, 61 FR 39497 | (c)(110)(i)(C).
Section 127.14 | Exemptions | 11/26/94 | 7/30/96, 61 FR 39497 | (c)(110)(i)(C).
Section 127.25 | Compliance requirement | 11/26/94 | 7/30/96, 61 FR 39497 | (c)(110)(i)(C).
Section 127.32 | Transfer of plan approvals | 11/26/94 | 7/30/96, 61 FR 39497 | (c)(110)(i)(C).
Section 127.35 | Maximum achievable control technology standards for hazardous air pollutants | 11/26/94 | 7/30/96, 61 FR 39497 | (c)(110)(i)(C).
Section 127.36 | Health risk-based emission standards and operating practice requirements | 11/26/94 | 7/30/96, 61 FR 39497 | (c)(110)(i)(C).
Section 127.44 | Public Notice | 11/26/94 | 7/30/96, 61 FR 39497 | (c)(110)(i)(C).
Section 127.45 | Contents of notice | 11/26/94 | 7/30/96, 61 FR 39497 | (c)(110)(i)(C).
Section 127.46 | Filing protests | 8/13/83 | 7/27/84, 49 FR 30183 | (c)(60).
Section 127.47 | Consideration of protests | 11/26/94 | 7/30/96, 61 FR 39497 | (c)(110)(i)(C).
Section 127.48 | Conferences and hearings | 8/13/83 | 7/27/84, 49 FR 30183 | (c)(60).
Section 127.49 | Conference or hearing procedure | 11/26/94 | 7/30/96, 61 FR 39497 | (c)(110)(i)(C).
Section 127.50 | Conference or hearing record | 11/26/94 | 7/30/96, 61 FR 39497 | (c)(110)(i)(C).
Section 127.51 | Plan approval disposition | 11/26/94 | 7/30/96, 61 FR 39497 | (c)(110)(i)(C).
Subchapter D.—Prevention of Significant Deterioration of Air Quality
Section 127.81 | Purpose | 6/18/83 | 8/21/84, 49 FR 33127 | (c)(57).
Section 127.82 | Scope | 6/18/83 | 8/21/84 49, FR 33127 | (c)(57).
Section 127.83 | Adoption of Program | 6/18/83 | 8/21/84, 49 FR 33127 | (c)(57).
Subchapter E.—New Source Review
Section 127.201 | General requirements | 1/15/94 | 12/9/97, 62 FR 64722 | (c)(107).
Section 127.202 | Effective date | 1/15/94 | 12/9/97, 62 FR 64722 | (c)(107).
Section 127.203 | Facilities subject to special permit requirements | 1/15/94 | 12/9/97, 62 FR 64722 | (c)(107).
Section 127.204 | Emissions subject to this subchapter | 1/15/94 | 12/9/97, 62 FR 64722 | (c)(107).
Section 127.205 | Special permit requirements | 1/15/94 | 12/9/97, 62 FR 64722 | (c)(107).
Section 127.206 | ERC general requirements | 1/15/94 | 12/9/97, 62 FR 64722 | (c)(107).
Section 127.207 | ERC generation and creation | 1/15/94 | 12/9/97, 62 FR 64722 | (c)(107).
Section 127.208 | ERC use and transfer requirements | 1/15/94 | 12/9/97, 62 FR 64722 | (c)(107).
Section 127.209 | ERC registry system | 1/15/94 | 12/9/97, 62 FR 64722 | (c)(107).
Section 127.210 | Offset ratios | 1/15/94 | 12/9/97, 62 FR 64722 | (c)(107).
Section 127.211 | Applicability determination | 1/15/94 | 12/9/97, 62 FR 64722 | (c)(107).
Section 127.212 | Portable facilities | 1/15/94 | 12/9/97, 62 FR 64722 | (c)(107).
Section 127.213 | Construction and demolition | 1/15/94 | 12/9/97, 62 FR 64722 | (c)(107).
Section 127.214 | Exemption | 1/15/94 | 12/9/97, 62 FR 64722 | (c)(107).
Section 127.215 | Reactivation | 1/15/94 | 12/9/97, 62 FR 64722 | (c)(107).
Section 127.216 | Circumvention | 1/15/94 | 12/9/97, 62 FR 64722 | (c)(107).
Section 127.217 | Clean Air Act Titles III-V applicability | 1/15/94 | 12/9/97, 62 FR 64722 | (c)(107).
Subchapter F.—Operating Permit Requirements
General
Section 127.401 | Scope | 11/26/94 | 7/30/96, 61 FR 39497 | (c)(110)(i)(C).
Section 127.402 | General provisions | 11/26/94 | 7/30/96, 61 FR 39497 | (c)(110)(i)(C).
Section 127.403 | Permitting of sources operating lawfully without a permit | 11/26/94 | 7/30/96, 61 FR 39497 | (c)(110)(i)(C).
Section 127.404 | Compliance schedule for repermitting | 11/26/94 | 7/30/96, 61 FR 39497 | (c)(110)(i)(C).
Permit Applications
Section 127.411 | Content of applications | 11/26/94 | 7/30/96, 61 FR 39497 | (c)(110)(i)(C).
Section 127.412 | Compliance review forms | 11/26/94 | 7/30/96, 61 FR 39497 | (c)(110)(i)(C).
Section 127.413 | Municipal notification | 11/26/94 | 7/30/96, 61 FR 39497 | (c)(110)(i)(C).
Section 127.414 | Supplemental information | 11/26/94 | 7/30/96, 61 FR 39497 | (c)(110)(i)(C).
Review of Applications
Section 127.421 | Review of Applications | 11/26/94 | 7/30/96, 61 FR 39497 | (c)(110)(i)(C).
Section 127.422 | Denial of permits | 11/26/94 | 7/30/96, 61 FR 39497 | (c)(110)(i)(C).
Section 127.423 | Notice of basis for certain operating permit decisions | 11/26/94 | 7/30/96, 61 FR 39497 | (c)(110)(i)(C).
Section 127.424 | Public notice | 11/26/94 | 7/30/96, 61 FR 39497 | (c)(110)(i)(C).
Section 127.425 | Contents of notice | 11/26/94 | 7/30/96, 61 FR 39497 | (c)(110)(i)(C).
Section 127.426 | Filing protests | 11/26/94 | 7/30/96, 61 FR 39497 | (c)(110)(i)(C).
Section 127.427 | Consideration of protest | 11/26/94 | 7/30/96, 61 FR 39497 | (c)(110)(i)(C).
Section 127.428 | Conferences and hearings | 11/26/94 | 7/30/96, 61 FR 39497 | (c)(110)(i)(C).
Section 127.429 | Conference or hearing procedure | 11/26/94 | 7/30/96, 61 FR 39497 | (c)(110)(i)(C).
Section 127.430 | Conference or hearing record | 11/26/94 | 7/30/96, 61 FR 39497 | (c)(110)(i)(C).
Section 127.431 | Operating permit disposition | 11/26/94 | 7/30/96, 61 FR 39497 | (c)(110)(i)(C).
Operating Permit Conditions
Section 127.441 | Operating permit terms and conditions | 11/26/94 | 7/30/96, 61 FR 39497 | (c)(110)(i)(C).
Section 127.442 | Reporting requirements | 11/26/94 | 7/30/96, 61 FR 39497 | (c)(110)(i)(C).
Section 127.443 | Operating permit requirements | 11/26/94 | 7/30/96, 61 FR 39497 | (c)(110)(i)(C).
Section 127.444 | Compliance requirements | 11/26/94 | 7/30/96, 61 FR 39497 | (c)(110)(i)(C).
Section 127.445 | Operating permit compliance schedules | 11/26/94 | 7/30/96, 61 FR 39497 | (c)(110)(i)(C).
Section 127.446 | Operating permit duration | 11/26/94 | 7/30/96, 61 FR 39497 | (c)(110)(i)(C).
Section 127.447 | Alternate operating scenarios | 11/26/94 | 7/30/96, 61 FR 39497 | (c)(110)(i)(C).
Section 127.448 | Emissions trading at facilities with Federally enforceable emissions cap | 11/26/94 | 7/30/96, 61 FR 39497 | (c)(110)(i)(C).
Section 127.449 | De minimis emission increases | 11/26/94 | 7/30/96, 61 FR 39497 | (c)(110)(i)(C).
Section 127.450 | Administrative operating permit amendments | 11/26/94 | 7/30/96, 61 FR 39497 | (c)(110)(i)(C).
Operating Permit Modifications
Section 127.461 | Operating permit changes for cause | 11/26/94 | 7/30/96, 61 FR 39497 | (c)(110)(i)(C).
Section 127.462 | Minor operating permit modifications | 11/26/94 | 7/30/96, 61 FR 39497 | (c)(110)(i)(C).
Section 127.463 | Operating permit revisions to incorporate applicable standards | 11/26/94 | 7/30/96, 61 FR 39497 | (c)(110)(i)(C).
Section 127.464 | Transfer of operating permits | 11/26/94 | 7/30/96, 61 FR 39497 | (c)(110)(i)(C).
Subchapter H.—General Plan Approvals and Operating Permits
General
Section 127.601 | Scope | 11/26/94 | 7/30/96, 61 FR 39494 | (c)(111).
Issuance of General Plan Approvals and General Operating Permits
Section 127.611 | General plan approval and general operating permits | 11/26/94 | 7/30/96, 61 FR 39494 | (c)(111).
Section 127.612 | Public notice and review period | 11/26/94 | 7/30/96, 61 FR 39494 | (c)(111).
Use of General Plan Approvals and Permits
Section 127.621 | Application for use of general plan approvals and general operating permits | 11/26/94 | 7/30/96, 61 FR 39494 | (c)(111).
Section 127.622 | Compliance with general plan approvals and general operating permits | 11/26/94 | 7/30/96, 61 FR 39494 | (c)(111).
Subchapter I.—Plan Approval and Operating Permit Fees
Section 127.701 | General provisions | 11/26/94 | 7/30/96, 61 FR 39497 | (c)(110)(i)(C).
Section 127.702 | Plan approval fees | 11/26/94 | 7/30/96, 61 FR 39497 | (c)(110)(i)(C).
Section 127.703 | Operating permit fees under Subchapter F | 11/26/94 | 7/30/96, 61 FR 39497 | (c)(110)(i)(C).
Section 127.707 | Failure to pay fee | 11/26/94 | 7/30/96, 61 FR 39497 | (c)(110)(i)(C).
Subchapter J.—General Conformity
Section 127.801 | Purpose | 11/9/96 | 9/29/97, 62 FR 50870 | (c)(126).
Section 127.802 | Adoption of Standards | 11/9/96 | 9/29/97, 62 FR 50870 | (c)(126).
Chapter 129—Standards for Sources
Miscellaneous Sources
Section 129.11 | Nitric acid plants | 3/20/72 | 5/31/72, 37 FR 10842 | (c)(1).
Section 129.12 | Sulfuric acid plants | 3/20/72 | 5/31/72, 37 FR 10842 | (c)(1).
Section 129.13 | Sulfur recovery plants | 3/20/72 | 5/31/72, 37 FR 10842 | (c)(1).
APPENDIX A | Allowable emissions, sulfur oxides—sulfur recovery plants | 4/23/94 | 3/23/98, 63 FR 13789 | (c)(129).
Section 129.14 | Open burning operations | 8/9/76 | 8/19/80, 45 FR 55178 | (c)(33).
Section 129.15 | Coke pushing operations | 8/29/77 12/31/77 | 12/17/79, 44 FR 73031 | (c)(21); correction published 8/22/80 45 FR 56060.
Section 129.16 | Door maintenance, adjustment and replacement practices | 12/12/77 | 7/17/79, 44 FR 41429 | (c)(19).
Section 129.18 | Municipal waste incinerators | 10/27/90 | 6/30/93, 58 FR 34911 | (c)(81).
Sources of VOCs
Section 129.52 | Surface coating processes | 6/10/00 | 7/20/01, 66 FR 37908 | (c)(152).
Section 129.54 | Seasonal operation of auxiliary incineration equipment | 8/3/91 | 5/13/93, 58 FR 28362 | (c)(79).
Section 129.55 | Petroleum refineries—specific sources | 6/20/81 | 1/19/83, 48 FR 2319 | (c)(48).
Section 129.56 | Storage tanks greater than 40,000 gallons capacity containing VOCs | 9/5/98 | 7/26/00, 65 FR 45920 | (c)(147).
Section 129.57 | Storage tanks less than or equal to 40,000 gallons capacity containing VOCs | 6/20/81 | 1/19/83, 48 FR 2319 | (c)(48).
Section 129.58 | Petroleum refineries-fugitive sources | 8/13/83 | 7/27/84, 49 FR 30183 | (c)(60).
Section 129.59 | Bulk gasoline terminals | 8/3/91 | 5/13/93, 58 FR 28362 | (c)(79).
Section 129.60 | Bulk gasoline plants | 8/3/91 | 5/13/93, 58 FR 28362 | (c)(79).
Section 129.61 | Small gasoline storage tank control (Stage I control) | 8/3/91 | 5/13/93, 58 FR 28362 | (c)(79).
Section 129.62 | General standards for bulk gasoline terminals, bulk gasoline plants, and small gasoline storage tanks | 5/23/94 | 12/22/94, 59 FR 65971 | (c)(94).
Section 129.63 | Degreasing operations | 12/22/01 | 1/16/03, 68 FR 2208 | (c)(195)(i)(B)(2).
Section 129.64 | Cutback asphalt paving | 8/13/83 | 7/27/84, 49 FR 30183 | (c)(60).
Section 129.65 | Ethylene production plants | 8/1/79 | 5/20/80 | (c)(22).
Section 129.66 | Compliance schedules and final compliance dates | 5/23/92 | 12/22/94, 59 FR 65971 | (c)(94).
Section 129.67 | Graphic arts systems. | 9/5/98 | 7/26/00, 65 FR 45920 | (c)(147).
Section 129.68 | Manufacture of synthesized pharmaceutical products | 8/3/91 | 5/13/93, 58 FR 28362 | (c)(79).
Section 129.69 | Manufacture of pneumatic rubber tires | 5/23/92 | 12/22/94, 59 FR 65971 | (c)(94).
Section 129.71 | Synthetic organic chemical and polymer manufacturing—fugitive sources | 5/23/92 | 12/22/94, 59 FR 65971 | (c)(94).
Section 129.72 | Manufacture of surface active agents | 5/23/92 | 12/22/94, 59 FR 65971 | (c)(94).
Section 129.73 | Aerospace manufacturing and rework | 4/10/99 | 6/25/01, 66 FR 33645 | (c)(155).
Section 129.75 | Mobile equipment repair and refinishing | 11/27/99 | 8/14/00, 65 FR 49501 | (c)(148).
Mobile Sources
Section 129.81 | Organic liquid cargo vessel loading and ballasting | 9/28/91 | 9/28/93, 58 FR 50517 | (c)(84).
Section 129.82 | Control of VOCs from gasoline dispensing facilities (Stage II) | 4/10/99 | 5/21/01, 66 FR 27875 | (c)(153).
Stationary Sources of NOX and VOCs
Section 129.91 | Control of major sources of NOX and VOCs | 6/10/00 | 7/20/01, 66 FR 37908 | (c)(152).
Section 129.92 | RACT proposal requirements | 4/23/94 | 3/23/98, 63 FR 13789 | (c)(129).
Section 129.93 [Except for 129.93(c)(6 & 7)] | Presumptive RACT emission limitations | 4/23/94 | 3/23/98, 63 FR 13789 | (c)(129).
Section 129.94 | NOX RACT emission averaging general requirements | 4/23/94 | 3/23/98, 63 FR 13789 | (c)(129).
Section 129.95 | Recordkeeping. | 4/23/94 | 3/23/98, 63 FR 13789 | (c)(129).
Wood Furniture Manufacturing Operations
Section 129.101 | General provisions and applicability | 6/10/00 | 7/20/01, 66 FR 37908 | (c)(152).
Section 129.102 | Emission standards | 6/10/00 | 7/20/01, 66 FR 37908 | (c)(152).
Section 129.103 | Work practice standards | 6/10/00 | 7/20/01, 66 FR 37908 | (c)(152).
Section 129.104 | Compliance procedures and monitoring requirements | 6/10/00 | 7/20/01, 66 FR 37908 | (c)(152).
Section 129.105 | Recordkeeping requirements | 6/10/00 | 7/20/01, 66 FR 37908 | (c)(152).
Section 129.106 | Reporting requirements | 6/10/00 | 7/20/01, 66 FR 37908 | (c)(152).
Section 129.107 | Special provisions for facilities using an emissions averaging approach | 6/10/00 | 7/20/01, 66 FR 37908 | (c)(152).
Additional NOX Requirements
Section 129.201 | Boilers | 12/11/04 | 9/29/06, 71 FR 57428 | SIP-effective date is 10/30/06.
Section 129.202 | Stationary combustion turbines | 12/11/04 | 9/29/06, 71 FR 57428 | SIP-effective date is 10/30/06.
Section 129.203 | Stationary internal combustion engines | 12/11/04 | 9/29/06, 71 FR 57428 | SIP-effective date is 10/30/06.
Section 129.204 | Emission accountability | 12/11/04 | 9/29/06, 71 FR 57428 | SIP-effective date is 10/30/06.
Section 129.205 | Zero emission renewable energy production credit | 12/11/04 | 9/29/06, 71 FR 57428 | SIP-effective date is 10/30/06.
Chapter 130—Standards for Products
Subchapter A.—Portable Fuel Containers
Section 130.101 | Applicability | 10/5/02 | 12/8/04, 69 FR 70893 | (c)(229).
Section 130.102 | Definitions | 10/5/02 | 12/8/04, 69 FR 70893 | (c)(229).
Section 130.103 | Performance Standards for portable fuel containers and spill-proof spouts | 10/5/02 | 12/8/04, 69 FR 70893 | (c)(229).
Section 130.104 | Exemptions | 10/5/02 | 12/8/04, 69 FR 70893 | (c)(229).
Section 130.105 | Innovative products | 10/5/02 | 12/8/04, 69 FR 70893 | (c)(229).
Section 130.106 | Administrative requirements | 10/5/02 | 12/8/04, 69 FR 70893 | (c)(229).
Section 130.107 | Variances | 10/5/02 | 12/8/04, 69 FR 70893 | (c)(229).
Section 130.108 | Test procedures | 10/5/02 | 12/8/04, 69 FR 70893 | (c)(229).
Subchapter B.—Consumer Products
General Provisions
Section 130.201. | Applicability | 10/5/02 | 12/8/04, 69 FR 70895 | (c)(230).
Section 130.202. | Definitions | 10/5/02 | 12/8/04, 69 FR 70895 | (c)(230).
Standard
Section 130.211. | Table of standards | 10/5/02 | 12/8/04, 69 FR 70895 | (c)(230).
Section 130.212. | Products diluted prior to use | 10/5/02 | 12/8/04, 69 FR 70895 | (c)(230).
Section 130.213. | Products registered under FIFRA | 10/5/02 | 12/8/04, 69 FR 70895 | (c)(230).
Section 130.214. | Requirements for charcoal lighter materials | 10/5/02 | 12/8/04, 69 FR 70895 | (c)(230).
Section 130.215. | Requirements for aerosol adhesives | 10/5/02 | 12/8/04, 69 FR 70895 | (c)(230).
Section 130.216. | Requirements for floor wax strippers | 10/5/02 | 12/8/04, 69 FR 70895 | (c)(230).
Exemptions
Section 130.331. | Products for shipment and use outside this Commonwealth | 10/5/02 | 12/8/04, 69 FR 70895 | (c)(230).
Section 130.332. | Antiperspirants and deodorants | 10/5/02 | 12/8/04, 69 FR 70895 | (c)(230).
Section 130.333. | LVP-VOC | 10/5/02 | 12/8/04, 69 FR 70895 | (c)(230).
Section 130.334. | Products registered under FIFRA | 10/5/02 | 12/8/04, 69 FR 70895 | (c)(230).
Section 130.335. | Air fresheners | 10/5/02 | 12/8/04, 69 FR 70895 | (c)(230).
Section 130.336 | Adhesives | 10/5/02 | 12/8/04, 69 FR 70895 | (c)(230).
Section 130.337 | Bait station insecticides | 10/5/02 | 12/8/04, 69 FR 70895 | (c)(230).
Innovative Products
Section 130.351 | Innovative products exemption | 10/5/02 | 12/8/04, 69 FR 70895 | (c)(230).
Section 130.352 | Request for exemption | 10/5/02 | 12/8/04, 69 FR 70895 | (c)(230).
Administrative Requirements
Section 130.371 | Code-dating | 10/5/02 | 12/8/04, 69 FR 70895 | (c)(230).
Section 130.372 | Most restrictive limit | 10/5/02 | 12/8/04, 69 FR 70895 | (c)(230).
Section 130.373 | Additional labeling requirements for aerosol adhesives | 10/5/02 | 12/8/04, 69 FR 70895 | (c)(230).
Reporting Requirements
Section 130.391 | Required reporting of information to the Department | 10/5/02 | 12/8/04, 69 FR 70895 | (c)(230).
Section 130.392 | Confidentiality | 10/5/02 | 12/8/04, 69 FR 70895 | (c)(230).
Variances
Section 130.411 | Application for variance | 10/5/02 | 12/8/04, 69 FR 70895 | (c)(230).
Section 130.412 | Variance orders | 10/5/02 | 12/8/04, 69 FR 70895 | (c)(230).
Section 130.413 | Termination of variance | 10/5/02 | 12/8/04, 69 FR 70895 | (c)(230).
Section 130.414 | Modification of variance | 10/5/02 | 12/8/04, 69 FR 70895 | (c)(230).
Test Methods
Section 130.431 | Testing for compliance | 10/5/02 | 12/8/04, 69 FR 70895 | (c)(230).
ACP for Consumer Products
Section 130.451 | Alternative methods of compliance | 10/5/02 | 12/8/04, 69 FR 70895 | (c)(230).
Section 130.452 | Exemption | 10/5/02 | 12/8/04, 69 FR 70895 | (c)(230).
Section 130.453 | Request for exemption | 10/5/02 | 12/8/04, 69 FR 70895 | (c)(230).
Section 130.454 | Application for an ACP | 10/5/02 | 12/8/04, 69 FR 70895 | (c)(230).
Section 130.455 | Recordkeeping and availability of requested information | 10/5/02 | 12/8/04, 69 FR 70895 | (c)(230).
Section 130.456 | Surplus reductions and surplus trading | 10/5/02 | 12/8/04, 69 FR 70895 | (c)(230).
Section 130.457 | Limited-use surplus reduction credits for early reformulations of ACP products | 10/5/02 | 12/8/04, 69 FR 70895 | (c)(230).
Section 130.458 | Reconciliation of shortfalls | 10/5/02 | 12/8/04, 69 FR 70895 | (c)(230).
Section 130.459 | Notification of modifications to an ACP by the responsible ACP party | 10/5/02 | 12/8/04, 69 FR 70895 | (c)(230).
Section 130.460 | Modifications that require Department preapproval | 10/5/02 | 12/8/04, 69 FR 70895 | (c)(230).
Section 130.461 | Other modifications | 10/5/02 | 12/8/04, 69 FR 70895 | (c)(230).
Section 130.462 | Modification of an ACP by the Department | 10/5/02 | 12/8/04, 69 FR 70895 | (c)(230).
Section 130.463 | Cancellation of an ACP | 10/5/02 | 12/8/04, 69 FR 70895 | (c)(230).
Section 130.464 | Treatment of information | 10/5/02 | 12/8/04, 69 FR 70895 | (c)(230).
Section 130.465 | Other applicable requirements | 10/5/02 | 12/8/04, 69 FR 70895 | (c)(230).
Public Hearing Requirements
Section 130.471 | Public hearings | 10/5/02 | 12/8/04, 69 FR 70895 | (c)(230).
Subchapter C—Architectural and Industrial Maintenance Coatings
Section 130.601 | Applicability | 10/25/03 | 11/23/04, 69 FR 68080 | (c)(227).
Section 130.602 | Definitions | 10/25/03 | 11/23/04, 69 FR 68080 | (c)(227).
Section 130.603 | Standards | 10/25/03 | 11/23/04, 69 FR 68080 | (c)(227).
Section 130.604 | Container labeling requirements | 10/25/03 | 11/23/04, 69 FR 68080 | (c)(227).
Section 130.605 | Reporting requirements | 10/25/03 | 11/23/04, 69 FR 68080 | (c)(227).
Section 130.606 | Application for variance | 10/25/03 | 11/23/04, 69 FR 68080 | (c)(227).
Section 130.607 | Variance orders | 10/25/03 | 11/23/04, 69 FR 68080 | (c)(227).
Section 130.608 | Termination of variance | 10/25/03 | 11/23/04, 69 FR 68080 | (c)(227).
Section 130.609 | Extension, modification or revocation of variance | 10/25/03 | 11/23/04, 69 FR 68080 | (c)(227).
Section 130.610 | Public hearings | 10/25/03 | 11/23/04, 69 FR 68080 | (c)(227).
Section 130.611 | Compliance provisions and test methods | 10/25/03 | 11/23/04, 69 FR 68080 | (c)(227).
Chapter 131—Ambient Air Quality Standards
Section 131.1 | Purpose | 3/20/72 | 5/31/72, 37 FR 10842 | (c)(1).
Section 131.2 | National Ambient Air Quality Standards | 3/20/72 | 5/31/72, 37 FR 10842 | (c)(1).
Section 131.3 | Ambient air quality standards | 8/13/83 | 7/27/84, 49 FR 30183 | (c)(60); Amendment removed a lead standard provision. The remaining standards are not SIP-related.
Section 131.4 | Application of ambient air quality standards | 3/20/72 | 5/31/72, 37 FR 10842 | (c)(1).
Chapter 135—Reporting of Sources
General
Section 135.1 | Definitions | 3/20/72 | 5/31/72, 37 FR 10842 | (c)(1).
Section 135.2 | Applicability [of sources] | 3/20/72 | 5/31/72, 37 FR 10842 | (c)(1).
Section 135.3 | Reporting | 3/20/72 | 5/31/72, 37 FR 10842 | (c)(1).
Section 135.4 | Reporting forms and guides | 3/20/72 | 5/31/72, 37 FR 10842 | (c)(1).
Section 135.5 | Recordkeeping | 10/10/92 | 1/12/95, 60 FR 2081 | (c)(96).
Emission Statements
Section 135.21 | Emission statements | 10/10/92 | 1/12/95 | (c)(96)
Chapter 137—Air Pollution Episodes
General
Section 137.1 | Purpose | 1/28/72 | 5/31/72, 37 FR 10842 | (c)(1).
Section 137.2 | Monitoring facilities | 1/28/72 | 5/31/72, 37 FR 10842 | (c)(1).
Section 137.3 | Episode criteria | 6/9/90 | 6/16/93, 58 FR 33203 | (c)(75).
Section 137.4 | Standby plans | 12/27/97 | 6/11/02, 67 FR 39854 | (c)(189).
Section 137.5 | Implementation of emission reduction procedures | 1/28/72 | 5/31/72, 37 FR 10842 | (c)(1).
Level Actions
Section 137.11 | Forecast level actions | 1/28/72 | 5/31/72, 37 FR 10842 | (c)(1).
Section 137.12 | Alert level actions | 1/28/72 | 5/31/72, 37 FR 10842 | (c)(1).
Section 137.13 | Warning level actions | 1/28/72 | 5/31/72, 37 FR 10842 | (c)(1).
Section 137.14 | Emergency level actions | 1/28/72 | 5/31/72, 37 FR 10842 | (c)(1).
Chapter 139—Sampling and Testing
Subchapter A.—Sampling and Testing Methods and Procedures
General
Section 139.1 | Sampling facilities | 3/20/72 | 5/31/72, 37 FR 10842 | (c)(1).
Section 139.2 | Sampling by others | 3/20/72 | 5/31/72, 37 FR 10842 | (c)(1).
Section 139.3 | General requirements | 8/1/79 | 8/8/79, 44 FR 46465 | (c)(20); Correction published 1/23/80 (45 FR 5303).
Section 139.4 | References | 6/10/00 | 7/20/01 | (c)(152).
Section 139.5 | Revisions to the source testing manual and continuous source monitoring manual | 11/26/94 | 7/30/96, 61 FR 39497 | (c)(110)(i)(D).
Stationary Sources
Section 139.11 | General requirements | 3/20/72 | 5/31/72, 37 FR 10842 | (c)(1).
Section 139.12 | Emissions of particulate matter | 3/7/98 | 6/11/02, 67 FR 39854 | (c)(189).
Section 139.13 (Except Provisions applicable to H2S and TRS) | Emissions of SO2, H2S, TRS and NO2 | 11/26/94 | 7/30/96, 61 FR 39497 | (c)(110)(i)(D).
Section 139.14 | Emissions of VOCs | 6/10/00 | 7/20/01, 66 FR 37908 | (c)(152).
Section 139.16 | Sulfur in fuel oil | 8/13/83 | 7/27/84, 49 FR 30183 | (c)(60).
Section 139.17 | General requirements | 6/20/81 | 1/19/83, 48 FR 2319 | (c)(48).
Section 139.18 | Calculation of Alternative opacity limitations | 6/20/81 | 1/19/83, 48 FR 2319 | (c)(48).
Ambient Levels of Air Contaiminants
Section 139.21 | General | 3/20/72 | 5/31/72, 3 FR 10842 | (c)(1).
Section 139.32 | Sampling and analytical procedures | 11/26/94 | 7/30/96 61, FR 39491 | (c)(110)(i)(D).
Section 139.33 | Incorporation of Federal procedures | 3/20/72 | 5/31/72, 37 FR 10842 | (c)(1).
Subchapter B.—Monitoring Duties of Certain Sources
General
Section 139.51 | Purpose | 8/29/77 | 7/17/79, 44 FR 41429 | (c)(19).
Section 139.52 | Monitoring methods and techniques | 8/29/77 | 7/17/79, 44 FR 41429 | (c)(19).
Section 139.53 | Filing monitoring reports | 8/13/83 | 7/27/84, 49 FR 30183 | (c)(60).
Subchapter C.—Requirements for Continuous In-Stack Monitoring for Stationary Sources
Section 139.101 | General Requirements | 3/7/98 | 6/11/02, 67 FR 39854 | (c)(189).
Section 139.102 | References | 11/26/94 | 7/30/96, 61 FR 39497 | (c)(110)(i)(D).
Section 139.103 | Opacity monitoring requirements | 11/26/94 | 7/30/96, 61 FR 39497 | (c)(110)(i)(D).
Section 139.11 | Waste incinerator monitoring requirements | 12/27/97 | 6/11/02, 67 FR 39854 | (c)(189).
Chapter 141—Alternate Standards
Section 141.1 | Imposing alternate standards authorized | 5/14/88 | 9/17/92, 57 FR 42894 | (c)(73).
Chapter 145—Interstate Pollution Transport Reduction
Subchapter A—NOX Budget Trading Program
General Provisions
Section 145.1 | Purpose | 9/23/00 | 8/21/01, 66 FR 43795 | (c)(168).
Section 145.2 | Definitions | 9/23/00 | 8/21/01, 66 FR 43795 | (c)(168).
Section 145.3 | Measurements, abbreviations and acronyms | 9/23/00 | 8.21.01, 66 FR 43795 | (c)(168).
Section 145.4 | Applicability | 9/23/00 | 8/21/01, 66 FR 43795 | (c)(168).
Section 145.5 | Retired unit exemption | 9/23/00 | 8/21/01, 66 FR 43795 | (c)(168).
Section 145.6 | Standard requirements | 9/23/00 | 8/21/01, 66 FR 43795 | (c)(168).
Section 145.7 | Computation of time | 9/23/00 | 8/21/01, 66 FR 43795 | (c)(168).
NOX Account
Section 145.10 | Authorization and responsibilities of the NOX authorized account representative | 9/23/00 | 8/21/01, 66 FR 43795 | (c)(168).
Section 145.11 | Alternate NOX authorized account representative | 9/23/00 | 8/21/01, 66 FR 43795 | (c)(168).
Section 145.12 | Changing the NOX authorized account representative; and changes in the Alternate NOX authorized account representative; changes in the owners and operators | 9/23/00 | 8/21/01, 66 FR 43795 | (c)(168).
Section 145.13 | Account certificate of representation | 9/23/00 | 8/21/01, 66 FR 43795 | (c)(168).
Section 145.14 | Objections concerning the NOX authorized account representative | 9/23/00 | 8/21/01, 66 FR 43795 | (c)(168).
Compliance Certification
Section 145.30 | Compliance certification report | 9/23/00 | 8/21/01, 66 FR 43795 | (c)(168).
Section 145.31 | Department's action on compliance certifications | 9/23/00 | 8/21/01, 66 FR 43795 | (c)(168).
NOX Allowance Allocations
Section 145.40 | State Trading Program budget | 9/23/00 | 8/21/01, 66 FR 43795 | (c)(168).
Section 145.41 | Timing Requirements for NOX allowance allocations | 9/23/00 | 8/21/01, 66 FR 43795 | (c)(168).
Section 145.42 | NOX Allowance allocations | 12/11/04 | 9/29/06, 71 FR 57428 | Revised; SIP-effective date is 10/30/06
Section 145.43 | Compliance supplement pool | 9/23/00 | 8/21/01, 66 FR 43795 | (c)(168).
Accounting Process for Deposit Use and Transfer of Allowances
Section 145.50 | NOX Allowance Tracking System accounts | 9/23/00 | 8/21/01, 66 FR 43795 | (c)(168).
Section 145.51 | Establishment of accounts | 9/23/00 | 8/21/01, 66 FR 43795 | (c)(168).
Section 145.52 | NOX Allowance Tracking System responsibilities of NOX authorized account representative | 9/23/00 | 8/21/01, 66 FR 43795 | (c)(168).
Section 145.53 | Recordation of NOX allowance allocations | 9/23/00 | 8/21/01, 66 FR 43795 | (c)(168.)
Section 145.54 | Compliance | 9/23/00 | 8/21/01, 66 FR 43795 | (c)(168).
Section 145.55 | Banking | 9/23/00 | 8/21/01, 66 FR 43795 | (c)(168).
Section 145.56 | Account error | 9/23/00 | 8/21/01, 66 FR 43795 | (c)(168).
Section 145.57 | Closing of general accounts | 9/23/00 | 8/21/01, 66 FR 43795 | (c)(168).
NOX Allowance Transfers
Section 145.60 | Submission of NOX allowance transfers | 9/23/00 | 8/21/01, 66 FR 43795 | (c)(168).
Section 145.61 | NOX transfer recordation | 9/23/00 | 8/21/01, 66 FR 43795 | (c)(168).
Section 145.62 | Notification | 9/23/00 | 8/21/01, 66 FR 43795 | (c)(168).
Recording and Recordkeeping Requirements
Section 145.70 | General monitoring requirements | 9/23/00 | 8/21/01, 66 FR 43795 | (c)(168).
Section 145.71 | Initial certification and recertification procedures | 9/23/00 | 8/21/01, 66 FR 43795 | (c)(168).
Section 145.72 | Out of control periods | 9/23/00 | 8/21/01, 66 FR 43795 | (c)(168).
Section 145.73 | Notifications | 9/23/00 | 8/21/01, 66 FR 43795 | (c)(168).
Section 145.74 | Recordkeeping and reporting | 9/23/00 | 8/21/01, 66 FR 43795 | (c)(168).
Section 145.75 | Petitions | 9/23/00 | 8/21/01, 66 FR 43795 | (c)(168).
Section 145.76 | Additional requirements to provide heat input data | 9/23/00 | 8/21/01, 66 FR 43795 | (c)(168).
Opt-In Process
Section 145.80 | Applicability for opt-in sources | 9/23/00 | 8/21/01, 66 FR 43795 | (c)(168).
Section 145.81 | Opt-in source general provisions | 9/23/00 | 8/21/01, 66 FR 43795 | (c)(168).
Section 145.82 | NOX authorized account representative for opt-in sources | 9/23/00 | 8/21/01, 66 FR 43795 | (c)(168).
Section 145.83 | Applying for a NOX budget opt-in approval | 9/23/00 | 8/21/01, 66 FR 43795 | (c)(168).
Section 145.84 | Opt-in process | 9/23/00 | 8/21/01, 66 FR 43795 | (c)(168).
Section 145.85 | NOX budget opt-in application contents | 9/23/00 | 8/21/01, 66 FR 43795 | (c)(168).
Section 145.86 | Opt-in source withdrawal from NOX Budget Trading Program | 9/23/00 | 8/21/01, 66 FR 43795 | (c)(168).
Section 145.87 | Opt-in unit change in regulatory status | 9/23/00 | 8/21/01, 66 FR 43795 | (c)(168).
Section 145.88 | NOX allowance allocations to opt-in units | 9/23/00 | 8/21/01, 66 FR 43795 | (c)(168).
Emission Reduction Credit Provisions
Section 145.90 | Emission reduction credit provisions | 9/23/00 | 8/21/01, 66 FR 43795 | (c)(168).
Interstate Pollution Transport Reduction Requirements
Section 145.100 | Applicability to upwind states | 9/23/00 | 8/21/01, 66 FR 43795 | (c)(168).
Subchapter B.—Emissions of NOX From Stationary Internal Combustion Engines
Section 145.111 | Applicability | 12/11/04 | 9/29/06, 71 FR 57428 | New Section SIP-effective date is 10/30/06.
Section 145.112 | Definitions | 12/11/04 | 9/29/06, 71 FR 57428 | New Section SIP-effective date is 10/30/06.
Section 145.113 | Standard requirements | 12/11/04 | 9/29/06, 71 FR 57428 | New Section SIP-effective date is 10/30/06.
Subchapter C.—Emissions of NOX From Cement Manufacturing
Section 145.141 | Applicability | 12/11/04 | 9/29/06, 71 FR 57428 | New Section SIP-effective date is 10/30/06.
Section 145.142 | Definitions | 12/11/04 | 9/29/06, 71 FR 57428 | New Section SIP-effective date is 10/30/06.
Section 145.143 | Standard requirements | 12/11/04 | 9/29/06, 71 FR 57428 | New Section SIP-effective date is 10/30/06.
Title 67.—Transportation
Part I.—Department of Transportation
Subpart A.—Vehicle Code Provisions
Article VII.—Vehicle Characteristics
Chapter 175—Vehicle Equipment and Inspection
Subchapter A.—General Provisions
Section 175.2 | Definitions | 9/27/97 | 6/17/99, 64 FR 32411 | “Temporary Inspection Approval Indicator” only.
Section 175.2 | Definitions | 12/3/88 | 10/6/05, 70 FR 58313 | Definitions which apply to safety inspection program in non-I/M counties.
Section 175.3 | Application of equipment rules | 12/3/88 | 10/6/05, 70 FR 58313 | Applies to safety inspection program in non-I/M counties.
Section 175.4 | Vehicles required to be inspected | 12/3/88 | 10/6/05, 70 FR 58313 | Applies to safety inspection program in non-I/M counties.
Section 175.6 | Annual inspection | 12/3/88 | 10/6/05, 70 FR 58313 | Applies to safety inspection program in non-I/M counties.
Section 175.7 | Inspection of vehicle reentering this Commonwealth | 12/3/88 | 10/6/05, 70 FR 58313 | Applies to safety inspection program in non-I/M counties.
Section 175.8 | Newly purchased vehicles | 2/9/94 | 10/6/05, 70 FR 58313 | Applies to safety inspection program in non-I/M counties.
Section 175.11 | Coordination of safety and emission in inspection | 9/27/97 | 6/17/99 64 FR 32411 | (c)(139).
Subchapter B.—Official Inspection Stations
Section 175.21 | Appointment | 12/3/88 | 10/6/05, 70 FR 58313 | Applies to safety inspection program in non-I/M counties.
Section 175.22 | Making application | 12/3/88 | 10/6/05, 70 FR 58313 | Applies to safety inspection program in non-I/M counties.
Section 175.23(a) and (c) | Approval | 12/3/88 | 10/6/05, 70 FR 58313 | Applies to safety inspection program in non-I/M counties.
Section 175.24 | Required certificates and station signs | 12/3/88 | 10/6/05, 70 FR 58313 | Applies to safety inspection program in non-I/M counties.
Section 175.25(a), (b)(1), (b)(3), and (c) | Inspection area | 12/3/88 | 10/6/05, 70 FR 58313 | Applies to safety inspection program in non-I/M counties.
Section 175.26(a) introductory sentence and (a)(3) | Tools and equipment | 9/28/88 | 10/6/05, 70 FR 58313 | Applies to safety inspection program in non-I/M counties.
Section 175.27 | Hours | 12/3/88 | 10/6/05, 70 FR 58313 | Applies to safety inspection program in non-I/M counties.
Section 175.28 [Except for (c)(2), (g)(2), (g)(3), and (g)(5)-(9)] | Certified Inspection Mechanics | 12/3/88 | 10/6/05, 70 FR 58313 | Applies to safety inspection program in non-I/M counties.
Section 175.29(f)(4) | Obligations and responsibilities of stations | 9/27/97 | 6/17/99 64 FR 32411 | (c)(139).
Section 175.29 | Obligations and responsibilities of stations | 9/27/97 | 10/6/05, 70 FR 58313 | Applies to safety inspection program in non-I/M counties (except for (f)(4), which applies to I/M and non-I/M programs).
Section 175.31 | Fleet inspection stations | 12/3/88 | 10/6/05, 70 FR 58313 | Applies to safety inspection program in non-I/M counties.
Subchapter C.—Certificate of Inspection
Section 175.41(a), (b)(3), (c), (d)(2)(ii), (d)(2)(iii), (e)(5), (f)(4) | Procedure | 9/27/97 | 6/27/99 64 FR 32411 | (c)(139).
Section 175.41(a), (b)(1), (b)(3), (c), (d), (e)(1), (e)(3), (e)(5), and (f)(4) | Procedure | 9/27/97 | 10/6/05, 70 FR 58313 | Applies statewide to I/M program and non-I/M safety inspection program.
Section 175.42 | Recording inspection | 9/27/97 | 6/17/99 64 FR 32411 |
Section 175.43 | Security | 9/27/97 | 6/17/99, 64 FR 32411 |
Section 175.44 | Ordering certificates of inspection | 9/27/97 | 6/17/99, 64 FR 32411 |
Section 175.45 | Violation of use of certificate of inspection | 9/27/97 | 6/17/99, 64 FR 32411 |
Subchapter D.—Schedule of Penalties and Suspensions: Official Inspection Stations and Certified Mechanics
Section 175.51 | Cause for suspension | 2/19/94 | 10/6/05, 70 FR 58313 | New section; Applies to safety inspection program in non-I/M counties.
Section 175.52 | Reapplication | 12/3/88 | 10/6/05, 70 FR 58313 | New section; Applies to safety inspection program in non-I/M counties.
Subchapter E.—Passenger Cars and Light Trucks
Section 175.61 | Application of subchapter | 12/3/88 | 10/6/05, 70 FR 58313 | New section; Applies to safety inspection program in non-I/M counties.
Section 175.72(d) | Fuel systems | 12/3/88 | 10/6/05, 70 FR 58313 | New section; Applies to safety inspection program in non-I/M counties.
Section 175.80(d) | Inspection procedure | 5/13/99 | 10/6/05, 70 FR 58313 | New section; Applies to safety inspection program in non-I/M counties
Subchapter H.—Motorcycles
Section 175.141 | Application of subchapter | 12/3/88 | 10/6/05, 70 FR 58313 | New section; Applies to safety inspection program in non-I/M counties.
Subchapter J.—Motor-Driven Cycles and Motorized Pedalcycles
Section 175.171 | Application | 12/3/88 | 10/6/05, 70 FR 58313 | New section; Applies to safety inspection program in non-I/M counties.
Subchapter K.—Street Rods, Spedially Constructed and Reconstructed Vehicles
Section 175.201 | Application of subchapter | 12/3/88 | 10/6/05, 70 FR 58313 | New section; Applies to safety inspection program in non-I/M counties.
Section 175.202 | Conditions | 12/3/88 | 10/6/05, 70 FR 58313 | Applies to safety inspection program in non-I/M counties.
Section 175.220(d) [introductory sentence only] | Inspection procedure | 5/13/99 | 10/6/05, 70 FR 58313 | Applies to safety inspection program in non-I/M counties.
Subchapter L.—Animal-Drawn Vehicles, Implemetns of Husbandry and Special Mobile Equipment
Section 175.221 | Application | 12/3/88 | 10/6/05, 70 FR 58313 |
Chapter 177—Enhanced Emission Inspection Program
Subchapter A.—General Provisions
Section 177.1 | Purpose | 10/1/97 | 6/17/99, 64 FR 32411 | (c)(139).
Section 177.2 | Application of equipment rules | 10/1/97 | 6/17/99, 64 FR 32411 | (c)(139).
Section 177.3 | Definitions | 11/22/03 | 10/6/05, 70 FR 58313 |
Implementation of Emission Inspection Program
Section 177.22 | Commencement of inspections | 11/22/03 | 10/6/05, 70 FR 58313 | Retitled and revised.
Section 177.23 | Notification of requirement for emission inspection | 11/22/03 | 10/6/05, 70 FR 58313 |
Section 177.24 | Program evaluation | 11/22/03 | 10/6/05, 70 FR 58313 |
I/M Program
Section 177.51 | Program requirements | 11/22/03 | 10/6/05, 70 FR 58313 | Excludes paragraphs (c)(1), (c)(2), and (c)(3), and reference to those paragraphs.
Section 177.52 | Emission inspection prerequisites | 11/22/03 | 10/6/05, 70 FR 58313 |
Section 177.53 | Vehicle inspection process | 11/22/03 | 10/6/05, 70 FR 58313 |
Subchapter B.—Subject Vehicles
Section 177.101 | Subject vehicles | 11/22/03 | 10/6/05, 70 FR 58313 |
Section 177.102 | Inspection of vehicles reentering this Commonwealth | 9/27/97 | 6/17/99, 64 FR 32411 | (c)(139).
Section 177.103 | Used vehicles after sale or resale | 9/27/97 | 6/17/99, 64 FR 32411 | (c)(139).
Section 177.104 | Vehicles registered in nondesignated areas or other states | 9/27/97 | 6/17/99, 64 FR 32411 | (c)(139).
Section 177.105 | Vehicles requiring emission inspection due to change of address | 11/22/03 | 10/6/05, 70 FR 58313
Subchapter C.—Emission Test Procedures and Emission Standards
General
Section 177.201 | General requirements | 11/22/03 | 10/6/05, 70 FR 58313 |
Section 177.202 | Emission test equipment | 11/22/03 | 10/6/05, 70 FR 58313 |
Section 177.202a | OBD-I/M check equipment | 11/22/03 | 10/6/05, 70 FR 58313 | New section.
Section 177.202b | Equipment for gas cap test and visual inspection | 11/22/03 | 10/6/05, 70 FR 58313 | New section.
Section 177.203 | Test procedures | 11/22/03 | 10/6/05, 70 FR 58313 |
Section 177.204 | Basis for failure | 11/22/03 | 10/6/05, 70 FR 58313 | Retitled and revised.
Recall Provisions
Section 177.231 | Requirements regarding manufacturer recall notices | 9/27/97 | 6/17/99, 64 FR 32411 | (c)(139).
Section 177.232 | Compliance with recall notices | 9/27/97 | 6/17/99, 64 FR 32411 | (c)(139).
Section 177.233 | Failure to comply | 9/27/97 | 6/17/99, 64 FR 32411 | (c)(139).
Emission Inspection Report
Section 177.251 | Record of test results | 9/27/97 | 6/17/99, 64 FR 32411 | (c)(139).
Section 177.252 | Emission inspection report | 11/22/03 | 10/06/05, 70 FR 58313 | Retitled and revised.
Section 177.253 | Responsibility of the station owner for vehicles which fail the emission inspection | 11/22/03 | 10/06/05, 70 FR 58313 | Retitled and revised.
Retest
Section 177.271 | Procedure | 11/22/03 | 10/06/05, 70 FR 58313 |
Section 177.272 | Prerequisites | 11/22/03 | 10/06/05, 70 FR 58313 |
Section 177.273 | Content of repair data form | 11/22/03 | 10/06/05, 70 FR 58313 |
Section 177.274 | Retest fees | 11/22/03 | 10/06/05, 70 FR 58313 |
Section 177.275 | Repair technician training and certification | 11/22/03 | 10/06/05, 70 FR 58313 | New section.
Issuance of Waiver
Section 177.281 | Issuance of waiver | 11/22/03 | 10/06/05, 70 FR 58313 |
Section 177.282 | Annual adjustment of minimum waiver expenditure for emission inspections | 11/22/03 | 10/06/05, 70 FR 58313 | Excludes/removes the sentence and partial sentence, “The minimum expenditure for the first 2 years after commencement of the program in an affected area is $150. Beginning with the 3rd year of the program in an affected area”.
Procedures Relating to Certificates of Emission Inspection
Section 177.291 | Procedures Relating to Certificates of emission inspection | 11/22/03 | 10/06/05, 70 FR 58313 | Retitled and revised
Section 177.292 | Recording inspection | 11/22/03 | 10/06/05, 70 FR 58313 |
On-Road Testing
Section 177.301 | Authorization to conduct on-road emission testing | 9/27/97 | 6/17/99, 64 FR 32411 | (c)(139).
Section 177.302 | On-road testing devices | 9/27/97 | 6/17/99, 64 FR 32411 | (c)(139).
Section 177.304 | Failure of on-road emission test | 11/22/03 | 10/06/05, 70 FR 58313 |
Section 177.305 | Failure to produce proof of correction of on-road emission test failure | 9/27/97 | 6/17/99, 64 FR 32411 | (c)(139).
Subchapter D.—Official Emission Inspection Station Requirements
Section 177.401 | Appointment | 11/22/03 | 10/06/05, 70 FR 58313 |
Section 177.402 | Application | 9/27/97 | 6/17/99, 64 FR 32411 | (c)(139).
Section 177.403 | Approval of emission inspection station | 9/27/97 | 6/17/99, 64 FR 32411 | (c)(139).
Section 177.404 | Required certificates and station signs | 11/22/03 | 10/6/05, 70 FR 58313 |
Section 177.405 | Emission inspection areas | 11/22/03 | 10/6/05, 70 FR 58313 |
Section 177.406 | Equipment | 11/22/03 | 10/6/05, 70 FR 58313 | Retitled and revised.
Section 177.407 | Hours of operation | 11/22/03 | 10/6/05, 70 FR 58313 |
Section 177.408 | Certified emission inspectors | 11/22/03 | 10/6/05, 70 FR 58313 |
Obligations and Responsibilities of Station Owners/Agents
Section 177.421 | Obligations and responsibilities of station owners/agents | 11/22/03 | 10/6/05, 70 FR 58313 |
Section 177.422 | Commonwealth emission inspection stations | 11/22/03 | 10/6/05, 70 FR 58313 | Retitled and revised.
Section 177.423 | Fleet emission inspection stations | 11/22/03 | 10/6/05, 70 FR 58313 | Retitled and revised.
Section 177.424 | General emission inspection stations | 11/22/03 | 10/6/05, 70 FR 58313 |
Section 177.425 | Security | 11/22/03 | 10/6/05, 70 FR 58313 |
Section 177.426 | Ordering certificates of emission inspection | 9/27/97 | 6/17/99, 64 FR 32411 | (c)(139).
Section 177.427 | Violations of use of certificate of emission inspection | 9/27/97 | 6/17/99, 64 FR 32411 | (c)(139).
Quality Assurance
Section 177.431 | Quality assurance | 11/22/03 | 10/6/05, 70 FR 58313
Subchapter E.—Equipment Manufacturers' and Contractors' Requirements and Obligations
Equipment Manufacturers' Requirements
Section 177.501 | Equipment approval procedures | 11/22/03 | 10/6/05, 70 FR 58313
Section 177.502 | Service commitment | 11/22/03 | 10/6/05, 70 FR 58313
Section 177.503 | Performance commitment | 11/22/03 | 10/6/05, 70 FR 58313
Section 177.504 | Revocation of approval | 9/27/97 | 6/17/99, 64 FR 32411 | (c)(139).
Contractor Obligations
Section 177.521 | Contractor obligations and responsibilities | 11/22/03 | 10/6/05, 70 FR 58313
Subchapter F.—Schedule of Penalties and Hearing Procedure
Schedule of Penalties and Suspensions
Section 177.601 | Definitions | 11/22/03 | 10/6/05, 70 FR 58313 | New section.
Section 177.602 | Schedule of penalties for emission inspection stations | 11/22/03 | 10/6/05, 70 FR 58313
Section 177.603 | Schedule of penalties for emission inspectors | 11/22/03 | 10/6/05, 70 FR 58313
Additional Violations
Section 177.605 | Subsequent violations | 11/22/03 | 10/6/05, 70 FR 58313
Section 177.606 | Multiple violations | 9/27/97 | 6/17/99, 64 FR 32411 | (c)(139).
Departmental Hearing Procedure
Section 177.651 | Notice of alleged violation and opportunity to be heard prior to immediate suspension | 11/22/03 | 10/6/05, 70 FR 58313 | Retitled and revised.
Section 177.652 | Official documents | 9/27/97 | 6/17/99, 64 FR 32411 | (c)(139).
Restoration After Suspension
Section 177.671 | Restoration of certification of an emission inspector after suspension | 9/27/97 | 6/17/99, 64 FR 32411 | (c)(139).
Section 177.672 | Restoration of certification of an emission inspection station after suspension | 9/27/97 | 6/17/99, 64 FR 32411 | (c)(139).
Section 177.673 | Restoration of certification of certified repair technician after suspension | 9/27/97 | 6/17/99, 64 FR 32411 | (c)(139).
Registration Recall Procedure for Violation of §§ 177.301-177.305 (Relating to On-Road Resting)
Section 177.691 | Registration Recall Committee | 11/22/03 | 10/6/05, 70 FR 58313
Appendix A | Acceleration Simulation Mode: Pennsylvania Procedures, Standards, Equipment Specifications and Quality Control Requirements | 11/22/03 | 10/6/05, 70 FR 58313 | Replaces previous Appendix A.
Appendix B | Department Procedures and Specifications | 11/22/03 | 10/6/05, 70 FR 58313 | Replaces previous Appendix B.

(2) EPA-Approved Allegheny County Health Department (ACHD) Regulations
Article XX or XXI Citation | Title/subject | State effective date | EPA approval date | Additional explanation/§ 52.2063 citation
Part A—General
2101.01 | Short Titles | 10/20/95 | 11/14/02 67 FR 68935 | In SIP at 52.2020(c)(92); citation change only at (c)(192)
2101.02.a, 02.c | Declaration of Policy and Purpose | 10/20/95 | 11/14/02 67 FR 68935 | (c)(192)
2101.03 | Effective Date and Repealer | 10/20/95 | 11/14/02 67 FR 68935 | In SIP at (c)(92); citation change only at (c)(192)
2101.04 | Existing Orders | 10/20/95 | 11/14/02 67 FR 68935 | (c)(192)
2101.05 | Existing Permits and Licenses | 3/31/98 | 8/30/04 69 FR 52831 | 52.2420(c)(209)
2101.06 | Construction and Interpretation | 10/20/95 | 11/14/02 67 FR 68935 | (c)(192)
2101.07 (Except paragraphs .07.c.2 and c.8) | Administration and Organization | 10/20/95 | 11/14/02 67 FR 68935 | (c)(192)
2101.10 | Ambient Air Quality Standards (Except: PM10—County & Free silica portion; Pb (1-hr & 8-hr avg.); settled particulates, beryllium, sulfates, fluorides, and hydrogen sulfide) | 10/20/95 | 11/14/02 67 FR 68935 | (c)(192)
2101.11 | Prohibition of Air Pollution | 10/20/95 | 11/14/02 67 FR 68935 | (c)(192)
2101.12 | Interstate Air Pollution | 10/20/95 | 11/14/02 67 FR 68935 | (c)(192)
2101.13 | Nuisances | 10/20/95 | 11/14/02 67 FR 68935 | (c)(192)
2101.14 | Circumvention | 10/20/95 | 11/14/02 67 FR 68935 | (c)(192)
2101.20 | Definitions | 10/20/95 | 11/14/02 67 FR 68935 | (c)(192)
2101.20 | Definitions related to gasoline volatility | 5/15/98 9/1/99 | 4/17/01 66 FR 19724 | (c)(151)
2101.20 | Definitions | 7/10/03 | 6/24/05 70 FR 36511 |
Part B—Permits Generally
2102.01 | Certification | 10/20/95 | 11/14/02 67 FR 68935 | (c)(192)
2102.02 | Applicability | 10/20/95 | 11/14/02 67 FR 68935 | (c)(192)
2102.03.a through .k | Permits Generally | 10/20/95 | 11/14/02 67 FR 68935 | (c)(192)
2102.04 | Installation Permits | 10/20/95 | 11/14/02 67 FR 68935 | (c)(192)
2102.05 | Installation Permits for New and Modified Major Sources |  | 11/14/02 67 FR 68935 | (c)(192)
2102.06 | Major Sources Locating in or Impacting a Nonattainment Area | 10/20/95 | 11/14/02 67 FR 68935 | (c)(192)
2102.08 | Emission Offset Registration | 10/20/95 | 11/14/02 67 FR 68935 | (c)(192)
2102.10 | Installation Permit Application and Administration Fees |  | 11/14/02 67 FR 68935 | (c)(192)
Part C—Operating Permits
2103.01 | Transition | 10/20/95 | 8/30/04 69 FR 52831 | (c)(209)
Subpart 1—Operating Permits (All Major and Minor Permits)
2103.10.a., b. | Applicability, Prohibitions, Records | 10/20/95 | 11/14/02 67 FR 68935 | (c)(192)
2103.11 | Applications | 10/20/95 | 8/30/04 69 FR 52831 | (c)(209)
2103.12 | Issuance, Standard Conditions | 3/31/98 | 8/30/04 69 FR 52831 | (c)(209)
2103.13 | Expiration, Renewals, Reactivation | 10/20/95 | 8/30/04 69 FR 52831 | (c)(209)
2103.14 | Revisions, Amendments, Modifications | 1/12/01 | 8/30/04 69 FR 52831 | (c)(209)
2103.15 | Reopenings, Revocations | 10/20/95 | 8/30/04 69 FR 52831 | (c)(209)
Subpart 2—Additional Requirements for Major Permits
2103.20.b.4 | Applicability, Prohibitions, Records | 10/20/95 | 11/14/02 67 FR 68935 | (c)(192)
Part D—Pollutant Emission Standards
2104.01 | Visible Emissions | 10/20/95 | 11/14/02 67 FR 68935 | (c)(192)
2104.02 | Particualte Mass Emissions | 8/15/97 | 6/12/98 63 FR 32126 | (c)(133)(i)(B)(); Citation changes approved on 11/12/02 (67 FR 68935) at (c)(192)
2104.03 | Sulfur Oxide Emissions | 7/10/03 | 7/21/04 69 FR 43522 | (c)(216)(i)(C)
2104.05 | Materials Handling | 10/20/95 | 11/14/02 67 FR 68935 | (c)(192)
2104.06 | Violations | 10/20/95 | 11/14/02 67 FR 68935 | (c)(192)
2104.07 | Stack Heights | 10/20/95 | 11/14/02 67 FR 68935 | (c)(192)
Part E—Source Emission and Operating Standards
2105.01 | Equivalent Compliance Techniques | 7/10/03 | 6/24/05 70 FR 36511 |
2105.02 | Other Requirements Not Affected | 10/20/95 | 11/14/02 67 FR 68935 | (c)(192)
2105.03 | Operation and Maintenance | 10/20/95 | 11/14/02 67 FR 68935 | (c)(192)
2105.04 | Temporary Shutdown of Incineration Equipment | 10/20/95 | 11/14/02 67 FR 68935 | (c)(192)
2105.06 | Major Sources of Nitrogen Oxides and Volatile Organic Compounds | 10/20/95 | 10.7.02 67 FR 62389 | (c)(157)
Subpart 1—VOC Sources
2105.10 | Surface coating Processes | 7/10/03 | 6/24/05 70 FR 36511 |
2105.11 | Graphic Arts Systems | 10/20/95 |  | (c)(192)
2105.12 | Volatile Organic Compound Storage Tanks | 10/20/95 | 11/14/02 67 FR 68935 | (c)(192)
2105.13 | Gasoline Loading Facilities | 10/20/95 | 11/14/02 67 FR 68935 | (c)(192)
2105.14 | Gasoline Dispensing Facilities | 10/20/95 | 11/14/02 67 FR 68935 | (c)(192)
2105.15 | Degreasing Operations | 10/20/95 | 11/14/02 67 FR 68935 | (c)(192)
2105.16 | Cutback Asphalt Paving | 10/20/95 | 11/14/02 67 FR 68935 | (c)(192)
2105.17 | Ethylene Production Processes | 10/20/95 | 11/14/02 67 FR 68935 | (c)(192)
Article XX, Section 532 | Dry Cleaning Facilities | 1/1/82 | 1/21/83 48 FR 2768 | (c)(49)
2105.19 | Synthetic Organic Chemical & Polymer Manufacturing-Fugitive Sources | 10/20/95 | 11/14/02 67 FR 68935 | (c)(192)
Subpart 2—Slag, Coke, and Miscellaneous Sulfur Sources
2105.20 | Slag Quenching | 10/20/95 | 11/14/02 67 FR 68935 | (c)(192)
2105.21 | Coke Ovens and Coke Oven Gas | 8/15/97 | 6/12/98 63 FR 32126 | (c)(133); 1. EPA approved Revisions effective 7/11/95 on 9/8/98 (63 FR 47434) at (c)(135). 2. EPA approved revisions effective 10/20/95 on 11/14/02 (67 FR 68935) at (c)(192).
2105.22 | Miscellaneous Sulfur Emitting Processes | 10/20/95 | 11/14/02 67 FR 68935 | (c)(192)
Subpart 3—Incineration and Combustion Sources
2105.30 (except paragraphs .b.3. and .f) | Incinerators | 10/20/95 | 11/14/02 67 FR 68935 | (c)(192); Section 2105.30.f. is Federally enforceable as part of the applicable section 111(d) plan
Subpart 4—Miscellaneous Fugitive Sources
2105.40 | Permit Source Premises | 10/20/95 | 11/14/02 67 FR 68935 | (c)(192)
2105.41 | Non-permit Premises | 10/20/95 | 11/14/02 67 FR 68935 | (c)(192)
2105.42 | Parking Lots and Roadways | 10/20/95 | 11/14/02 67 FR 68935 | (c)(192)
2105.43 | Permit Source Transport | 10/20/95 | 11/14/02 67 FR 68935 | (c)(192)
2105.44 | Non-Permit Source Transport | 10/20/95 | 11/14/02 67 FR 68935 | (c)(192)
2105.45 | Construction and Land Clearing | 10/20/95 | 11/14/02 67 FR 68935 | (c)(192)
2105.46 | Mining | 10/20/95 | 11/14/02 67 FR 68935 | (c)(192)
2105.47 | Demolition | 10/20/95 | 11/14/02 67 FR 68935 | (c)(192)
2105.48 | Areas Subject to Sections 2105.40 Through 2105.47 | 10/20/95 | 11/14/02 67 FR 68935 | (c)(192)
2105.49.a, .b | Fugitive Emissions | 10/20/95 | 11/14/02 67 FR 68935 | (c)(192)
Subpart 5—Open Burning and Abrasive Blasting Sources
2105.50 (except paragraph .50.d) | Open Burning | 10/20/95 | 11/14/02 67 FR 68935 | (c)(192)
Article XX, Section 533 | Abrasive Blasting | 10/9/86 | 10/19/87 51 FR 38758 | (c)(69)
Subpart 7—Miscellaneous VOC Sources
2105.70 | Petroleum Refineries | 10/20/95 | 11/14/02 67 FR 68935 | (c)(192)
2105.71 | Pharmaceutical Products | 10/20/95 | 11/14/02 67 FR 68935 | (c)(192)
2105.72 | Manufacturer of Pneumatic Rubber Tires | 10/20/95 | 11/14/02 67 FR 68935 | (c)(192)
2105.74 | Aerospace Manufacturing and Rework | 7/10/03 | 6/24/05 70 FR 36511 |
2105.75 | Mobile Equipment Repair and Refinishing | 7/10/03 | 6/24/05 70 FR 36511 |
2105.76 | Wood Furniture Manufacturing Operations | 7/10/03 | 6/24/05 70 FR 36511 |
Subpart 9—Transportation Related Sources
2105.90 | Gasoline Volatility | 5/15/98 9/1/99 | 4/17/01 66 FR 19724 | (c)(151)
Part F—Air Pollution Episodes
2106.01 | Air Pollution Episode System | 10/20/95 | 11/14/02 67 FR 68935 | (c)(192)
2106.02 | Air Pollution Source Curtailment Plans | 10/20/95 | 11/14/02 67 FR 68935 | (c)(192)
2106.03 | Episode Criteria | 10/20/95 | 11/14/02 67 FR 68935 | (c)(192)
2106.04 | Episode Actions | 10/20/95 | 11/14/02 67 FR 68935 | (c)(192)
2106.05 | USX-Clairton Works PM-10 Self Audit Emergency Action Plan | 8/15/97 | 6/12/98 63 FR 32126 | (c)(133)(i)(B)(3)
Part G—Methods
2107.01 | General | 10/20/95 | 11/14/02 67 FR 68935 | (c)(192)
2107.02 | Particulate Matter | 10/20/95 | 11/14/02 67 FR 68935 | (c)(192)
2107.03 | Sulfur Oxides | 10/20/95 | 11/14/02 67 FR 68935 | (c)(192)
2107.04 (except paragraph .04.h) | Volatile Organic Compounds | 10/20/95 | 11/14/02 67 FR 68935 | (c)(192)
2107.05 | Nitrogen Oxides | 10/20/95 | 11/14/02 67 FR 68935 | (c)(192)
2107.06 | Incinerator Temperatures | 10/20/95 | 11/14/02 67 FR 68935 | (c)(192)
2107.07 | Coke Oven Emissions | 10/20/95 | 11/14/02 67 FR 68935 | (c)(192)
2107.08 | Coke Oven Gas | 10/20/95 | 11/14/02 67 FR 68935 | (c)(192)
2107.10 | Sulfur Content of Coke | 10/20/95 | 11/14/02 67 FR 68935 | (c)(192)
2107.11 | Visible Emissions | 10/20/95 | 11/14/02 67 FR 68935 | (c)(192)
2107.15 | Gasoline Volatility and RFG | 5/15/98 | 4/17/01 66 FR 19724 | (c)(151)
2107.20.c, .g through .j, .m and .n | Ambient Measurements | 10/20/95 | 11/14/02 67 FR 68935 | (c)(192)
Part H—Reporting, Testing & Monitoring
2108.01 | Reports Required | 10/20/95 | 11/14/02 67 FR 68935 | (c)(192)
2109.01.a. | Termination of Operation | 10/20/95 | 11/14/02 67 FR 68935 | (c)(192)
2108.01.b | Shutdown of Control Equipment | 10/20/95 | 11/14/02 67 FR 68935 | (c)(192)
2108.01.c | Breakdowns | 10/20/95 | 11/14/02 67 FR 68935 | (c)(192)
2108.01.d. | Cold Start | 10/20/95 | 11/14/02 67 FR 68935 | (c)(192)
2108.01.e (Except paragraphs e.1.A & .B) | Emissions Inventory Statements | 10/20/95 | 11/14/02 67 FR 68935 | (c)(192)
2108.01.f | Orders | 10/20/95 | 11/14/02 67 FR 68935 | (c)(192)
2108.01.g | Violations | 10/20/95 | 11/14/02 67 FR 68935 | (c)(192)
2108.02 | Emissions Testing | 10/20/95 | 11/14/02 67 FR 68935 | (c)(192)
2108.03 | Continuous Emissions Monitoring | 10/20/95 | 11/14/02 67 FR 68935 | (c)(192)
2108.04 | Ambient Monitoring | 10/20/95 | 11/14/02 67 FR 68935 | (c)(192)
Part I—Enforcement
2109.01 | Inspections | 10/20/95 | 11/14/02 67 FR 68935 | (c)(192)
2109.02 (except paragraph .02.a.7) | Remedies | 10/20/95 | 11/14/02 67 FR 68935 | (c)(192)
2109.03a. (introductory sentence), b. through f | Enforcement Orders | 10/20/95 | 11/14/02 67 FR 68935 | (c)(192)
2109.04 | Orders Establishing an Additional or More Restrictive Standard | 10/20/95 | 11/14/02 67 FR 68935 | (c)(192)
2109.05 | Emergency Orders | 10/20/95 | 11/14/02 67 FR 68935 | (c)(192)
2109.06 (Except paragraphs .06a.a.2, .a.3, and .a.4) | Civil Proceedings | 10/20/95 | 11/14/02 67 FR 68935 | (c)(192)
2109.10 | Appeals | 10/20/95 | 11/14/02 67 FR 68935 | (c)(192)
2109.20 | General Federal Conformity | 10/20/95 | 11/14/02 67 FR 68935 | (c)(192)

(3) EPA-Approved Philadelphia AMS Regulations
Rule citation | Title/subject | State effective date | EPA approval date | Additional explanation/§ 52.2063 citation
Title 3—Air Management Code
Chapter 3-100 | General Provisions | 10/20/69 | 5/31/72 37 FR 10842 | (c)(1)
Chapter 3-200 (Except § 3-207(4)) | Prohibited Conduct | 10/4/76 | 6/4/79 44 FR 31980 | (c)(18)
Chapter 3-300 | Administrative Provisions | 9/21/72 | 3/12/79 44 FR 13480 | (c)(15)
Regulation I—General Provisions
Section I | Definitions | 4/29/70 | 5/31/72 37 FR 10842 | (c)(1)
Section II (Except portions of paragraph II.B) | Source Registration and Emission Reporting | 5/4/74 | 9/9/75 40 FR 41787 | (c)(12)
Section III | Testing and Test Methods | 4/29/70 | 5/31/72 37 FR 10842 | (c)(1)
Section IV | Availability of Technology | 4/29/70 | 5/31/72 37 FR 10842 | (c)(1)
Section V | Improvement and Plan | 4/29/70 | 5/31/72 37 FR 10842 | (c)(1)
Section VI | Pre-existing Regulations | 4/29/70 | 5/31/72 37 FR 10842 | (c)(1)
Section VII | Circumvention | 4/29/70 | 5/31/72 37 FR 10842 | (c)(1)
Section VIII | Severability | 4/29/70 | 5/31/72 37 FR 10842 | (c)(1)
Section IX | Effective Date | 4/29/70 | 5/31/72 37 FR 10842 | (c)(1)
Section XI.D | Compliance with Federal Regulations—Stack Height Regulations | 3/27/86 | 1/23/89 54 FR 3029 | (c)(70)
Regulation II—Air Contaminant and Particulate Matter Emissions
Section I | No Title [General Provisions] | 4/29/70 | 5/31/72 37 FR 10842 | (c)(1)
Section II | Open Fires | 4/29/70 | 5/31/72 37 FR 10842 | (c)(1)
Section IV | Visible Emissions | 5/4/74 | 9/9/75 40 FR 41787 | (c)(12)
Section V | Particulate Matter Emissions from the Burning of Fuels | 8/27/81 | 4/16/82 47 FR 16325 | (c)(43)
Section VI | Selection of Fuel for Particulate Matter Emission Control | 4/29/70 | 5/31/72 37 FR 10842 | (c)(1)
Section VII | Particulate Matter Emissions from Chemical, Metallurgical, Mechanical and Other Processes | 4/29/70 | 5/31/72 37 FR 10842 | (c)(1)
Section VIII | Fugitive Dust | 4/29/70 | 5/31/72 37 FR 10842 | (c)(1)
Table 1 | No Title [Allowable Process Weight Emissions] | 4/29/70 | 5/31/72 37 FR 10842 | (c)(1)
Regulation III—The Control of Emissions of Oxides and Sulfur Compounds
Section I | No Title [General Provisions] | 4/29/70 | 5/31/72 37 FR 10842 | (c)(1)
Section II | Control of Emission of Sulfur Compounds | 5/10/80 | 9/17/81 46 FR 46133 | (c)(37)
Section III | Control of Sulfur in Fuels | 8/27/81 | 4/16/82 47 FR 16325 | (c)(43)
Regulation IV—Governing Air Pollution Control Measures During High Air Pollution Episodes
Section I | Definitions | 2/5/71 | 5/31/72 37 FR 10842 | (c)(1)
Section II | Declaration of Conditions | 2/5/71 | 5/31/72 37 FR 10842 | (c)(1)
Section III | Termination of Conditions | 2/5/71 | 5/31/72 37 FR 10842 | (c)(1)
Section IV | Alert and Notification System by the Health Commissioner and the Emergency Coordinator | 2/5/71 | 5/31/72 37 FR 10842 | (c)(1)
Section V | Advance Preparation for High Air Pollution Episodes | 2/5/71 | 5/31/72 37 FR 10842 | (c)(1)
Section VI | Actions and Restrictions | 2/5/71 | 5/31/72 37 FR 10842 | (c)(1)
Section VII | Severability | 2/5/71 | 5/31/72 37 FR 10842 | (c)(1)
Section VIII | Effective Date | 2/5/71 | 5/31/72 37 FR 10842 | (c)(1)
Table I | Minimum Abatement Strategies for Emission Reduction Plans—Stage I Condition | 2/5/71 | 5/31/72 37 FR 10842 | (c)(1)
Table II | Minimum Abatement Strategies for Emission Reduction Plans—Emergency Condition | 2/5/71 | 5/31/72 37 FR 10842 | (c)(1)
Table III | Minimum Abatement Strategies for Emission Reduction Plans—Emergency Condition | 2/5/71 | 5/31/72 37 FR 10842 | (c)(1)
Table IV | Emergency Business and Establishment List | 2/5/71 | 5/31/72 37 FR 10842 | (c)(1)
Regulation V—Control of Emissions of Organic Substances From Stationary Sources
Section I (Except for definitions related to paragraphs V.C. & V.D.) | Definitions | 11/28/86 | 6/16/93 58 FR 33200 | (c)(83)
Section I | Definitions | 5/23/88 | 4/6/93 48 FR 17778 | (c)(78)
Section II | Storage Tanks | 7/10/71 | 5/31/72 37 FR 10842 | (c)(1)
Section III | Oil-Effluent Water Separator | 7/10/71 | 5/31/72 37 FR 10842 | (c)(1)
Section IV | Pumps and Compressors | 7/10/71 | 5/31/72 37 FR 10842 | (c)(1)
Section V (Except paragraphs V.C. and V.D.) | Organic Material Loading | 7/10/71 | 5/31/72 37 FR 10842 | (c)(1)
Section VI | Solvents | 7/10/71 | 5/31/72 37 FR 10842 | (c)(1)
Section VII | Processing of Photochemically Reactive Materials | 7/10/71 | 5/31/72 37 FR 10842 | (c)(1)
Section VIII | Architectural Coatings | 7/10/71 | 5/31/72 37 FR 10842 | (c)(1)
Section IX | Disposal of Solvents | 7/10/71 | 5/31/72 37 FR 10842 | (c)(1)
Section X | Compliance with Pennsylvania Standards for Volatile Organic Compounds (VOC) | 11/28/86 | 6/16/93 58 FR 33192 | (c)(82)
Section XI | Petroleum Solvent Dry Cleaning | 11/28/86 | 4/12/93 58 FR 19066 | (c)(77)
Section XII | Pharmaceutical Tablet Coating | 11/28/86 | 6/16/93 58 FR 33200 | (c)(83)
Section XIII | Process Equipment Leaks | 5/23/98 | 4/6/93 58 FR 17778 | (c)(78)
Section XXII | Circumvention | 7/10/71 recodified | 5/31/72 37 FR 10842 | (c)(1)
Section XXIII | Severability | 7/10/71 recodified 5/23/88 | 5/31/72 37 FR 10842 | (c)(1)
Section XXIV | Effective Date | 7/10/71 recodified 5/23/88 | 5/31/72 37 FR 10842 | (c)(1)
Regulation VII—Control of Emissions of Nitrogen Oxides From Stationary Sources
Section I | Definitions | 7/1/72 | 5/14/73 38 FR 12696 | (c)(7)
Section II | Fuel Burning Equipment | 11/20/85 | 1/14/87 52 FR 1456 | (c)(65)
Section III | Nitric Acid Plants | 7/1/72 | 5/14/73 38 FR 12696 | (c)(7)
Section IV | Emissions Monitoring | 7/1/72 | 5/14/73 38 FR 12696 | (c)(7)
Section V | Circumvention | 7/1/72 | 5/14/73 38 FR 12696 | (c)(7)
Section VI | Severability | 7/1/72 | 5/14/73 38 FR 12696 | (c)(7)
Section VII | Effective Date | 7/1/72 | 5/14/73 38 FR 12696 | (c)(7)
Regulation VIII—Control of Emissions of Carbon Monoxide From Stationary Sources
Section I | Definitions | 8/20/72 | 5/14/73 38 FR 12696 | (c)(7)
Section II | General | 8/20/72 | 5/14/73 38 FR 12696 | (c)(7)
Section III | Emissions Monitoring | 8/20/72 | 5/14/73 38 FR 12696 | (c)(7)
Section IV | Circumvention | 8/20/72 | 5/14/73 38 FR 12696 | (c)(7)
Section V | Severability | 8/20/72 | 5/14/73 38 FR 12696 | (c)(7)
Section VI | Effective Date | 8/20/72 | 5/14/73 38 FR 12696 | (c)(7)
Regulation XI—Control of Emissions From Incinerators
Section I | Definitions | 5/4/74 | 9/9/75 40 FR 41787 | (c)(12)
Section II | General Provisions | 5/4/74 | 9/9/75 40 FR 41787 | (c)(12)
Section III (Except paragraph III.E. (odors)) | Emissions Limitations | 5/4/74 | 9/9/75 40 FR 41787 | (c)(12)
Section IV | Design | 5/4/74 | 9/9/75 40 FR 41787 | (c)(12)
Section V | Operation | 5/4/74 | 9/9/75 40 FR 41787 | (c)(12)
Section VI | Permits and Licenses | 5/4/74 | 9/9/75 40 FR 41787 | (c)(12)
Section VII | Circumvention | 5/4/74 | 9/9/75 40 FR 41787 | (c)(12)
Section VIII | Severability | 5/4/74 | 9/9/75 40 FR 41787 | (c)(12)
Section IX | Effective Date | 5/4/74 | 9/9/75 40 FR 41787 | (c)(12)
Regulation XIII Construction, Modification, Reactivation and Operation of Sources
Section I | Introduction | 10/30/95 | 3/28/03 68 FR 15059 | (c)(203)
Section II | Program Adoption | 10/30/95 | 3/28/03 68 FR 15059 | (c)(203)

(d) EPA-approved source-specific requirements.

(1) EPA-Approved Source-Specific Reasonably Available Control Technology (RACT) Requirements for Volatile Organic Compounds (VOC) and Oxides of Nitrogen (NOX)
Name of source | Permit number | County | State effective date | EPA approval date | Additional explanation/§ 52.2063 citation
For exceptions, see the applicable paragraphs in 40 CFR § 52.2063(c)
ARCO Chemical Company | 04-313-052 | Beaver | 12/9/86 | 5/16/90 55 FR 20267 | (c)(71)
IMC Chemical Group | 39-313-014 | Lehigh | 12/10/86 | 5/16/90 55 FR 20267 | (c)(72)
Aristech Chemical Corp | 86-I-0024-P | Allegheny | 8/28/86 3/3/87 | 6/16/93 58 FR 33197 | (c)(80)
The Knoll Group | 46-326-001A | Montgomery | 3/24/93 | 10/19/93 58 FR 53885 | (c)(87)
ESSROC Materials | PA-48-0004A | Northampton | 12/20/94 | 08/08/95 60 FR 40292 | (c)(98)(i)(B)(1)
Pennsylvania Power and Light Co. (PP&L)—Brunner Island | PA-67-2005 | York | 12/22/94 | 08/08/95 60 FR 40292 | (c)(98)(i)(B)(2)
PPG Industries, Inc.—South Middleton | OP-21-2002 | Cumberland | 12/22/94 | 08/08/95 60 FR 40292 | (c)(98)(i)(B)(3)
Stroehmann Bakeries—Dauphin County | PA-22-2003 | Dauphin | 12/22/94 | 08/08/95 60 FR 40292 | (c)(98)(i)(B)(4)
General Electric Transportation Systems—Erie | OP-25-025 | Erie | 12/21/94 | 08/08/95 60 FR 40292 | (c)(98)(i)(B)(5)
J. E. Baker Co. (Refractories)—York | OP-67-2001 | York | 12/22/94 | 08/08/95 60 FR 40292 | (c)(98)(i)(B)(6)
Lafarge Corp. | OP-39-0011 | Lehigh | 12/23/94 | 08/08/95 60 FR 40292 | (c)(98)(i)(B)(7 )
Lafarge Corp. | PA-39-0011A | Lehigh | 12/23/94 | 08/08/95 60 FR 40292 | (c)(98)(i)(B)(7 )
West Penn Power—Armstrong | PA-03-000-023 | Armstrong | 12/29/94 | 08/08/95 60 FR 40292 | (c)(98)(i)(B)(8)
West Penn Power—Armstrong | PA-03-306-004 | Armstrong | 3/28/94 | 08/08/95 60 FR 40292 | (c)(98)(i)(B)(8)
West Penn Power—Armstrong | PA-03-306-006 | Armstrong | 11/22/94 | 08/08/95 60 FR 40292 | (c)(98)(i)(B)(8)
Plain and Fancy Kitchens, Inc | PA-38-318-019C | Lebanon | 12/23/94 | 08/08/95 60 FR 40292 | (c)(98)(i)(B)(9)
Stroehmann Bakeries—Bradford County | PA-08-0001 | Bradford | 2/9/95 | 08/10/95 60 FR 40758 | (c)(101)(i)(B)
Stroehmann Bakeries—Bradford County | OP-08-0001A | Bradford | 2/9/95 | 08/10/95 60 FR 40758 | (c)(101)(i)(B)
Stroehmann Bakeries—Lycoming County | PA-41-0001 | Lycoming | 2/9/95 | 08/10/95 60 FR 40758 | (c)(101)(i)(B)
Stroehmann Bakeries—Lycoming County | OP-41-0001A | Lycoming | 2/9/95 | 08/10/95 60 FR 40758 | (c)(101)(i)(B)
Philadelphia Electric Co. (PECO)—Eddystone | OP23-0017 | Delaware | 12/28/94 | 09/08/95 60 FR 46768 | (c)(102)(i)(B)(1)
Philadelphia Electric Co. (PECO)—Eddystone | PA23-0017 | Delaware | 12/28/94 | 09/08/95 60 FR 46768 | (c)(102)(i)(B)(1)
Gilberton Power Co.—John Rich Memorial | OP-54-0004 | Schuylkill | 12/20/94 | 09/08/95 60 FR 46768 | (c)(102)(i)(B)(2)
Bethlehem Steel—Coke and Chemical Production | OP-48-0013 | Northampton | 12/20/94 | 09/08/95 60 FR 46768 | (c)(102)(i)(B)(3)
Bethlehem Steel—Foundry | OP-48-0014 | Northampton | 12/20/94 | 09/08/95 60 FR 46768 | (c)(102)(i)(B)(3)
Bethlehem Steel—Structural Products | OP-48-0010 | Northampton | 12/20/94 | 09/08/95 60 FR 46768 | (c)(102)(i)(B)(3)
Bethlehem Steel—Forging | OP-48-0015 | Northampton | 12/20/94 | 09/08/95 60 FR 46768 | (c)(102)(i)(B)(3)
Westwood Energy Properties, Inc. (CRS Sirrine, Inc.) | OP-54-000-6 | Schuylkill | 12/27/94 | 09/08/95 60 FR 46768 | (c)(102)(i)(B)(4)
PECO Energy Co.—Front Street | OP-46-0045 | Montgomery | 3/31/95 | 09/08/95 60 FR 46768 | (c)(102)(i)(B)(5)
Crawford Furniture Manufacturing Corp.—Clarion County | OP-16-021 | Clarion | 3/27/95 | 09/08/95 60 FR 46768 | (c)(102)(i)(B)(6)
Schuylkill Energy Resources | OP-54-0003 | Schuylkill | 5/19/95 | 09/08/95 60 FR 46768 | (c)(102)(i)(B)(7 )
Columbia Gas Transmission Corp.—Milford Compressor Station | OP-52-0001 | Pike | 4/21/95 | 09/08/95 60 FR 46768 | (c)(102)(i)(B)(9)
Texas Eastern Transmission Corp.—Entriken Compressor Station | OP-31-2003 | Huntingdon | 5/16/95 | 09/08/95 60 FR 46768 | (c)(102)(i)(B)(10)
Columbia Gas Transmission Corp.—Greencastle Compressor Station | OP-28-2003 | Franklin | 4/21/95 | 09/08/95 60 FR 46768 | (c)(102)(i)(B)(11)
Lord Corporation—Aerospace Div | OP-25-095 | Erie | 3/30/95 | 09/08/95 60 FR 46768 | (c)(102)(i)(B)(12)
Tennessee Gas Pipeline Co. (TENNECO)—Station 313 | PA-53-0001 OP-53-0001 CP-53-0001 | Potter | 11/27/95 | 04/09/96 61 FR 15709 | (c)(103)(i)(B)(1)
Corning Asahi Video Products—State College | OP-14-0003 | Centre | 12/27/94 | 04/09/96 61 FR 15709 | (c)(103)(i)(B)(2)
Corning Asahi Video Products—State College | OP-14-309-009C | Centre | 5/5/94 | 04/09/96 61 FR 15709 | (c)(103)(i)(B)(2)
Corning Asahi Video Products—State College | OP-14-309-010A | Centre | 8/18/94 | 04/09/96 61 FR 15709 | (c)(103)(i)(B)(2)
Corning Asahi Video Products—State College | OP-14-309-037A | Centre | 5/5/94 | 04/09/96 61 FR 15709 | (c)(103)(i)(B)(2)
Columbia Gas Transmission Corp.—Easton Compressor Station | OP-48-0001 PA-48-0001A | Northampton | 5/19/95 | 04/09/96 61 FR 15709 | (c)(103)(i)(B)(3)
Texas Eastern Transmission Corp.—Bedford Compressor Station | OP-05-2007 | Bedford | 5/16/95 | 04/09/96 61 FR 15709 | (c)(103)(i)(B)(4)
Texas Eastern Transmission Corp.—Marietta Compressor Station | PA-36-2025 | Lancaster | 5/16/95 | 04/09/96 61 FR 15709 | (c)(103)(i)(B)(5)
Hercules Cement Co. | OP-48-0005 PA-48-0005A | Northampton | 12/23/94 | 04/09/96 61 FR 15709 | (c)(103)(i)(B)(6)
ESSROC (formerly Lone Star Industries, Inc.) | OP-48-0007 | Northampton | 12/29/94 | 04/09/96 61 FR 15709 | (c)(103)(i)(B)(7 )
Pennsylvania Power and Light Co. (PP&L)—Montour | OP-47-0001 PA-47-0001A | Montour | 12/27/94 | 04/09/96 61 FR 15709 | (c)(103)(i)(B)(8)
Pennsylvania Electric Co. (PENELEC)—Shawville | PA-17-0001 | Clearfield | 12/27/94 | 04/09/96 61 FR 15709 | (c)(103)(i)(B)(9)
Zinc Corp. of America—Potter Twp. | OP-04-000-044 | Beaver | 12/29/94 | 04/09/96 61 FR 15709 | (c)(103)(i)(B)(10)
The Proctor and Gamble Paper Products Company Mehoopany | OP-66-0001 PA-66-0001A | Wyoming | 12/20/94 | 04/09/96 61 FR 15709 | (c)(103)(i)(B)(11)
Columbia Gas Transmission Corp.—Union City Compressor Station | OP-25-892 | Erie | 4/11/95 | 04/09/96 61 FR 15709 | (c)(103)(i)(B)(12)
James River Corp.—Chambersburg | OP-28-2006 | Franklin | 6/14/95 | 02/12/96 61 FR 05303 | (c)(104)(i)(C)(1)
Appleton Papers, Inc.—Harrisburg | OP-21-2004 | Cumberland | 5/24/95 | 02/12/96 61 FR 05303 | (c)(104)(i)(C)(2)
Air Products and Chemicals, Inc.—Corporate R & D | OP-39-0008 | Lehigh | 5/25/95 | 02/12/96 61 FR 05303 | (c)(104)(i)(C)(3)
Elf Atochem North America, Inc.—King of Prussia | OP-46-0022 | Montgomery | 6/27/95 | 02/12/96 61 FR 05303 | (c)(104)(i)(C)(4)
York City Sewer Authority (Wastewater Treatment Plant) | OP-67-2013 | York | 3/1/95 | 02/12/96 61 FR 05303 | (c)(104)(i)(C)(5)
Glasgow, Inc.—Ivy Rock | OP-46-0043 | Montgomery | 6/7/95 | 02/12/96 61 FR 05303 | (c)(104)(i)(C)(6)
Glasgow, Inc.—Spring House | OP-46-0029 | Montgomery | 6/7/95 | 02/12/96 61 FR 05303 | (c)(104)(i)(C)(7 )
Glasgow, Inc.—Catanach | OP-15-0021 | Chester | 6/7/95 | 02/12/96 61 FR 05303 | (c)(104)(i)(C)(8)
Glasgow, Inc.—Freeborn | OP-23-0026 | Delaware | 6/7/95 | 02/12/96 61 FR 05303 | (c)(104)(i)(C)(9)
UGI Utilities—Hunlock Creek | OP-40-0005 PA-40-0005A | Luzerne | 12/20/94 | 05/16/96 61 FR 24706 | (c)(108)(i)(B)(1)
Solar Turbines, Inc. (York Cogeneration Facility) | PA-67-2009 | York | 8/17/95 | 05/16/96 61 FR 24706 | (c)(108)(i)(B)(2)
Solar Turbines, Inc. (York Cogeneration Facility) | CP-67-2009 | York | 8/17/95 | 05/16/96 61 FR 24706 | (c)(108)(i)(B)(2)
Columbia Gas Transmission Corp.—Renovo Compressor Station | OP-18-0001 PA-18-0001 | Clinton | 7/18/95 | 05/16/96 61 FR 24706 | (c)(108)(i)(B)(3)
National Fuel Gas Supply Corp.—East Fork Compressor Station | OP-53-0007 PA-53-0007A | Potter | 7/17/95 | 05/16/96 61 FR 24706 | (c)(108)(i)(B)(4)
York County Solid Waste & Refuse Authority (Y.C.R.R.C.) | PA-67-2006 | York | 8/25/95 | 05/16/96 61 FR 24706 | (c)(108)(i)(B)(5)
W. R. Grace and Co.—FORMPAC Div. | PA-06-1036 | Berks | 5/12/95 | 05/16/96 61 FR 24706 | (c)(108)(i)(B)(6)
W. R. Grace and Co.—Reading Plant | PA-06-315-001 | Berks | 6/4/92 | 05/16/96 61 FR 24706 | (c)(108)(i)(B)(6)
CNG Transmission Corp.—Cherry Tree Sta. | PA-32-000-303 | Indiana | 7/5/95 | 05/16/96 61 FR 24706 | (c)(108)(i)(B)(7 )
EPC Power Corp. of Bethlehem (Crozer Chester CoGen) | OP-23-0007 | Delaware | 6/8/95 | 05/16/96 61 FR 24706 | (c)(108)(i)(B)(8)
C-P Converters, Inc.—York | OP-67-2030 | York | 8/30/95 | 05/16/96 61 FR 24706 | (c)(108)(i)(B)(9)
Fisher Scientific Co. International—Indiana | OP-32-000-100 | Indiana | 7/18/95 | 05/16/96 61 FR 24706 | (c)(108)(i)(B)(10)
Adelphi Kitchens, Inc.—Robesonia Factory | OP-06-1001 | Berks | 4/4/95 | 05/16/96 61 FR 24706 | (c)(108)(i)(B)(11)
Birchcraft Kitchens, Inc.—Reading Factory | OP-06-1005 | Berks | 4/4/95 | 05/16/96 61 FR 24706 | (c)(108)(i)(B)(12)
Glasgow, Inc.—Bridgeport Asphalt Plant | OP-46-0044 | Montgomery | 6/7/95 | 05/16/96 61 FR 24706 | (c)(108)(i)(B)(13)
Caparo Steel Co.—Farrell | OP-43-285 | Mercer | 11/3/95 | 12/20/96 61 FR 67229 | (c)(113)(i)(B)(1) 52.2037(g)
Sharon Steel Corp.—Farrell | OP-43-017 | Mercer | 11/3/95 | 12/20/96 61 FR 67229 | (c)(113)(i)(B)(2); 52.2036(f); 52.2037(e)
DMi Furniture, Inc.—Timely Plant #7 (Gettysburg) | OP-01-2001 | Adams | 6/13/95 | 03/12/97 62 FR 11079 | (c)(114)(i)(B)(1)
R. R. Donnelley and Sons Co.—Lancaster West Plant | OP-36-2026 | Lancaster | 7/14/95 | 03/12/97 62 FR 11079 | (c)(114)(i)(B)(2)
International Paper Company—Hammermill Papers Division | OP-18-0005 | Clinton | 12/27/94 | 01/29/97 62 FR 04167 | (c)(115)(i)(B)
Lucent Technology (formerly AT&T Corp.)—Reading | PA-06-1003 | Berks | 6/26/95 | 04/18/97 62 FR 19051 | (c)(117)(i)(B)(1)
Garden State Tanning, Inc.—Fleetwood Plant | PA-06-1014 | Berks | 6/21/95 | 04/18/97 62 FR 19051 | (c)(117)(i)(B)(2)
Glidden Co., The—Reading | OP-06-1035 | Berks | 2/15/96 | 04/18/97 62 FR 19051 | (c)(117)(i)(B)(3)
Maier's Bakery—Reading Plant | PA-06-1023 | Berks | 9/20/95 | 04/18/97 62 FR 19047 | (c)(118)(i)(B)(1)
Morgan Corp.—Morgantown Plant | OP-06-1025 | Berks | 8/31/95 | 04/18/97 62 FR 19047 | (c)(118)(i)(B)(2)
Allentown Cement Co., Inc.—Evansville Plant | PA-06-1002 | Berks | 10/11/95 | 04/18/97 62 FR 19047 | (c)(118)(i)(B)(3)
Quaker Maid (Schrock Cabinet Group)—Leesport | OP-06-1028 | Berks | 10/27/95 | 04/18/97 62 FR 19047 | (c)(118)(i)(B)(4)
Brentwood Industries, Inc.—Reading Plant | PA-06-1006 | Berks | 2/12/96 | 04/18/97 62 FR 19047 | (c)(118)(i)(B)(5)
Metropolitan Edison Co. (MetEd)—Titus Station | PA-06-1024 | Berks | 3/9/95 | 04/18/97 62 FR 19047 | (c)(118)(i)(B)(6)
ICI Fluoropolymers—Downingtown | PA-15-0009 CP-15-0009 | Chester | 10/3/95 | 04/18/97 62 FR 19047 | (c)(118)(i)(B)(7 )
Synthetic Thread Co., Inc.—Bethlehem | PA-39-0007A | Lehigh | 8/10/95 | 04/18/97 62 FR 19047 | (c)(118)(i)(B)(8)
Bird-in-Hand Woodwork, Inc. (Childcraft Education Corp.) | OP-36-2022 | Lancaster | 9/27/95 | 04/18/97 62 FR 19047 | (c)(118)(i)(B)(9)
Heinz Pet Products—Bloomsburg | OP-19-0003 | Columbia | 11/27/95 | 08/21/97 62 FR 44413 | (c)(119)(i)(B)(1)
Graco Children's Products, Inc.—Elverson | OP-15-0006 | Chester | 11/30/95 | 08/21/97 62 FR 44413 | (c)(119)(i)(B)(2)
Texas Eastern Transmission Corp.—Bernville | OP-06-1033 | Berks | 1/31/97 | 04/18/97 62 FR 19049 | (c)(120)(i)(B)(1)
Texas Eastern Transmission Corp.—Bechtelsville | OP-06-1034 | Berks | 1/31/97 | 04/18/97 62 FR 19049 | (c)(120)(i)(B)(2)
Carpenter Technology Corp.—Reading Plant | OP-06-1007 | Berks | 9/27/96 | 04/18/97 62 FR 19049 | (c)(120)(i)(B)(3), (ii)(B)
North American Fluoropolymers Co. (NAFCO) | 06-1026 CP-06-1026 | Berks | 4/19/95 6/1/95 | 04/18/97 62 FR 19049 | (c)(120)(i)(B)(4), (ii)(B)
CNG Transmission Corp.—Ellisburg Compressor Station | PA-53-0004A | Potter | 2/29/96 | 06/11/97 62 FR 31732 | (c)(121)(i)(B)(1)
CNG Transmission Corp.—Ellisburg Compressor Station | OP-53-0004 | Potter | 2/29/96 | 06/11/97 62 FR 31732 | (c)(121)(i)(B)(1)
CNG Transmission Corp.—Ellisburg Compressor Station | CP-53-0004A | Potter | 2/29/96 | 06/11/97 62 FR 31732 | (c)(121)(i)(B)(1)
CNG Transmission Corp.—Greenlick Compressor Station | PA-53-0003A | Potter | 12/18/95 | 06/11/97 62 FR 31732 | (c)(121)(i)(B)(2)
CNG Transmission Corp.—Greenlick Station | CP-53-0003A | Potter | 12/18/95 | 06/11/97 62 FR 31732 | (c)(121)(i)(B)(2)
CNG Transmission Corp.—Greenlick Compressor Station | OP-53-0003 | Potter | 12/18/95 | 06/11/97 62 FR 31732 | (c)(121)(i)(B)(2)
CNG Transmission Corp.—Crayne Station | 30-000-089 | Greene | 12/22/95 | 06/11/97 62 FR 31732 | (c)(121)(i)(B)(3)
CNG Transmission Corp.—State Line Station | OP-53-0008 | Potter | 1/10/96 | 06/11/97 62 FR 31732 | (c)(121)(i)(B)(4)
CNG Transmission Corp.—Big Run Station | PA-33-147 | Jefferson | 6/27/95 | 06/11/97 62 FR 31732 | (c)(121)(i)(B)(5)
Medusa Cement Company | OP-37-013 | Lawrence | 7/27/95 | 06/03/97 62 FR 30250 | (c)(122)(i)(B)(1)
Keystone Cement Co. | OP-48-0003 | Northampton | 5/25/95 | 06/03/97 62 FR 30250 | (c)(122)(i)(B)(2)
Lehigh Portland Cement Company | OP-67-2024 | York | 5/26/95 | 06/03/97 62 FR 30250 | (c)(122)(i)(B)(3)
Mercer Lime and Stone Company | OP-10-023 | Butler | 5/31/95 | 06/03/97 62 FR 30250 | (c)(122)(i)(B)(4)
Con-Lime, Inc. | OP-14-0001 | Centre | 6/30/95 | 06/03/97 62 FR 30250 | (c)(122)(i)(B)(5)
Pennzoil Products Co.—Rouseville | PA-61-016 | Venango | 9/8/95 | 06/11/97 62 FR 31738 | (c)(124)(i)(B)
R. R. Donnelley & Sons Co.—Lancaster East Plant | OP-36-2027 | Lancaster | 7/14/95 | 07/21/97 62 FR 33891 | (c)(125)(i)(B); 52.2036j
Panther Creek Partners | OP-13-0003 | Carbon | 12/2/96 | 09/29/97 62 FR 50871 | (c)(128)(i)(B)
Allegro Microsystems, W.G., Inc.—Willow Grove | OP-46-0006 | Montgomery | 12/19/97 | 03/09/98 63 FR 11370 | (c)(130)(i)(B)(1)
Hale Products, Inc.—Conshohocken | OP-46-0057 | Montgomery | 11/21/97 | 03/09/98 63 FR 11370 | (c)(130)(i)(B)(2)
Con-Lime, Inc.—Bellefonte | OP-14-0001 | Centre | 1/7/98 | 03/09/98 63 FR 11370 | (c)(130)(i)(B)(3)
Coastal Aluminum Rolling Mills, Inc.—Williamsport | OP-41-0007 | Lycoming | 11/21/97 | 03/09/98 63 FR 11370 | (c)(130)(i)(B)(4)
ABP/International Envelope Co. | OP-15-0023 | Chester | 11/2/95 | 03/09/98 63 FR 11370 | (c)(130)(i)(B)(5)
Brown Printing Company | CP-46-0018 | Montgomery | 9/26/96 10/27/97 | 03/09/98 63 FR 11370 | (c)(130)(i)(B)(6)
Fibre-Metal Products Company | OP-23-0025 | Delaware | 2/20/98 | 06/29/98 63 FR 35145 | (c)(132)(i)(B)(1)
Finnaren & Haley, Inc. | OP-46-0070 | Montgomery | 3/5/98 | 06/29/98 63 FR 35145 | (c)(132)(i)(B)(2)
Fres-co System USA, Inc. | OP-09-0027 | Bucks | 3/5/98 | 06/29/98 63 FR 35145 | (c)(132)(i)(B)(3)
Graphic Packaging Corporation | OP-15-0013 | Chester | 2/28/98 | 06/29/98 63 FR 35145 | (c)(132)(i)(B)(4)
Montour Oil Service Company, a division of Sun Company, Inc. | OP-41-0013 | Lycoming | 3/19/98 | 06/29/98 63 FR 35145 | (c)(132)(i)(B)(5)
Atlantic Refining and Marketing Corp. (Sun Co., Inc. (R&M)) | OP-49-0015 | Northampton | 3/19/98 | 06/29/98 63 FR 35145 | (c)(132)(i)(B)(6)
Transwall Corporation | OP-15-0025 | Chester | 3/10/98 | 06/29/98 63 FR 35145 | (c)(132)(i)(B)(7 )
Tavo Packaging (formerly Mead Packaging Company) | OP-09-0008 | Bucks | 11/8/95 | 06/29/98 63 FR 35145 | (c)(132)(i)(B)(8)
CNG Transmission Corp.—Harrison Compressor Station | PA-53-0005A | Potter | 4/16/96 | 10/08/98 63 FR 54050 | (c)(134)(i)(B)(1)
CNG Transmission Corp.—Harrison Compressor Station | OP-53-0005 | Potter | 4/16/96 | 10/08/98 63 FR 54050 | (c)(134)(i)(B)(1)
CNG Transmission Corp.—Harrison Station | CP-53-0005A | Potter | 4/16/96 | 10/08/98 63 FR 54050 | (c)(134)(i)(B)(1)
CNG Transmission Corp.—Leidy Station | PA-18-0004A | Clinton | 3/25/96 | 10/08/98 63 FR 54050 | (c)(134)(i)(B)(2)
CNG Transmission Corp.—Leidy Compressor Station | OP-18-0004 | Clinton | 2/29/96 | 10/08/98 63 FR 54050 | (c)(134)(i)(B)(2)
CNG Transmission Corp.—Leidy Station | CP-18-0004A | Clinton | 3/25/96 | 10/08/98 63 FR 54050 | (c)(134)(i)(B)(2)
CNG Transmission Corp.—Sabinsville Compressor Station | PA-59-0002A | Tioga | 12/18/95 | 10/08/98 63 FR 54050 | (c)(134)(i)(B)(3)
CNG Transmission Corp.—Sabinsville Compressor Station | OP-59-0002 | Tioga | 12/18/95 | 10/08/98 63 FR 54050 | (c)(134)(i)(B)(3)
CNG Transmission Corp.—Sabinsville Station | CP-59-0002A | Tioga | 12/18/95 | 10/08/98 63 FR 54050 | (c)(134)(i)(B)(3)
CNG Transmission Corp.—Tioga Station | OP-59-0006 | Tioga | 1/16/96 | 10/08/98 63 FR 54050 | (c)(134)(i)(B)(4)
Eldorado Properties Corp.—Northumberland Terminal | OP-49-0016 | Northumberland | 5/1/98 | 11/06/98 63 FR 59884 | (c)(136)(i)(B)(1)
Endura Products, Inc. | OP-09-0028 | Bucks | 5/13/98 | 11/06/98 63 FR 59884 | (c)(136)(i)(B)(2)
Ford Electronics & Refrigeration Company | OP-46-0036 | Montgomery | 4/30/98 | 11/06/98 63 FR 59884 | (c)(136)(i)(B)(3)
H & N Packaging, Inc. (formerly Paramount Packaging Corp.) | OP-09-0038 | Bucks | 6/8/98 | 11/06/98 63 FR 59884 | (c)(136)(i)(B)(4)
Lancaster County Solid Waste Management Authority | 36-02013 | Lancaster | 6/3/98 | 11/06/98 63 FR 59884 | (c)(136)(i)(B)(5)
Monsey Products Co.—Kimberton | OP-15-0031 | Chester | 6/4/98 | 11/06/98 63 FR 59884 | (c)(136)(i)(B)(6)
Ortho-McNeil Pharmaceutical—Spring House | OP-46-0027 | Montgomery | 6/4/98 | 11/06/98 63 FR 59884 | (c)(136)(i)(B)(7 )
Piccari Press, Inc. | OP-09-0040 | Bucks | 4/29/98 | 11/06/98 63 FR 59884 | (c)(136)(i)(B)(8)
Pierce and Stevens Corp.—Kimberton | OP-15-0011 | Chester | 3/27/98 | 11/06/98 63 FR 59884 | (c)(136)(i)(B)(9)
PQ Corporation—Chester | OP-23-0016 | Delaware | 6/16/98 | 11/06/98 63 FR 59884 | (c)(136)(i)(B)(10)
Reynolds Metals Company Downington | OP-15-0004 | Chester | 5/8/98 | 11/06/98 63 FR 59884 | (c)(136)(i)(B)(11)
Rhone-Poulenc Rorer Pharmaceutical, Inc. | OP-46-0048B | Montgomery | 4/2/98 | 11/06/98 63 FR 59884 | (c)(136)(i)(B)(12)
Superior Tube Company | OP-46-0020 | Montgomery | 4/17/98 | 11/06/98 63 FR 59884 | (c)(136)(i)(B)(13)
Uniform Tubes Inc. | OP-46-0046A | Montgomery | 3/26/98 | 11/06/98 63 FR 59884 | (c)(136)(i)(B)(14)
U.S. Air Force—Willow Grove Air Reserve Station | OP-46-0072 | Montgomery | 5/1/98 | 11/06/98 63 FR 59884 | (c)(136)(i)(B)(15)
Naval Air Station, Joint Reserve Base—Willow Grove | OP-46-0079 | Montgomery | 5/4/98 | 11/06/98 63 FR 59884 | (c)(136)(i)(B)(16)
Columbia Gas Transmission Corp.—Artemas Compressor Station | 05-2006 | Bedford | 4/19/95 | 12/03/98 63 FR 66755 | (c)(137)(i)B)(1)
Columbia Gas Transmission Corp.—Donegal Compressor Station | 63-000-631 | Washington | 7/10/95 | 12/03/98 63 FR 66755 | (c)(137)(i)B)(2)
Columbia Gas Transmission Corp.—Gettysburg Compressor Station | 01-2003 | Adams | 4/21/95 | 12/03/98 63 FR 66755 | (c)(137)(i)B)(3)
Columbia Gas Transmission Corp.—Eagle Compressor | OP-15-0022 | Chester | 2/1/96 | 12/03/98 63 FR 66755 | (c)(137)(i)B)(4)
Columbia Gas Transmission Corp.—Downingtown | CP-15-0020 | Chester | 9/15/95 | 12/03/98 63 FR 66755 | (c)(137)(i)B)(5)
GKN Sinter Metals, Inc. | OP-12-0002 | Cameron | 10/30/98 | 04/16/99 64 FR 18821 | (c)(138)(i)(B)(1)
Cabinet Industries, Inc.—Water Street Plant | OP-47-0005 | Montour | 9/21/98 | 04/16/99 64 FR 18821 | (c)(138)(i)(B)(2)
Springs Window Fashions Division, Inc. | OP-41-0014 | Lycoming | 9/29/98 | 04/16/99 64 FR 18821 | (c)(138)(i)(B)(3)
Centennial Printing Corp. | OP-46-0068 | Montgomery | 10/31/96 5/11/98 | 04/16/99 64 FR 18821 | (c)(138)(i)(B)(4)
Strick Corp.—Danville | OP-47-0002 | Montour | 8/28/96 | 04/16/99 64 FR 18821 | (c)(138)(i)(B)(5)
Handy and Harmon Tube Co.—Norristown | OP-46-0016 | Montgomery | 9/25/95 | 04/16/99 64 FR 18821 | (c)(138)(i)(B)(6)
Boeing Defense & Space Group—Helicopters Div. | CP-23-0009 | Delaware | 9/3/97 | 12/15/00 65 FR 78418 | (c)(143)(i)(B)(1)
Delaware County Regional Authority's Western Regional Treatment Plant (DELCORA WRTP) | OP-23-0032 | Delaware | 3/12/97 5/16/97 | 12/15/00 65 FR 78418 | (c)(143)(i)(B)(2)
Delbar Products, Inc.—Perkasie | OP-09-0025 | Bucks | 2/1/96 | 12/15/00 65 FR 78418 | (c)(143)(i)(B)(3)
Department of Public Welfare (NSH)—Norristown | OP-46-0060 | Montgomery | 1/21/98 | 12/15/00 65 FR 78418 | (c)(143)(i)(B)(4)
Dopaco, Inc.—Downingtown | CP-15-0029 | Chester | 3/6/96 | 12/15/00 65 FR 78418 | (c)(143)(i)(B)(5)
Garlock, Inc. (Plastomer Products) | PA-09-0035 | Bucks | 3/12/97 | 12/15/00 65 FR 78418 | (c)(143)(i)(B)(6)
Interstate Brands Corporation (formerly, Continental Baking Company) | PLID (51-)5811 | Philadelphia | 4/10/95 | 12/15/00 65 FR 78418 | (c)(143)(i)(B)(7 )
J. B. Slevin Company Inc.—Lansdowne | OP-23-0013 | Delaware | 9/3/96 | 12/15/00 65 FR 78418 | (c)(143)(i)(B)(8)
Laclede Steel Co.—Fairless | OP-09-0023 | Bucks | 7/17/95 | 12/15/00 65 FR 78418 | (c)(143)(i)(B)(9)
LNP Engineering Plastics, Inc.—Thorndale | OP-15-0035 | Chester | 10/31/97 | 12/15/00 65 FR 78418 | (c)(143)(i)(B)(10)
Lukens Steel Co.—Coatesville | OP-15-0010 | Chester | 5/6/99 | 12/15/00 65 FR 78418 | (c)(143)(i)(B)(11)
Nabisco Biscuit Co. | PLID (51-)3201 | Philadelphia | 4/10/95 | 12/15/00 65 FR 78418 | (c)(143)(i)(B)(12)
PECO Energy Co.—Croydon Generating Station | OP-09-0016A | Bucks | 12/20/96 | 12/15/00 65 FR 78418 | (c)(143)(i)(B)(13)
PECO Energy Co.—Limerick Generating Station | OP-46-0038 | Montgomery | 7/25/95 | 12/15/00 65 FR 78418 | (c)(143)(i)(B)(14)
PECO Energy Co.—USX Fairless Works Powerhouse | OP-09-0066 | Bucks | 12/31/98 4/6/99 | 12/15/00 65 FR 78418 | (c)(143)(i)(B)(15)
PECO Energy Co.—West Conshohocken Plant | OP-46-0045A | Montgomery | 12/4/97 | 12/15/00 65 FR 78418 | (c)(143)(i)(B)(16)
Pennsylvania Electric Co.—Front Street Station | 25-0041 | Erie | 2/25/99 | 12/15/00 65 FR 78418 | (c)(143)(i)(B)(17 )
American Inks and Coatings Corp.—Valley Forge | OP-15-0026A | Chester | 1/10/97 | 12/15/00 65 FR 78418 | (c)(143)(i)(B)(18)
Avery Dennison Co. (Fasson Roll Division)—Quakertown | OP-09-0001A | Bucks | 10/2/97 | 12/15/00 65 FR 78418 | (c)(143)(i)(B)(19)
Cabot Performance Materials—Boyertown | OP-46-0037 | Montgomery | 4/13/99 | 12/15/00 65 FR 78418 | (c)(143)(i)(B)(20)
Cleveland Steel Container Corp.—Quakertown | OP-09-0022 | Bucks | 9/30/96 | 12/15/00 65 FR 78418 | (c)(143)(i)(B)(21)
CMS Gilbreth Packaging Systems—Bristol | OP-09-0036 | Bucks | 1/7/97 | 12/15/00 65 FR 78418 | (c)(143)(i)(B)(22)
CMS Gilbreth Packaging Systems—Bensalem | OP-09-0037 | Bucks | 4/10/97 | 12/15/00 65 FR 78418 | (c)(143)(i)(B)(23)
Congoleum Corp.—Marcus Hook | OP-23-0021 | Delaware | 12/31/98 | 12/15/00 65 FR 78418 | (c)(143)(i)(B)(24)
Epsilon Products Co.—Marcus Hook | OP-23-0012 | Delaware | 2/15/96 | 12/15/00 65 FR 78418 | (c)(143)(i)(B)(25)
Foamex International,—Eddystone | OP-23-0006A | Delaware | 3/30/99 | 12/15/00 65 FR 78418 | (c)(143)(i)(B)(26)
Forms, Inc., Spectra Graphics Willow Grove | OP-46-0023 | Montgomery | 11/9/95 3/25/98 | 12/15/00 65 FR78418 | (c)(143)(i)(B)(27 )
Global Packaging, Inc. (formerly BG Packaging—Oaks) | OP-46-0026 | Montgomery | 8/30/96 12/24/97 | 12/15/00 65 FR78418 | (c)(143)(i)(B)(28)
Jefferson Smurfit Corp. (Container Corp. of Amer.)—Oaks | OP-46-0041 | Montgomery | 4/18/97 | 12/15/00 65 FR78418 | (c)(143)(i)(B)(29)
Jefferson Smurfit Corp. (Container Corp. of Amer.)—North Wales | OP-46-0062 | Montgomery | 7/15/96 | 12/15/00 65 FR 78418 | (c)(143)(i)(B)(30)
Lonza, Inc.—Conshohocken | OP-46-0025 | Montgomery | 4/22/97 6/16/98 | 12/15/00 65 FR 78418 | (c)(143)(i)(B)(31)
Markel Corporation | OP-46-0081 | Montgomery | 4/9/99 | 12/15/00 65 FR 78418 | (c)(143)(i)(B)(32)
McCorquodale Security Cards, Inc.— West Whiteland | OP-15-0037 | Chester | 9/3/96 | 12/15/00 65 FR 78418 | (c)(143)(i)(B)(33)
Mike-Rich, Inc. (MRI)—Newtown | OP-09-0021 | Bucks | 12/20/96 | 12/15/00 65 FR 78418 | (c)(143)(i)(B)(34)
Minnesota Mining and Manufacturing (3M) Company—Bristol | CP-09-0005 | Bucks | 8/8/96 | 12/15/00 65 FR 78418 | (c)(143)(i)(B)(35)
MM Biogas Power LLC (formerly O'Brien Environmental Energy, Inc.) | CP-46-0067 | Montgomery | 10/31/97 | 12/15/00 65 FR 78418 | (c)(143)(i)(B)(36)
Norwood Industries, Inc.—Frazer | OP-15-0014A | Chester | 12/20/96 12/2/99 | 12/15/00 65 FR 78418 | (c)(143)(i)(B)(37 )
NVF Company | OP-15-0030 | Chester | 4/13/99 | 12/15/00 65 FR 78418 | (c)(143)(i)(B)(38)
Occidental Chemical Corp. (Vinyls Div.)—Pottstown | OP-46-0015 | Montgomery | 11/7/96 | 12/15/00 65 FR 78418 | (c)(143)(i)(B)(39)
Philadelphia Newspapers, Inc. (Schuylkill Printing Plant) | OP-46-0012 | Montgomery | 8/30/96 3/15/00 | 12/15/00 65 FR 78418 | (c)(143)(i)(B)(40)
The Proctor and Gamble Paper Products Co. | OP-66-0001 | Wyoming | 4/4/97 | 12/15/00 65 FR 78418 | (c)(143)(i)(B)(41)
Quebecor Printing Atglen, Inc.—Atglen | OP-15-0002 | Chester | 12/10/96 | 12/15/00 65 FR 78418 | (c)(143)(i)(B)(42)
Sartomer Company, Inc. | OP-15-0015 | Chester | 1/17/96 3/25/98 | 12/15/00 65 FR 78418 | (c)(143)(i)(B)(43)
Silberline Manufacturing Co. | OP-54-0041 | Schuylkill | 4/19/99 | 12/15/00 65 FR 78418 | (c)(143)(i)(B)(44)
SmithKline Beecham Research Co. (formerly Sterling Winthrop, Inc.) | OP-46-0031 | Montgomery | 10/31/97 5/1/98 | 12/15/00 65 FR 78418 | (c)(143)(i)(B)(45)
Sullivan Graphics, Inc.—York | OP-67-2023 | York | 8/22/95 | 12/15/00 65 FR 78418 | (c)(143)(i)(B)(46)
Sun Company, Inc (R&M) (formerly Chevron USA)—Tinicum | OP-23-0010 | Delaware | 10/31/96 | 12/15/00 65 FR 78418 | (c)(143)(i)(B)(47 )
Sun Company, Inc (R&M) (formerly Chevron USA)—Darby | OP-23-0011 | Delaware | 10/31/96 | 12/15/00 65 FR 78418 | (c)(143)(i)(B)(48)
Universal Packaging Corporation | OP-46-0156 | Montgomery | 4/8/99 | 12/15/00 65 FR 78418 | (c)(143)(i)(B)(49)
Zenith Products Corp.—Aston | OP-23-0008 | Delaware | 4/7/97 | 12/15/00 65 FR 78418 | (c)(143)(i)(B)(50)
Budd Company | PLID 51-1564 | Philadelphia | 12/28/95 | 12/15/00 65 FR 78418 | (c)(143)(i)(B)(51)
Bellevue Cogeneration Plant | PLID (51-) 6513 | Philadelphia | 4/10/95 | 12/15/00 65 FR 78418 | (c)(143)(i)(B)(52)
MSC PreFinish Metals, Inc.—Morrisville | OP-09-0030 | Bucks | 11/7/96 3/31/98 | 12/15/00 65 FR 78418 | (c)(143)(i)(B)(53)
Temple University, Health Sciences Center | PLID (51-) 8906 | Philadelphia | 5/27/95 | 12/15/00 65 FR 78418 | (c)(143)(i)(B)(54)
TRIGEN—Schuylkill Station | PLID (51-)4942 | Philadelphia | 5/29/95 | 12/15/00 65 FR 78418 | (c)(143)(i)(B)(55)
TRIGEN—Edison Station | PLID (51-)4902 | Philadelphia | 5/29/95 | 12/15/00 65 FR 78418 | (c)(143)(i)(B)(56)
Advanced Glassfiber Yarns LLC (formerly Owens Corning)—Huntingdon | OP-31-02002 | Huntingdon | 4/13/99 | 08/06/01 66 FR 40891 | (c)(149)(i)(B)(1)
Armstrong World Industries, Inc.—Beech Creek | OP-18-0002 | Clinton | 7/6/95 | 08/06/01 66 FR 40891 | (c)(149)(i)(B)(2)
Bemis Company, Film Division | OP-40-0007A | Luzerne | 10/10/95 | 08/06/01 66 FR 40891 | (c)(149)(i)(B)(3)
Brentwood Industries, Inc | PA-06-1006A | Berks | 6/3/99 | 08/06/01 66 FR 40891 | (c)(149)(i)(B)(4)
Certainteed Corp.—Mountaintop | OP-40-0010 | Luzerne | 5/31/96 | 08/06/01 66 FR 40891 | (c)(149)(i)(B)(5)
CNG Transmission Corp.—Ardell Station | OP-24-120 | Elk | 9/30/95 | 08/06/01 66 FR 40891 | (c)(149)(i)(B)(6)
CNG Transmission Corp.—Finnefrock Station | PA-18-0003A | Clinton | 2/29/96 | 08/06/01 66 FR 40891 | (c)(149)(i)(B)(7 )
Consol Pennsylvania Coal Company—Bailey Prep Plant | OP-30-000-072 | Greene | 3/23/99 | 08/06/01 66 FR 40891 | (c)(149)(i)(B)(8)
Consolidated Rail Corp. (CONRAIL)—Hollidaysburg Car Shop | OP-07-2002 | Blair | 8/29/95 | 08/06/01 66 FR 40891 | (c)(149)(i)(B)(9)
Consolidated Rail Corp. (CONRAIL)—Juniata | OP-07-2003 | Blair | 8/29/95 | 08/06/01 66 FR 40891 | (c)(149)(i)(B)(10)
Containment Solutions, Inc. (formerly called Fluid Containment—Mt. Union) | OP-31-02005 | Huntingdon | 4/9/99 | 08/06/01 66 FR 40891 | (c)(149)(i)(B)(11)
Cooper Energy Systems, Grove City | OP-43-003 | Mercer | 7/25/96 | 08/06/01 66 FR 40891 | (c)(149)(i)(B)(12)
Cyprus Cumberland Resources Corp. | OP-30-000-040 | Greene | 3/26/99 | 08/06/01 66 FR 40891 | (c)(149)(i)(B)(13)
Defense Distribution—Susquehanna | OP-67-02041 | York | 2/1/00 | 08/06/01 66 FR 40891 | (c)(149)(i)(B)(14)
EMI Company | OP-25-070 | Erie | 10/24/96 | 08/06/01 66 FR 40891 | (c)(149)(i)(B)(15)
Empire Sanitary Landfill, Inc. | OP-35-0009 | Lackawanna | 10/17/96 | 08/06/01 66 FR 40891 | (c)(149)(i)(B)(16)
Equitrans, Inc.—Rogersville Station | (OP)30-000-109 | Greene | 7/10/95 | 08/06/01 66 FR 40891 | (c)(149)(i)(B)(17 )
Equitrans, Inc.—Pratt Station | (OP)30-000-110 | Greene | 7/10/95 | 08/06/01 66 FR 40891 | (c)(149)(i)(B)(18)
Erie Coke Corporation—Erie | OP-25-029 | Erie | 6/27/95 | 08/06/01 66 FR 40891 | (c)(149)(i)(B)(19)
Fleetwood Folding Trailers, Inc.—Somerset | (OP)56-000-151 | Somerset | 2/28/96 | 08/06/01 66 FR 40891 | (c)(149)(i)(B)(20)
Gichner Systems Group, Inc. | (OP)67-2033 | York | 8/5/97 | 08/06/01 66 FR 40891 | (c)(149)(i)(B)(21)
Offset Paperback Manufacturers, Inc.—Dallas | (OP)40-0008 | Luzerne | 4/16/99 | 08/06/01 66 FR 40891 | (c)(149)(i)(B)(22)
Overhead Door Corporation—Mifflin County | (OP)44-2011 | Mifflin | 6/4/97 | 08/06/01 66 FR 40891 | (c)(149)(i)(B)(23)
SANYO Audio Manufacturing (USA) Corp | (OP)44-2003 | Mifflin | 6/30/95 | 08/06/01 66 FR 40891 | (c)(149)(i)(B)(24)
Stroehmann Bakeries—Luzerne County | (OP)40-0014A | Luzerne | 5/30/95 | 08/06/01 66 FR 40891 | (c)(149)(i)(B)(25)
Merck and Co., Inc.—West Point Facility | OP-46-0005 | Montgomery | 1/13/97 6/23/00 | 04/18/01 66 FR 19858 | (c)(154)(i)(D)
Amerada Hess Corp. | PA-PLID (51-) 5009 | Philadelphia | 5/29/95 | 10/31/01 66 FR 54936 | (c)(156)(i)(B)(1)
Amoco Oil Company | PA-PLID (51-) 5011 | Philadelphia | 5/29/95 | 10/31/01 66 FR 54936 | (c)(156)(i)(B)(2)
Cartex Corporation | OP-09-0076 | Bucks | 4/9/99 | 10/31/01 66 FR 54936 | (c)(156)(i)(B)(3)
Exxon Company, USA | PA-PLID (51-) 5008 | Philadelphia | 5/29/95 | 10/31/01 66 FR 54936 | (c)(156)(i)(B)(4)
GATX Terminals Corporation | PA-PLID (51-) 5003 | Philadelphia | 5/29/95 | 10/31/01 66 FR 54936 | (c)(156)(i)(B)(5)
Hatfield Quality Meats, Inc.—Hatfield | OP-46-0013A | Montgomery | 1/9/97 10/1/98 | 10/31/01 66 FR 54936 | (c)(156)(i)(B)(6)
J. L. Clark, Inc. | OP-36-02009 | Lancaster | 4/16/99 | 10/31/01 66 FR 54936 | (c)(156)(i)(B)(7 )
Johnson Matthey, Inc.—Wayne | OP-15-0027 | Chester | 8/3/98 4/15/99 | 10/31/01 66 FR 54936 | (c)(156)(i)(B)(8)
Kurz Hastings, Inc. | PA-PLID (51-) 1585 | Philadelphia | 5/29/95 | 10/31/01 66 FR 54936 | (c)(156)(i)(B)(9)
Lawrence McFadden, Inc. | PA-PLID (51-) 2074 | Philadelphia | 6/11/97 | 10/31/01 66 FR 54936 | (c)(156)(i)(B)(10)
Philadelphia Baking Company | PA-PLID (51-) 3048 | Philadelphia | 4/10/95 | 10/31/01 66 FR 54936 | (c)(156)(i)(B)(11)
Philadelphia Gas Works—Passyunk | PA-PLID (51-)-4921 | Philadelphia | 5/29/95 | 10/31/01 66 FR 54936 | (c)(156)(i)(B)(12)
PPG Industries, Inc. (BASF) | OP-23-0005 | Delaware | 6/4/97 | 10/31/01 66 FR 54936 | (c)(156)(i)(B)(13)
SmithKline Beecham Pharmaceuticals | OP-46-0035 | Montgomery | 3/27/97 10/20/98 | 10/31/01 66 FR 54936 | (c)(156)(i)(B)(14)
Teva Pharmaceuticals USA (formerly Lemmon Company) | OP-09-0010 | Bucks | 4/9/99 | 10/31/01 66 FR 54936 | (c)(156)(i)(B)(15)
The Philadelphian Condominium Building | PA-PLID (51-) 6512 | Philadelphia | 5/29/95 | 10/31/01 66 FR 54936 | (c)(156)(i)(B)(16)
Warner Company | OP-15-0001 | Chester | 7/17/95 | 10/31/01 66 FR 54936 | (c)(156)(i)(B)(17 )
Webcraft Technologies, Inc. | PO-09-0009 | Bucks | 4/18/96 10/15/98 | 10/31/01 66 FR 54936 | (c)(156)(i)(B)(18)
Latrobe Steel Company—Latrobe | PO-65-000-016 | Westmoreland | 12/22/95 | 10/16/01 66 FR 52517 | (c)(158)(i)(B)
Allegheny Ludlum Corporation—Brackenridge | CO-260 | Allegheny | 12/19/96 | 10/18/01 66 FR 52851 | (c)(159)(i)(B)
Kosmos Cement Co.—Neville Island Facility | EO-208 | Allegheny | 12/19/96 | 10/18/01 66 FR 52857 | (c)(160)(i)(B)(1)
Armstrong Cement and Supply Company—Cabot | OP-10-028 | Butler | 3/31/99 | 10/18/01 66 FR 52857 | (c)(160)(i)(B)(2)
Duquesne Light Company—Cheswick Power Station | CO-217 | Allegheny | 3/8/96 | 10/18/01 66 FR 52867 | (c)(161)(i)(B)(1)
Duquesne Light Company—Elrama Plant | (PA)63-000-014 | Washington | 12/29/94 | 10/18/01 66 FR 52867 | (c)(161)(i)(B)(2)
Pennsylvania Electric Co. (PENELEC)— Keystone Generating Station | (PA)03-000-027 | Armstrong | 12/29/94 | 10/18/01 66 FR 52867 | (c)(161)(i)(B)(3)
IDL, Incorporated | CO-225 | Allegheny | 7/18/96 | 10/18/01 66 FR 52862 | (c)(162)(i)(B)(1)
Oakmont Pharmaceutical, Inc. | CO-252 | Allegheny | 12/19/96 | 10/18/01 66 FR 52862 | (c)(162)(i)(B)(2)
U.S. Air, Inc. | CO-255 | Allegheny | 1/14/97 | 10/18/01 66 FR 52862 | (c)(162)(i)(B)(3)
Lukens Steel Corporation Houston Plant | (OP)63-000-080 | Washington | 2/22/99 | 10/16/01 66 FR 52522 | (c)(163)(i)(B)(1)
Allegheny Ludlum Steel Corporation—West Leechburg Plant | (OP)65-000-183 | Westmoreland | 3/23/99 | 10/16/01 66 FR 52522 | (c)(163)(i)(B)(2)
(Allegheny Ludlum Corporation) Jessop Steel Company—Washington Plant | (OP)63-000-027 | Washington | 3/26/99 | 10/16/01 66 FR 52522 | (c)(163)(i)(B)(3)
Koppel Steel Corporation—Koppel Plant | (OP)04-000-059 | Beaver | 3/23/01 | 10/16/01 66 FR 52522 | (c)(163)(i)(D)
Consolidated Natural Gas (CNG) Transmission Corp.—Beaver Station | OP-04-000-490 | Beaver | 6/23/95 | 10/12/01 66 FR 52055 | (c)(164)(i)(B)(1)
Consolidated Natural Gas (CNG) Transmission Corp.—Oakford Compressor Station | PO-65-000-837 | Westmoreland | 10/13/95 | 10/12/01 66 FR 52055 | (c)(164)(i)(B)(2)
Consolidated Natural Gas (CNG) Transmission Corp.—South Oakford Station | (OP)65-000-840 | Westmoreland | 10/13/95 | 10/12/01 66 FR 52055 | (c)(164)(i)(B)(3)
Consolidated Natural Gas (CNG) Transmission Corp.—Tonkin Compressor Station | (OP)65-000-634 | Westmoreland | 10/13/95 | 10/12/01 66 FR 52055 | (c)(164)(i)(B)(4)
Consolidated Natural Gas (CNG) Transmission Corp.—Jeannette Station | (OP)65-000-852 | Westmoreland | 10/13/95 | 10/12/01 66 FR 52055 | (c)(164)(i)(B)(5)
Carnegie Natural Gas Co.—Creighton Station | EO-213 | Allegheny | 5/14/96 | 10/12/01 66 FR 52055 | (c)(164)(i)(B)(6)
Texas Eastern Transmission Corp.—Uniontown Station | (OP)26-000-413 | Fayette | 12/20/96 | 10/12/01 66 FR 52055 | (c)(164)(i)(B)(7 )
Consolidated Natural Gas (CNG) Transmission Corp.—South Bend Station | OP-03-000-180 | Armstrong | 12/2/98 | 10/12/01 66 FR 52055 | (c)(164)(i)(B)(8)
Pruett Schaffer Chemical Company | CO-266 | Allegheny | 9/2/98 | 10/12/01 66 FR 52050 | (c)(165)(i)(B)(1)
PPG Industries, Inc.—Springdale | CO-254 | Allegheny | 12/19/96 | 10/12/01 66 FR 52050 | (c)(165)(i)(B)(2)
Reichhold Chemicals, Inc.—Bridgeville | CO-218 | Allegheny | 12/19/96 | 10/12/01 66 FR 52050 | (c)(165)(i)(B)(3) [NOX RACT]
Reichhold Chemicals, Inc.—Bridgeville | CO-219 | Allegheny | 2/21/96 | 10/12/01 66 FR 52050 | (c)(165)(i)(B)(4) [VOC RACT]
Valspar Corporation—Pittsburgh | CO-209 | Allegheny | 3/8/96 | 10/12/01 66 FR 52050 | (c)(165)(i)(B)(5)
Ashland Chemical Corporation | CO-227 | Allegheny | 12/30/96 | 10/16/01 66 FR 52506 | (c)(166)(i)(B)(1)
Hercules, Inc.—West Elizabeth | EO216 | Allegheny | 3/8/96 | 10/16/01 66 FR 52506 | (c)(166)(i)(B)(2)
Hercules, Inc.—West Elizabeth | CO-257 | Allegheny | 1/14/97 11/1/99 | 10/16/01 66 FR 52506 | (c)(166)(i)(B)(3)
Neville Chemical Company | CO-230 | Allegheny | 12/13/96 | 10/16/01 66 FR 52506 | (c)(166)(i)(B)(4)
Anchor Glass Container Corp.—Plant 5 | (PA)26-000-119 | Fayette | 12/20/96 | 10/16/01 66 FR 52527 | (c)(167)(i)(B)(1)
Anchor Hocking Specialty Glass Co.—Phoenix Glass Plant | (OP)04-000-084 | Beaver | 10/13/95 | 10/16/01 66 FR 52527 | (c)(167)(i)(B)(2)
Corning Consumer Products Co.—Charleroi Plant | (PA)63-000-110 | Washington | 1/4/96 | 10/16/01 66 FR 52527 | (c)(167)(i)(B)(3)
General Electric Company | CO-251 | Allegheny | 12/19/96 | 10/16/01 66 FR 52527 | (c)(167)(i)(B)(4)
Glenshaw Glass Company, Inc. | CO-270 | Allegheny | 3/10/00 | 10/16/01 66 FR 52527 | (c)(167)(i)(B)(5)
Guardian Industries Corp. | CO-242 | Allegheny | 8/27/96 | 10/16/01 66 FR 52527 | (c)(167)(i)(B)(6)
Allegheny County Sanitary Authority | CO-222 | Allegheny | 5/14/96 | 10/16/01 66 FR 52527 | (c)(167)(i)(B)(7 )
Browning-Ferris Industries, | CO-231A | Allegheny | 4/28/97 | 10/16/01 66 FR 52527 | (c)(167)(i)(B)(8)
Chambers Development Company—Monroeville Borough Landfill | CO-253 | Allegheny | 12/30/96 | 10/16/01 66 FR 52527 | (c)(167)(i)(B)(9)
Kelly Run Sanitation, Forward Township Landfill | CO-236 | Allegheny | 1/23/97 | 10/16/01 66 FR 52527 | (c)(167)(i)(B)(10)
Stroehmann Bakeries—Montgomery County (Norristown) | PA-46-0003 | Montgomery | 5/4/95 | 10/31/01 66 FR 54942 | (c)(169)(i)(B)(1)
Schlosser Steel, Inc. | OP-46-0051 | Montgomery | 2/1/96 | 10/31/01 66 FR 54942 | (c)(169)(i)(B)(2)
Perkasie Industries Corp.—Perkasie | OP-09-0011 | Bucks | 8/14/96 | 10/31/01 66 FR 54942 | (c)(169)(i)(B)(3)
Quaker Chemical Corporation—Conshohocken | OP-46-0071 | Montgomery | 9/26/96 | 10/31/01 66 FR 54942 | (c)(169)(i)(B)(4)
Worthington Steel Company | OP-15-0016 | Chester | 7/23/96 | 10/31/01 66 FR 54942 | (c)(169)(i)(B)(5)
Transcontinental Gas Pipeline Corp.—Sta. 200, Frazer | PA-15-0017 | Chester | 6/5/95 | 10/31/01 66 FR 54942 | (c)(169)(i)(B)(6)
Rohm and Haas Company, Bucks County Plant | OP-09-0015 | Bucks | 4/20/99 | 10/31/01 66 FR 54942 | (c)(169)(i)(B)(7 )
SEPTA-Berridge/Courtland Maintenance Shop | PA-51-4172 | Philadelphia | 7/27/99 | 10/31/01 66 FR 54942 | (c)(169)(i)(B)(8)
Southwest Water Pollution Control Plant/Biosolids Recycling Center | PA-51-9515 | Philadelphia | 7/27/99 | 10/31/01 66 FR 54942 | (c)(169)(i)(B)(9)
Rohm and Haas Company Philadelphia Plant | PA-51-1531 | Philadelphia | 7/27/99 | 10/31/01 66 FR 54942 | (c)(169)(i)(B)(10)
Sunoco Inc. (R&M)—Philadelphia Division | PA(51-)1501 PA(51-)1517 | Philadelphia | 8/1/00 | 10/31/01 66 FR 54942 | (c)(169)(i)(B)(11)
SBF Communications (owned by Avant Garde Ent.) | PA(51-)2197 | Philadelphia | 7/21/00 | 10/31/01 66 FR 54942 | (c)(169)(i)(B)(12)
Smith-Edwards-Dunlap Company | PA-(51-)2255 | Philadelphia | 7/14/00 | 10/31/01 66 FR 54942 | (c)(169)(i)(B)(13)
Tasty Baking Co. | PLID (51-)2054 | Philadelphia | 4/9/95 | 10/31/01 66 FR 54942 | (c)(169)(i)(B)(14)
Armstrong World Industries, Inc.—Beaver Falls Plant | (OP)04-000-108 | Beaver | 5/29/96 | 10/17/01 66 FR 52695 | (c)(170)(i)(B)(1)
Bacharach, Inc | CO-263 | Allegheny | 10/10/97 | 10/17/01 66 FR 52695 | (c)(170)(i)(B)(2)
Bakerstown Container Corporation | CO-221 | Allegheny | 5/14/96 | 10/17/01 66 FR 52695 | (c)(170)(i)(B)(3)
Chestnut Ridge Foam, Inc.—Latrobe | (OP)65-000-181 | Westmoreland | 12/29/95 | 10/17/01 66 FR 52695 | (c)(170)(i)(B)(4)
Flexsys America LP, Monongahela Plant | (OP)63-000-015 | Washington | 3/23/01 | 10/17/01 66 FR 52695 | (c)(170)(i)(B)(5)
Haskell of Pittsburgh, Inc. | CO-224 | Allegheny | 12/19/96 | 10/17/01 66 FR 52695 | (c)(170)(i)(B)(6)
Three Rivers Aluminum Company (TRACO) | OP-10-267 | Butler | 3/1/01 | 10/17/01 66 FR 52695 | (c)(170)(i)(B)(7 )
Tuscarora Plastics, Inc. | (OP)04-000-497 | Beaver | 4/3/96 | 10/17/01 66 FR 52695 | (c)(170)(i)(B)(8)
Witco Corporation | CO-210 | Allegheny | 5/14/96 | 10/17/01 66 FR 52695 | (c)(170)(i)(B)(9)
GenCorp (Plastic Films Division)—Jeannette Plant | (OP)65-000-207 | Westmoreland | 1/4/96 | 10/15/01 66 FR 52322 | (c)(171)(i)(B)
CENTRIA—Ambridge Coil Coating Operations Plant | (OP)04-000-043 | Beaver | 5/17/99 | 10/15/01 66 FR 52322 | (c)(171)(i)(D)
J & L Structural, Inc.—Aliquippa | OP-04-000-467 | Beaver | 6/23/95 | 10/16/01 66 FR 52511 | (c)(172)(i)(B)(1)
Universal Stainless & Alloy Products, Inc. | CO-241 | Allegheny | 12/19/96 | 10/16/01 66 FR 52511 | (c)(172)(i)(B)(2)
Shenango, Inc. | CO-233 | Allegheny | 12/30/96 | 10/16/01 66 FR 52511 | (c)(172)(i)(B)(3)
LTV Steel Company | CO-259 | Allegheny | 12/30/96 | 10/16/01 66 FR 52511 | (c)(172)(i)(B)(4)
U.S. Steel (USX Corporation)—Clairton Works | CO-234 | Allegheny | 12/30/96 | 10/16/01 66 FR 52511 | (c)(172)(i)(B)(5)
USX Corporation—Edgar Thomson Works | CO-235 | Allegheny | 12/30/96 | 10/16/01 66 FR 52511 | (c)(172)(i)(B)(6)
USX, Inc.—Irvin Works | CO-258 | Allegheny | 12/30/96 | 10/16/01 66 FR 52511 | (c)(172)(i)(B)(7 )
Wheeling-Pittsburgh Steel Corporation—Allenport Plant | (OP)63-000-066 | Washington | 2/8/99 | 10/16/01 66 FR 52511 | (c)(172)(i)(B)(8)
Koppers-Monessen Coke Plant | (OP)65-000-853 | Westmoreland | 3/20/98 | 10/16/01 66 FR 52511 | (c)(172)(i)(B)(9)
J & L Specialty Steel, Inc.—Midland Facility | (OP)04-000-013 | Beaver | 3/23/01 | 10/16/01 66 FR 52511 | (c)(172)(i)(B)(10)
Washington Steel Corp.—Washington Plant | (OP)63-000-023 | Washington | 9/12/96 | 10/16/01 66 FR 52511 | (c)(172)(i)(B)(11)
Equitrans, Inc.—Hartson | (OP)63-000-642 | Washington | 7/10/95 | 10/17/01 66 FR 52705 | (c)(173)(i)(B)(1)
Witco Corp.—Petrolia Facility | PA-10-037 | Butler | 6/27/95 | 10/17/01 66 FR 52705 | (c)(173)(i)(B)(2)
Ranbar Electrical Materials Inc. (formerly Westinghouse Electric Co. EMD—Manor | (OP)65-000-042 | Westmoreland | 2/22/99 | 10/17/01 66 FR 52705 | (c)(173)(i)(B)(3)
Nova Chemicals, Inc. (formerly Arco Chemical Co.—Beaver Valley) | (OP)04-000-033 | Beaver | 4/16/99 1/24/01 | 10/17/01 66 FR 52705 | (c)(173)(i)(B)(4)
BASF Corporation—Monaca Site | (OP)04-000-306 | Beaver | 3/23/01 | 10/17/01 66 FR 52705 | (c)(173)(i)(B)(5)
Cardone Industries—Rising Sun Ave. | PA(51-) PLID 3887 | Philadelphia | 5/29/95 | 10/30/01 66 FR 54710 | (c)(174)(i)(B)(1)
Cardone Industries—Chew St. | PA(51-) PLID 2237 | Philadelphia | 5/29/95 | 10/30/01 66 FR 54710 | (c)(174)(i)(B)(2)
U.S. Navy, Naval Surface Warfare Center—Carderock | PA(51-)9724 | Philadelphia | 12/27/97 | 10/30/01 66 FR 54710 | (c)(174)(i)(B)(3)
Wheelabrator Falls, Inc. | OP-09-0013 | Bucks | 1/11/96 5/17/96 | 10/30/01 66 FR 54710 | (c)(174)(i)(B)(4)
US Steel Group/USX Corporation—Fairless Works | OP-09-0006 | Bucks | 4/8/99 | 10/30/01 66 FR 54710 | (c)(174)(i)(B)(5)
Brown Printing Company | OP-46-0018A | Montgomery | 5/17/00 | 10/30/01 66 FR 54710 | (c)(174)(i)(B)(6)
Sun Chemical—General Printing Ink Division | PA(51-)2052 | Philadelphia | 7/14/00 | 10/30/01 66 FR 54710 | (c)(174)(i)(B)(7 )
Sunoco Chemicals, Frankford Plant | PA(51-)1551 | Philadelphia | 7/27/99 | 10/30/01 66 FR 54710 | (c)(174)(i)(B)(8)
Armco, Inc. Butler Operations Main Plant | PA-10-001M | Butler | 2/23/96 | 10/15/01 66 FR 52338 | (c)(175)(i)(B)
Armco, Inc. Butler Operations Stainless Plant | PA-10-001S | Butler | 2/23/96 | 10/15/01 66 FR 52338 | (c)(175)(i)(C)
Pennsylvania Power Co.—Bruce Mansfield Plant | (PA)04-000-235 | Beaver | 12/29/94 | 10/15/01 66 FR 52333 | (c)(176)(i)(B)(1)
West Penn Power Co.—Mitchell Station | (PA)63-000-016 | Washington | 6/12/95 | 10/15/01 66 FR 52333 | (c)(176)(i)(B)(2)
Carnegie Natural Gas Company—Fisher Station | (OP)03-000-182 | Armstrong | 12/2/98 | 10/15/01 66 FR 52333 | (c)(176)(i)(B)(3)
Apollo Gas Company—Shoemaker Station | (OP)03-000-183 | Armstrong | 9/12/96 | 10/15/01 66 FR 52333 | (c)(176)(i)(B)(4)
Texas Eastern Transmission Corp.—Delmont Station | (OP)65-000-839 | Westmoreland | 1/9/97 | 10/15/01 66 FR 52333 | (c)(176)(i)(B)(5)
The Peoples Natural Gas Co.—Valley Station | (OP)03-000-125 | Armstrong | 10/31/94 | 10/15/01 66 FR 52333 | (c)(176)(i)(B)(6)
The Peoples Natural Gas Co.—Girty Compressor Station | (PA)03-000-076 | Armstrong | 10/27/95 | 10/15/01 66 FR 52333 | (c)(176)(i)(B)(7 )
AES Beaver Valley Partners—Monaca Plant | (OP)04-000-446 | Beaver | 3/23/01 | 10/15/01 66 FR 52333 | (c)(176)(i)(B)(8)
Penreco—Karns City | OP-10-0027 | Butler | 5/31/95 | 10/12/01 66 FR 52044 | (c)(177)(i)(B)(1)
Ashland Petroleum Company | CO-256 | Allegheny | 12/19/96 | 10/12/01 66 FR 52044 | (c)(177)(i)(B)(2)
Bellefield Boiler Plant—Pittsburgh | EO-248 | Allegheny | 12/19/96 | 10/12/01 66 FR 52044 | (c)(177)(i)(B)(3)
Gulf Oil, L.P. | CO-250 | Allegheny | 12/19/96 | 10/12/01 66 FR 52044 | (c)(177)(i)(B)(4)
PA Dept. of Corrections | EO-244 | Allegheny | 1/23/97 | 10/12/01 66 FR 52044 | (c)(177)(i)(B)(5)
Pittsburgh Thermal Limited Partnership | CO-220 | Allegheny | 3/4/96 | 10/12/01 66 FR 52044 | (c)(177)(i)(B)(6)
BP Exploration & Oil, Inc.—Greensburg Terminal | (OP)65-000-378 | Westmoreland | 3/23/01 | 10/12/01 66 FR 52044 | (c)(177)(i)(B)(7 )
Pittsburgh Allegheny County Thermal, Ltd. | CO-265 | Allegheny | 11/9/98 | 10/12/01 66 FR 52044 | (c)(177)(i)(B)(8)
Aristech Chemical Corporation | CO-232 | Allegheny | 12/30/96 | 10/17/01 66 FR 52700 | (c)(178)(i)(B)(1)
Heinz U.S.A.—Pittsburgh | EO-211 | Allegheny | 3/8/96 | 10/17/01 66 FR 52700 | (c)(178)(i)(B)(2)
Heinz U.S.A.—Pittsburgh | CO-247 | Allegheny | 10/24/96 | 10/17/01 66 FR 52700 | (c)(178)(i)(B)(2)
Koppers Industries, Inc. (Aristech Chem. Corp) | CO-223 | Allegheny | 8/27/96 | 10/17/01 66 FR 52700 | (c)(178)(i)(B)(3)
Nabisco Biscuit Co. | CO-246 | Allegheny | 12/19/96 | 10/17/01 66 FR 52700 | (c)(178)(i)(B)(4)
Pressure Chemical Co. | CO-261 | Allegheny | 6/11/97 | 10/17/01 66 FR 52700 | (c)(178)(i)(B)(5)
General Carbide Corp. | (OP)65-000-622 | Westmoreland | 12/29/95 | 10/17/01 66 FR 52700 | (c)(178)(i)(B)(6)
Fansteel Hydro Carbide | (OP)65-000-860 | Westmoreland | 12/12/97 | 10/17/01 66 FR 52700 | (c)(178)(i)(B)(7 )
Carbidie Corporation | (OP)65-000-720 | Westmoreland | 7/31/98 | 10/17/01 66 FR 52700 | (c)(178)(i)(B)(8)
Dyno Nobel Inc.—Donora | (OP)63-000-070 | Washington | 3/31/99 | 10/17/01 66 FR 52700 | (c)(178)(i)(B)(9)
Newcomer Products, Inc. | (OP)65-000-851 | Westmoreland | 8/7/97 | 10/17/01 66 FR 52700 | (c)(178)(i)(B)(10)
PECO Energy Company—Cromby Generating Station | OP-15-0019 | Chester | 4/28/95 | 10/30/01 66 FR 54699 | (c)(179)(i)(B)(1)
Waste Resource Energy, Inc. (Operator); Shawmut Bank, Conn. National Assoc. (Owner); Delaware County Resource Recovery Facility | OP-23-0004 | Delaware | 11/16/95 | 10/30/01 66 FR 54699 | (c)(179)(i)(B)(2)
G-Seven, Ltd. | OP-46-0078 | Montgomery | 4/20/99 | 10/30/01 66 FR 54699 | (c)(179)(i)(B)(3)
Leonard Kunkin Associates | OP-09-0073 | Bucks | 6/25/01 | 10/30/01 66 FR 54699 | (c)(179)(i)(B)(4)
Kimberly-Clark Corporation | OP-23-0014A | Delaware | 6/24/98 8/1/01 | 10/30/01 66 FR 54699 | (c)(179)(i)(B)(5)
Sunoco, Inc. (R&M); Marcus Hook Plant | CP-23-0001 | Delaware | 6/8/95 8/2/01 | 10/30/01 66 FR 54699 | (c)(179)(i)(B)(6)
Waste Management Disposal Services of Pennsylvania, Inc. (GROWS Landfill) | OP-09-0007 | Bucks | 12/19/97 7/17/01 | 10/30/01 66 FR 54699 | (c)(179)(i)(B)(7 )
Koppel Steel Corporation—Ambridge Plant | OP-04-000-227 | Beaver | 10/12/00 | 10/15/01 66 FR 52317 | (c)(180)(i)(B)
General Motors Corporation | CO-243 | Allegheny | 8/27/96 | 10/15/01 66 FR 52327 | (c)(181)(i)(B)(1)
Oakmont Steel, Inc. | CO-226 | Allegheny | 5/14/96 | 10/15/01 66 FR 52327 | (c)(181)(i)(B)(2)
The Peoples Natural Gas Co. | CO-240 | Allegheny | 8/27/96 | 10/15/01 66 FR 52327 | (c)(181)(i)(B)(3)
U.S. Bureau of Mines | EO-215 | Allegheny | 3/8/96 | 10/15/01 66 FR 52327 | (c)(181)(i)(B)(4)
Waste Management Disposal Services of Pennsylvania (Pottstown Landfill) | OP-46-0033 | Montgomery | 4/20/99 | 10/30/01 66 FR 54704 | (c)(182)(i)(B)(1)
FPL Energy MH50, LP (Sunoco, Inc. (R&M)) | PA-23-0084 | Delaware | 7/26/99 | 10/30/01 66 FR 54704 | (c)(182)(i)(B)(2)
Exelon Generation Company—(PECO)—Richmond Generating Station | PA-51-4903 | Philadelphia | 7/11/01 | 10/30/01 66 FR 54704 | (c)(182)(i)(B)(3)
Jefferson Smurfit Corp./Container Corp. of America | PLID (PA-51-) 1566 | Philadelphia | 4/10/95 | 10/31/01 66 FR 54947 | (c)(184)(i)(B)(1)
Maritank Philadelphia, Inc. | PLID (PA-51-) 5013 | Philadelphia | 12/28/95 | 10/31/01 66 FR 54947 | (c)(184)(i)(B)(2)
Moyer Packing Company | OP-46-0001 | Montgomery | 3/15/96 | 10/31/01 66 FR 54947 | (c)(184)(i)(B)(3)
Tullytown Resource Recovery Facility (Waste Management of Pa., Inc.) | OP-09-0024 | Bucks | 7/14/97 | 10/31/01 66 FR 54947 | (c)(184)(i)(B)(4)
SPS Technologies, Inc. | OP-46-0032 | Montgomery | 10/30/97 | 10/31/01 66 FR 54947 | (c)(184)(i)(B)(5)
PECO Energy Company | OP-09-0077 | Bucks | 12/19/97 | 10/31/01 66 FR 54947 | (c)(184)(i)(B)(6)
Philadelphia Gas Works—Richmond Plant | PA-51-4922 | Philadelphia | 7/27/99 | 10/31/01 66 FR 54947 | (c)(184)(i)(B)(7 )
Exelon Generation Company—Delaware Generating Station | PA-51-4901 | Philadelphia | 7/11/01 | 10/31/01 66 FR 54947 | (c)(184)(i)(B)(8)
Exelon Generation Company—Schuylkill Generating Station | PA-51-4904 | Philadelphia | 7/11/01 | 10/31/01 66 FR 54947 | (c)(184)(i)(B)(9)
International Business Systems, Inc. | OP-46-0049 | Montgomery | 10/29/98 | 10/30/01 66 FR 54691 | (c)(185)(i)(B)(1)
Bethlehem Lukens Plate | OP-46-0011 | Montgomery | 12/11/98 | 10/30/01 66 FR 54691 | (c)(185)(i)(B)(2)
Montenay Montgomery Limited Partnership | OP-46-0010A | Montgomery | 4/20/99 6/20/00 | 10/30/01 66 FR 5469 | (c)(185)(i)(B)(3)
Northeast Foods, Inc. (Bake Rite Rolls) | OP-09-0014 | Bucks | 4/9/99 | 10/30/01 66 FR 54691 | (c)(185)(i)(B)(4)
Aldan Rubber Company | PA-(51-)1561 | Philadelphia | 7/21/00 | 10/30/01 66 FR 54691 | (c)(185)(i)(B)(5)
Braceland Brothers, Inc. | PA-(51-)3679 | Philadelphia | 7/14/00 | 10/30/01 66 FR 54691 | (c)(185)(i)(B)(6)
Graphic Arts, Incorporated | PA-(51-)2260 | Philadelphia | 7/14/00 | 10/30/01 66 FR 54691 | (c)(185)(i)(B)(7 )
O'Brien (Philadelphia) Cogeneration, Inc.—Northeast Water Pollution Control Plant | PA-(51-)1533 | Philadelphia | 7/21/00 | 10/30/01 66 FR 54691 | (c)(185)(i)(B)(8)
O'Brien (Philadelphia) Cogeneration, Inc.—Southwest Water Pollution Control Plant | PA-(51-)1534 | Philadelphia | 7/21/00 | 10/30/01 66 FR 54691 | (c)(185)(i)(B)(9)
Pearl Pressman Liberty | PA-(51-)7721 | Philadelphia | 7/24/00 | 10/30/01 66 FR 54691 | (c)(185)(i)(B)(10)
Arbill Industries, Inc. | PA-51-3811 | Philadelphia | 7/27/99 | 10/30/01 66 FR 54691 | (c)(185)(i)(B)(11)
McWhorter Technologies, Inc. | PA-51-3542 | Philadelphia | 7/27/99 | 10/30/01 66 FR 54691 | (c)(185)(i)(B)(12)
NortheastWater Pollution Control Plant | PA-51-9513 | Philadelphia | 7/27/99 | 10/30/01 66 FR 54691 | (c)(185)(i)(B)(13)
Newman and Company | PLID (51-)3489 | Philadelphia | 6/11/97 | 10/30/01 66 FR 54691 | (c)(185)(i)(B)(14)
Allegheny Ludlum Steel Corporation | (OP-)65-000-137 | Westmoreland | 5/17/99 | 10/19/01 66 FR 53090 | (c)(186)(i)(B)(1)
INDSPEC Chemical Corporation | PA10-021 | Butler | 10/19/98 | 10/19/01 66 FR 53090 | (c)(186)(i)(B)(2)
Stoney Creek Technologies, L.L.C. | PA-23-0002 | Delaware | 2/24/99 | 11/5/01 66 FR 55880 | (c)(187)(i)(B)(1)
Superpac, Inc. | OP-09-0003 | Bucks | 3/25/99 | 11/5/01 66 FR 55880 | (c)(187)(i)(B)(2)
Transit America, Inc. | PLID (51-)1563 | Philadelphia | 6/11/97 | 11/5/01 66 FR 55880 | (c)(187)(i)(B)(3)
American Bank Note Company | OP-46-0075 | Montgomery | 5/19/97 8/10/98 | 11/5/01 66 FR 55880 | (c)(187)(i)(B)(4)
Atlas Roofing Corporation—Quakertown | OP-09-0039 | Bucks | 3/10/99 | 11/5/01 66 FR 55880 | (c)(187)(i)(B)(5)
Beckett Corporation | OP-15-0040 | Chester | 7/8/97 | 11/5/01 66 FR 55880 | (c)(187)(i)(B)(6)
Klearfold, Inc. | OP-09-0012 | Bucks | 4/15/99 | 11/5/01 66 FR 55880 | (c)(187)(i)(B)(7 )
National Label Company | OP-46-0040 | Montgomery | 7/28/97 | 11/5/01 66 FR 55880 | (c)(187)(i)(B)(8)
Bethlehem Steel Corporation | OP-22-02012 | Dauphin | 4/9/99 | 5/23/02 67 FR 36108 | (c)(191)
Hershey Chocolate USA | OP-22-2004A | Dauphin | 1/24/00 | 6/26/02 67 FR 43002 | (c)(194)(i)(B)(1)
Pennsylvania Power Company New Castle Plant | OP-37-0023 | Lawrence | 4/8/99 | 6/26/02 67 FR 43002 | (c)(194)(i)(B)(2)
Lafarge Corporation | OP-39-0011B | Lehigh | 5/19/97 | 4/1/03 68 FR 15661 | (c)(196)(i)(B)(1)
The Peoples Natural Gas Company | (OP-)11-000-356 | Cambria | 11/23/94 | 4/1/03 68 FR 15661 | (c)(196)(i)(B)(2)
Horsehead Resource Development Company, Inc. | OP-13-0001 | Carbon | 5/16/95 | 4/1/03 68 FR 15661 | (c)(196)(i)(B)(3)
Williams Generation Company—Hazleton | OP-40-0031A | Luzerne | 3/10/00 | 4/1/03 68 FR 15661 | (c)(196)(i)(B)(4)
Pennsylvania Power and Light Company, Holtwood Steam Electric Station | PA-36-2016 | Lancaster | 5/25/95 | 4/1/03 68 FR 15661 | (c)(196)(i)(B)(5)
General Electric Transportation Systems | OP-25-025A | Erie | 8/26/02 | 4/7/03 68 FR 16724 | (c)(198)(i)(B)
Bethlehem Structural Products Corporation | OP-48-0013 | Northampton | 10/24/96 | 5/2/03 68 FR 23404 | (c)(200)(i)(B)(1)
International Paper Company, Erie Mill | PA-25-028 | Erie | 12/21/94 | 5/2/03 68 FR 23404 | (c)(200)(i)(B)(2)
National Fuel Gas Supply—Heath Compressor Station | PA-33-144A | Jefferson | 10/5/98 | 5/2/03 68 FR 23404 | (c)(200)(i)(B)(3)
PPG Industries, Inc. | OP-20-145 | Crawford | 5/31/95 | 3/24/03 68 FR 14154 | (c)(201)(i)(B)
Dominion Trans., Inc.—Finnefrock Station | Title V-18-00005 | Clinton | 2/16/00 | 5/7/03 68 FR 24365 | (c)(202)(i)(B)(1)
Textron Lycoming—Oliver Street Plant | Title V-41-00005 | Lycoming | 1/12/01 | 5/7/03 68 FR 24365 | (c)(202)(i)(B)(2)
Lafayette College, Easton Campus | OP-48-0034 | Northampton | 8/18/97 | 5/20/03 68 FR 27471 | (c)(205)(i)(B)
Keystone Carbon Company | OP-24-016 | Elk | 5/15/95 | 10/17/03 68 FR 59741 | (c)(207)(i)(B)(1)
Mack Trucks, Inc. | OP-39-0004 | Northampton | 5/31/95 | 10/17/03 68 FR 59741 | (c)(207)(i)(B)(1)
Owens-Brockway Glass Container, Inc. | OP-33-033 | Jefferson | 3/27/95 | 10/17/03 68 FR 59741 | (c)(207)(i)(B)(1)
Resilite Sport Products, Inc. | OP-49-0003 | Northumberland | 12/3/96 | 10/17/03 68 FR 59741 | (c)(207)(i)(B)(1)
Westfield Tanning Company | OP-59-0008 | Tioga | 11/27/96 | 10/17/03 68 FR 59741 | (c)(207)(i)(B)(1)
Tarkett, Incorporated | OP-39-0002 | Lehigh | 5/31/95 | 8/6/03 68 FR 46487 | (c)(208)(i)(B)(1)
Hacros Pigments, Inc. | OP-48-0018 | Northampton | 7/31/96 | 8/6/03 68 FR 46487 | (c)(208)(i)(B)(2)
GPU Generation Corp., Homer City Station | (OP-)32-000-055 | Indiana | 0/29/98 | 10/15/03 68 FR 59321 | (c)(212)(i)(B)(1)
GPU Generation Corp., Seward Station | (OP-)32-000-040 | Indiana | 4/30/98 | 10/15/03 68 FR 59321 | (c)(212)(i)(B)(2)
Ebensburg Power Company, Ebensburg Cogeneration Plant | (OP-)11-000-318 | Cambria | 3/28/01 | 10/15/03 68 FR 59321 | (c)(212)(i)(B)(3)
Sithe Pennsylvania Holdings, LLC, Warren Station | OP-62-012B | Warren | 1/20/00 | 10/15/03 68 FR 59321 | (c)(212)(i)(B)(4)
Pennsylvania Power & Light Company, Sunbury SES | OP-55-0001A | Snyder | 7/7/97 | 10/15/03 68 FR 59321 | (c)(212)(i)(B)(5)
Lakeview Landfill | OP-25-920 | Erie | 5/29/97 | 10/15/03 68 FR 59321 | (c)(212)(i)(B)(6)
National Fuel Gas Supply Corp.—Roystone Compressor Station | OP 62-141F | Warren | 4/1/03 | 10/27/04 69 FR 62583 | (c)(213)(i)(B)(1)
Crompton Corporation, Fairview Township | OP-10-037 | Butler | 6/4/03 | 5/25/04 69 FR 29444 | (c)(213)(i)(B)(2)
Andritz, Inc. | 41-00010C | Lycoming | 4/30/03 | 10/15/03 68 FR 59318 | (c)(214)(i)(B)(1)
Brodart Company | 18-0007A | Clinton | 4/8/03 | 10/15/03 68 FR 59318 | (c)(214)(i)(B)(2)
Erie Sewer Authority | OP-25-179 | Erie | 6/5/03 | 10/15/03 68 FR 59318 | (c)(214)(i)(B)(3)
Hercules Cement Company | OP-48-0005A | Northampton | 4/16/99 | 11/24/03 68 FR 65846 | (c)(217)(i)(B)
Tennessee Gas Pipeline Company, Station 321 | OP 58-00001A | Susquehanna | 4/16/98 | 10/27/04 69 FR 62585 | (c)(218)(i)(B)(1)
Tennessee Gas Pipeline Company, Station 219 | OP 43-0272 | Mercer | 4/7/99 | 10/27/04 69 FR 62585 | (c)(218)(i)(B)(2)
Information Display Technology, Inc. | 32-000-085 | Indiana | 1/11/962 | 03/29/05 70 FR 15774 | 52.2020(d)(1)(h)
Bedford Materials Co., Inc. | 05-02005 | Bedford | 4/15/99 | 03/29/05 70 FR 15774 | 52.2020(d)(1)(h)
Bollman Hat Company | 36-2031 | Lancaster | 7/3/95 | 03/29/05 70 FR 15774 | 52.2020(d)(1)(h)
Armco Inc. | OP 43-040 | Mercer | 9/30/99 | 03/29/05 70 FR 15774 | 52.2020(d)(1)(h)
Specialty Tires of America, Inc. | 32-000-065 | Indiana | 1/6/00 | 03/29/05 70 FR 15774 | 52.2020(d)(1)(h)
Truck Accessories Group East | OP-49-0005 | Northumberland | 3/26/99 | 03/29/05 70 FR 15774 | 52.2020(d)(1)(h)
Jeraco Enterprises, Inc. | OP-49-0014 | Northumberland | 4/6/97 | 03/29/05 70 FR 15774 | 52.2020(d)(1)(h)
Insulation Corporation of America | 39-0012 | Lehigh | 10/17/95 | 03/29/05 70 FR 15774 | 52.2020(d)(1)(h)
Pope & Talbot, Inc. | 40-0019 | Luzerne | 5/31/96 | 03/29/05 70 FR 15774 | 52.2020(d)(1)(h)
Universal Rundle Corporation | OP 37-059 | Lawrence | 5/31/95 | 03/29/05 70 FR 15774 | 52.2020(d)(1)(h)
Clark Filter | 36-02040 | Lancaster | 2/4/00 | 03/29/05 70 FR 15774 | 52.2020(d)(1)(h)
The Pennsylvania State University—University Park | OP-14- 0006 | Centre | 12/30/98 | 3/30/05 70 FR 16118 | 52.2020(d)(1)(c)
Tennessee Gas Pipeline Company—Charleston Township | OP-59-0001 | Tioga | 5/31/95 | 3/30/05 70 FR 16118 | 52.2020(d)(1)(c)
Tennessee Gas Pipeline Company—Wyalusing Township | OP-08-0002 | Bradford | 5/31/95 | 3/30/05 70 FR 16118 | 52.2020(d)(1)(c)
Masland Industries | 21-2001 | Cumberland | 5/31/95 | 3/30/05 70 FR 16118 | 52.2020(d)(1)(c)
ESSROC Cement Corp. | OP-37-003 | Lawrence | 7/27/95 3/31/99 | 3/30/05 70 FR 16118 | 52.2020(d)(1)(c)
The Magee Carpet Company | OP-19-0001 | Columbia | 1/22/97 | 3/30/05 70 FR 16118 | 52.2020(d)(1)(c)
Tennessee Gas Pipeline Company—Howe Township | OP-27-015 | Forest | 7/27/00 | 3/30/05 70 FR 16118 | 52.2020(d)(1)(c)
Transcontinental Gas Pipeline Corporation—Buck Township | 40-0002 40-0002A | Luzerne | 5/31/95 | 3/30/05 70 FR 16118 | 52.2020(d)(1)(c)
Transcontinental Gas Pipe Line Corporation—Peach Bottom Township | 67-2012 | York | 5/5/95 | 3/30/05 70 FR 16118 | 52.2020(d)(1)(c)
Standard Steel Division of Freedom Forge Corp. | 44-2001 | Mifflin | 5/31/95 | 3/30/05 70 FR 16118 | 52.2020(d)(1)(c)
Pope and Talbot, Inc. | 35-0004 | Lackawanna | 5/31/96 | 3/30/05 70 FR 16124 | 52.2020 (d)(1)(d)
Pennsylvania Power and Light Company | 22-2011 | Dauphin | 6/7/95 | 3/30/05 70 FR 16124 | 52.2020(d)(1)(d)
Ellwood Group Inc. | OP 37-313 | Lawrence | 1/31/01 | 3/30/05 70 FR 16124 | 52.2020(d)(1)(d)
National Fuel Gas Supply Corporation | 53-0009A 53-0009 | Potter | 8/5/96 | 3/30/05 70 FR 16124 | 52.2020(d)(1)(d)
Department of the Army | 28-02002 | Franklin | 2/3/00 | 3/31/05 70 FR 16416 | 52.2020(d)(1)(g)
Harley-Davidson Motor Company | 67-2032 | York | 4/9/97 | 3/31/05 70 FR 16416 | 52.2020(d)(1)(g)
GE Transportation Systems | OP 43-196 | Mercer | 5/16/01 | 3/31/05 70 FR 16416 | 52.2020(d)(1)(g)
Stone Container Corporation | 67-2002 | York | 9/3/96 | 3/31/05 70 FR 16416 | 52.2020(d)(1)(g)
Stanley Storage Systems, Inc. | 39-0031 | Lehigh | 6/12/98 | 3/31/05 70 FR 16416 | 52.2020(d)(1)(g)
York Group, Inc. | 67-2014 | York | 7/3/95 | 3/31/05 70 FR 16416 | 52.2020(d)(1)(g)
Strick Corporation | OP-19-0002 | Columbia | 6/6/97 | 3/31/05 70 FR 16416 | 52.2020(d)(1)(g)
Grumman Olson, Division of Grumman Allied Industries | OP-41-0002 | Lycoming | 9/25/97 | 3/31/05 70 FR 16416 | 52.2020(d)(1)(g)
Prior Coated Metals, Inc. | 39-0005 | Lehigh | 5/26/95 | 3/31/05 70 FR 16416 | 52.2020(d)(1)(g)
Schindler Elevator Corporation | 01-2007 | Adams | 5/24/95 | 3/31/05 70 FR 16416 | 52.2020(d)(1)(g)
Hodge Foundry | OP-43-036 | Mercer | 3/31/99 | 3/31/05 70 FR 16420 | 52.2020(d)(1)(a)
Resolite, A United Dominion Co. | OP-10-266 | Butler | 10/15/99 2/18/00 | 3/31/05 70 FR 16420 | 52.2020(d)(1)(a)
Consolidation Coal Co.—Coal Preparation Plant | 30-000-063 | Greene | 5/17/99 | 3/31/05 70 FR 16420 | 52.2020(d)(1)(a)
Urick Foundry | OP-25-053 | Erie | 10/24/96 | 3/31/05 70 FR 16420 | 52.2020(d)(1)(a)
Keystone Sanitary Landfill, Inc. | 35-0014 | Lackawanna | 4/19/99 | 3/31/05 70 FR 16420 | 52.2020(d)(1)(a)
Grinnell Corporation | 36-2019 | Lancaster | 6/30/95 | 3/31/05 70 FR 16420 | 52.2020(d)(1)(a)
Buck Company Inc. | 36-2035 | Lancaster | 8/1/95 | 3/31/05 70 FR 16420 | 52.2020(d)(1)(a)
Owens-Brockway Glass Container, Inc. | OP 16-010 | Clarion | 3/27/95 5/31/95 | 3/31/05 70 FR 16423 | 52.2020(d)(1)(f)
Alcoa Extrusion, Inc. | 54-0022 | Schuylkill | 4/19/99 | 3/31/05 70 FR 16423 | 52.2020(d)(1)(f)
Pennsylvania Electric Company | 32-000-059 | Indiana | 12/29/94 | 3/31/05 70 FR 16423 | 52.2020(d)(1)(f)
National Gypsum Company | OP-60-0003 | Union | 1/17/96 | 3/31/05 70 FR 16423 | 52.2020(d)(1)(f)
Stoney Creek Technologies, LLC | OP-23-0002 | Delaware | 7/24/03 | 3/31/05 70 FR 16423 | 52.2020(d)(1)(f)
Northeastern Power Company | 54-0008 | Schuylkill | 5/26/95 | 3/31/05 70 FR 16423 | 52.2020(d)(1)(f)
Texas Eastern Transmission Corporation | 22-2010 | Dauphin | 1/31/97 | 3/31/05 70 FR 16423 | 52.2020(d)(1)(f)
The Miller Group | 54-0024 | Schuykill | 2/1/99 | 3/31/05 70 FR 16423 | 52.2020(d)(1)(f)
CNG Transmission Corporation | 32-000-129 | Indiana | 6/22/95 | 3/31/05 70 FR 16423 | 52.2020(d)(1)(f)
I.H.F.P., Inc. | OP-49-0010A | Northumberland | 1/7/98 | 3/31/05 70 FR 16423 | 52.2020(d)(1)(f)
National Forge Company | OP 62-032 | Warren | 5/31/95 | 3/31/05 70 FR 16423 | 52.2020(d)(1)(f)
United Refining Company | OP 62-017 | Warren | 5/31/95 11/14/96 | 3/31/05 70 FR 16423 | 52.2020(d)(1)(f)
Petrowax Refining | OP 42-110 | McKean | 3/4/96 5/31/96 | 3/31/05 70 FR 16423 | 52.2020(d)(1)(f)
Westvaco Corporation | 07-2008 | Blair | 9/29/95 | 3/31/05 70 FR 16423 | 52.2020(d)(1)(f)
Naval Surface Warfare Center, Caderock Division Ship Systems Engineering Station | PA-04108 | Philadelphia | 10/18/04 | 4/29/05 70 FR 22257 | 52.2020(d)(1)(j)
R.H. Sheppard Co., Inc. | 67-2016 | York | 8/4/95 | 8/24/05 70 FR 49496 | 52.2020(d)(1)(i)
Wheatland Tube Company | OP 43-182 | Mercer | 7/26/95 | 8/24/05 70 FR 49496 | 52.2020(d)(1)(i)
Transcontinental Gas Pipeline Corporation | OP-53-0006 | Potter | 10/13/95 | 8/24/05 70 FR 49496 | 52.2020(d)(1)(i)
Transcontinental Gas Pipeline Corporation | OP-19-0004 | Columbia | 5/30/95 | 8/24/05 70 FR 49496 | 52.2020(d)(1)(i)
Transcontinental Gas Pipeline Corporation | PA-41-0005A | Lycoming | 8/9/95 | 8/24/05 70 FR 49496 | 52.2020(d)(1)(i)
Molded Fiber Glass | OP 25-035 | Erie | 7/30/99 | 11/1/05 70 FR 65842 | 52.2020(d)(1)(k)
Erie Forge and Steel, Inc. | OP 25-924 | Erie | 2/10/00 | 11/1/05 70 FR 65842 | 52.2020(d)(1)(k)
OSRAM SYLVANIA Products, Inc. | OP 59-0007 | Tioga | 1/22/98 | 11/1/05 70 FR 65842 | 52.2020(d)(1)(k)
Owens-Brockway Glass Container | OP 33-002 | Jefferson | 11/23/98 | 11/1/05 70 FR 65842 | 52.2020(d)(1)(k)
Texas Eastern Transmission Corporation | 32-000-230 | Indiana | 9/25/95 | 11/1/05 70 FR 65842 | 52.2020(d)(1)(k)
SKF, USA, Incorporated | 67-02010A | York | 7/19/00 | 11/1/05 70 FR 65842 | 52.2020(d)(1)(k)
Johnstown America Corporation | 11-000-288 | Cambria | 1/13/99 | 11/1/05 70 FR 65842 | 52.2020(d)(1)(k)
SGL Carbon Corporation | OP 24-131 | Elk | 5/12/95 5/31/95 | 11/1/05 70 FR 65845 | 52.2020(d)(1)(e)
Salem Tube, Inc. | OP 43-142 | Mercer | 2/16/99 | 11/1/05 70 FR 65845 | 52.2020(d)(1)(e)
Dominion Trans, Inc. | 18-00006 | Clinton | 6/15/99 9/29/03 | 11/1/05 70 FR 65845 | 52.2020(d)(1)(e)
Waste Management Disposal Services of Pennsylvania (Pottstown Landfill) | OP-46-0033 | Berks; Montgomery | 4/20/99 1/27/04 | 11/2/05 70 FR 66261 | 52.2020(d)(1)(b)
Waste Management Disposal Services of PA, Inc. | 67-02047 | York | 4/20/99 | 11/2/05 70 FR 66261 | 52.2020(d)(1)(b)
Armstrong World Industries, Inc. | 36-2001 | Lancaster | 7/3/99 | 11/2/05 70 FR 66261 | 52.2020(d)(1)(b)
Cogentrix of Pennsylvania Inc. | OP-33-137 | Jefferson | 1/27/98 | 3/8/06 71 FR 11514 | 52.2020(d)(1)(l)
| PA-33-302-014 |  | 11/15/90
| OP-33-302-014 |  | 5/31/93
| PA-33-399-004 |  | 10/31/98
| OP-33-399-004 |  | 5/31/93
Scrubgrass Generating Company, LP | OP-61-0181 | Venango | 4/30/98 | 3/8/06 71 FR 11514 | 52.2020(d)(1)(l)
Wheelabrator Frackville Energy Co. | OP-54-005 | Schuylkill | 9/18/98 | 3/8/06 71 FR 11514 | 52.2020(d)(1)(l)
Indiana University of Pennsylvania—S.W. Jack Cogeneration Facility | OP-32-000-200 | Indiana | 9/24/98 | 3/8/06 71 FR 11514 | 52.2020(d)(1)(l)
Fleetwood Motor Homes | OP-49-0011 | Northumberland | 10/30/98 | 3/8/06 71 FR 11514 | 52.2020(d)(1)(l)
Piney Creek, LP | OP-16-0127 | Clarion | 12/18/98 | 3/8/06 71 FR 11514 | 52.2020(d)(1)(l)
Statoil Energy Power Paxton, LP | OP-22-02015 | Dauphin | 6/30/99 | 3/8/06 71 FR 11514 | 52.2020(d)(1)(l)
Harrisburg Steamworks | OP-22-02005 | Dauphin | 3/23/99 | 3/8/06 71 FR 11514 | 52.2020(d)(1)(l)
Cove Shoe Company | OP-07-02028 | Blair | 4/7/99 | 3/8/06 71 FR 11514 | 52.2020(d)(1)(l)
PP&L—Fichbach C.T. Facility | OP-54-0011 | Schuylkill | 6/1/99 | 3/8/06 71 FR 11514 | 52.2020(d)(1)(l)
PP&L—Allentown C.T. Facility | OP-39-0009 | Lehigh | 6/1/99 | 3/8/06 71 FR 11514 | 52.2020(d)(1)(l)
PP&L—Harwood C.T. Facility | OP-40-0016 | Luzerne | 6/1/99 | 3/8/06 71 FR 11514 | 52.2020(d)(1)(l)
PP&L—Jenkins C.T. Facility | OP-40-0017 | Luzerne | 6/1/99 | 3/8/06 71 FR 11514 | 52.2020(d)(1)(l)
The International Metals Reclamation Co. | OP 37-243 | Lawrence | 8/9/00 | 3/31/06 71 FR 16235 | 52.2020(d)(1)(m)
Petrowax, PA, Inc. | PA 61-020 | Venango | 1/2/96 | 3/31/06 71 FR 16235 | 52.2020(d)(1)(m)
Pennsylvania Electric Company | OP 32-000-059 | Indiana | 12/29/94 | 04/28/06 71 FR 25070 | 52.2020(d)(1)(n)
The Harrisburg Authority | OP 22-2007 | Dauphin | 1/02/95 | 04/28/06 71 FR 25070 | 52.2020(d)(1)(n)
Texas Eastern Transmission Corp. | OP 50-02001 | Perry | 4/12/99 | 04/28/06 71 FR 25070 | 52.2020(d)(1)(n)
Graybec Lime, Inc. | OP14-0004 | Centre | 4/16/99 | 04/28/06 71 FR 25070 | 52.2020(d)(1)(n)
Techneglas, Inc. | OP 40-0009A | Luzerne | 1/29/99 | 04/28/06 71 FR 25070 | 52.2020(d)(1)(n)
DLM Foods (formerly Heinz USA) | CO 211 | Allegheny | 3/8/96 | 05/11/06 71 FR 27394 | 52.2020(d)(1)(o)
NRG Energy Center (formerly Pittsburgh Thermal Limited Partnership) | CO 220 | Allegheny | 3/4/96 | 05/11/06 71 FR 27394 | 52.2020(d)(1)(o)
Tasty Baking Oxford, Inc. | OP 15-0104 | Chester | 5/12/04 | 05/11/06 71 FR 27394 | 52.2020(d)(1)(o)
Silberline Manufacturing Company | OP 13-0014 | Carbon | 4/19/99 | 05/11/06 71 FR 27394 | 52.2020(d)(1)(o)
Adhesives Research, Inc. | OP 67-2007 | York | 7/1/95 | 05/11/06 71 FR 27394 | 52.2020(d)(1)(o)
Mohawk Flush Doors, Inc. | OP 49-0001 | Northumberland | 1/20/99 | 05/11/06 71 FR 27394 | 52.2020(d)(1)(o)
Bigbee Steel and Tank Company | 36-2024 | Lancaster | 7/7/95 | 6/13/06 71 FR 34011 | 52.2020(d)(1)(p)
Conoco Phillips Company | OP-23-0003 | Delaware | 4/29/04 | 6/13/06 71 FR 34011 | 52.2020(d)(1)(p)
The Hershey Company | 22-02004B | Dauphin | 12/23/05 | 6/13/06 71 FR 34011 | 52.2020(d)(1)(p)
LORD Corporation, Cambridge Springs | OP-20-123 | Crawford | 7/27/95 | 6/13/06 71 FR 34011 | 52.2020(d)(1)(p)
Pittsburgh Corning Corporation | PA-42-009 | McKean | 5/31/95 | 6/13/06 71 FR 34011 | 52.2020(d)(1)(p)
Small Tube Manufacturing, LLC | 07-02010 | Blair | 2/27/06 | 6/13/06 71 FR 34011 | 52.2020(d)(1)(p)
Texas Eastern Transmission Corporation, Holbrook Compressor Station | 30-000-077 | Greene | 1/3/97 | 6/13/06 71 FR 34011 | 52.2020(d)(1)(p)
Willamette Industries, Johnsonburgh Mill | OP-24-009 | Elk | 5/23/95 | 6/13/06 71 FR 34011 | 52.2020(d)(1)(p)
American Refining Group, Inc. | OP-42-004 | McKean | 11/23/98 | 6/14/06 71 FR 34259 | 52.2020(d)(1)(q)
Bellefonte Lime Company | OP-14-0002 | Centre | 10/19/98 | 6/14/06 71 FR 34259 | 52.2020(d)(1)(q)
Butter Krust Baking Company, Inc. | OP-49-0006 | Northumberland | 11/5/96 | 6/14/06 71 FR 34259 | 52.2020(d)(1)(q)
Carnegie Natural Gas Company | 30-000-106 | Greene | 9/22/95 | 6/14/06 71 FR 34259 | 52.2020(d)(1)(q)
Caterpillar, Inc. | 67-2017 | York | 8/1/95 | 6/14/06 71 FR 34259 | 52.2020(d)(1)(q)
Gencorp, Inc. | 54-0009 | Schuykill | 5/31/96 | 6/14/06 71 FR 34259 | 52.2020(d)(1)(q)
Harris Semiconductor | OP-40-0001A | Luzerne | 4/16/99 | 6/14/06 71 FR 34259 | 52.2020(d)(1)(q)
Merisol Antioxidants LLC | OP-61-00011 | Venango | 4/18/05 | 6/14/06 71 FR 34259 | 52.2020(d)(1)(q)
Norcon Power Partners, L.P. | OP-25-923 | Erie | 9/21/95 | 6/14/06 71 FR 34259 | 52.2020(d)(1)(q)
Triangle Pacific Corp. | 34-2001 | Juniata | 5/31/95 | 6/14/06 71 FR 34259 | 52.2020(d)(1)(q)
Viking Energy of Northumberland Limited Partnership | OP-49-0004 | Northumberland | 5/30/95 | 6/14/06 71 FR 34259 | 52.2020(d)(1)(q)
White Cap, Inc. | 40-0004 | Luzerne | 7/20/95 | 6/14/06 71 FR 34259 | 52.2020(d)(1)(q)
Carlisle Tire & Rubber Company | 21-2003 | Cumberland | 3/10/95 | 7/11/06 71 FR 38993 | 52.2020(d)(1)(t)
The Carbide/Graphite Group, Inc. | OP 24-012 | Elk | 5/12/95 | 7/11/06 71 FR 38993 | 52.2020(d)(1)(t)
Celotex Corporation | OP-49-0013 | Northumberland | 6/18/99 | 7/11/06 71 FR 38993 | 52.2020(d)(1)(t)
American Railcar Industries, Inc. Shippers Car Line Division | OP-49-0012 | Northumberland | 11/29/95 | 7/11/06 71 FR 38993 | 52.2020(d)(1)(t)
ACF Industries, Inc. | OP-49-0009 | Northumberland | 12/12/96 | 7/11/06 71 FR 38993 | 52.2020(d)(1)(t)
New Holland North America, Inc. | 36-2028 | Lancaster | 10/17/95 | 7/11/06 71 FR 38993 | 52.2020(d)(1)(t)
Allsteel, Inc. | 40-001-5 | Luzerne | 5/26/95 | 7/11/06 71 FR 38993 | 52.2020(d)(1)(t)
Ball-Foster Glass Container Co. | OP 42-028 | McKean | 7/7/95 3/31/99 | 7/11/06 71 FR 38993 | 52.2020(d)(1)(t)
Pennsylvania Power & Light Company—West Shore | OP-21-2009 | Cumberland | 6/7/95 | 7/11/06 71 FR 38995 | 52.2020(d)(1)(r)
Foster Wheeler Mt. Carmel, Inc. | OP-49-0002 | Northumberland | 6/30/95 | 7/11/06 71 FR 38995 | 52.2020(d)(1)(r)
Metropolitan Edison Company—Portland | OP-48-0006 | Northampton | 12/14/94 | 7/11/06 71 FR 38995 | 52.2020(d)(1)(r)
Pennsylvania Power & Light Company | OP-41-0004 | Lycoming | 6/13/95 | 7/11/06 71 FR 38995 | 52.2020(d)(1)(r)
Pennsylvania Power & Light Company | OP-18-0006 | Clinton | 6/13/95 | 7/11/06 71 FR 38995 | 52.2020(d)(1)(r)
Texas Eastern Transmission Corporation | OP-34-2002 | Juniata | 1/31/97 | 7/11/06 71 FR 38995 | 52.2020(d)(1)(r)
Pennsylvania Power & Light Company | OP 48-0011 | Northampton | 12/19/94 | 7/11/06 71 FR 38995 | 52.2020(d)(1)(r)
Johnstown Corporation | OP-11-000-034 | Cambria | 6/23/95 | 7/11/06 71 FR 38995 | 52.2020(d)(1)(r)
Koppers Industries, Inc. | OP41-0008 | Lycoming | 3/30/99 | 7/13/06 71 FR 39572 | 52.2020(d)(1)(s)

(2) EPA-Approved Volatile Organic Compounds (VOC) Emissions Trading Programs
Name of source | Permit number | County | State effective date | EPA approval date | Additional explanation/§ 52.2063 citation
National Can Company Fres-co Systems, USA Inc. Paramount Packaging Corp. | 85-524 85-525 | Bucks | 3/1/85 | 4/21/88 53 FR 13121 | (c)(68); transfer of offsets from NCCo to Fres-co and Paramount.

(3) EPA-Approved Source Specific Sulfur Dioxide (SO2) Requirements
Name of source | Permit number | County | State effective date | EPA approval date | Additional explanation/§ 52.2063 citation
USX Corporation, Clairton Coke Works | 200 | Allegheny | 11/17/94 | 8/18/95 60 FR 43012 | (c)(99)
Reliant Energy Mid-Atlantic Power Holdings LLC, Warren Generating Station | 203-62-00012 | Warren | 11/21/01 | 1/17/03 68 FR 2459 | (c)(190)(i)(C)(1)
United Refining Company | SO2-62-017E | Warren | 6/11/01 | 1/17/03 68 FR 2459 | (c)(190)(i)(C)(2)
Trigen-Philadelphia Energy Corporation | SO2-95-002 | Philadelphia | 7/27/00 | 9/9/02 67 FR 57155 | (c)(193)(i)(B)(1)
Grays Ferry Cogeneration Partnership | SO2-95-002A | Philadelphia | 7/27/00 | 9/9/02 67 FR 57155 | (c)(193)(i)(B)(2)
PECO Energy Company, Schuylkill Generating Station | SO2-95-006 | Philadelphia | 7/27/00 | 9/9/02 67 FR 57155 | (c)(193)(i)(B)(3)
Sunoco, Inc. (R&M) Philadelphia Refinery | SO2-95-039 | Philadelphia | 7/27/00 | 9/9/02 67 FR 57155 | (c)(193)(i)(B)(4)

(4) EPA-Approved Source Specific Lead (Pb) Requirements
Name of source | Permit number | County | State effective date | EPA approval date | Additional explanation/§ 52.2063 citation
East Penn Manufacturing Corp. | [None] | Berks | 5/29/84 | 7/27/84 49 FR 30179 | (c)(62)
General Battery Corporation | [None] | Berks | 5/29/84 | 7/27/84 49 FR 30179 | (c)(62)
Tonolli Corporation (Closed) | [None] | Carbon | 5/29/84 | 7/27/84 49 FR 30179 | (c)(62)
Franklin Smelting and Refining Corporation | [None] | Philadelphia | 9/21/94 | 12/20/96 61 FR 67275 | (c)(112)
MDC Industries, Inc. | [None] | Philadelphia | 9/21/94 | 12/20/96 61 FR 67275 | (c)(112)
Anzon, Inc. | [None] | Philadelphia | 9/21/94 | 12/20/96 61 FR 67275 | (c)(112)

(e) EPA-approved nonregulatory and quasi-regulatory material

(1) EPA-Approved Nonregulatory and Quasi-Regulatory Material
Name of non-regulatory SIP revision | Applicable geographic area | State submittal date | EPA approval date | Additional explanation
Sulfur Dioxide Attainment Demonstration | Conewego, Pleasant, and Glade Townships; City of Warren (Warren Co.) | 8/20/01 | 1/17/03 68 FR 2454 | 52.2033(b)
Sulfur Dioxide Attainment Demonstration | Allegheny County-sulfur dioxide area defined in 40 CFR 81.339 | 8/15/03 | 7/21/04 69 FR 43522 | 52.2033(c)
Photochemical Assessment Monitoring Stations (PAMS) Program | Philadelphia-Wilmington-Trenton Ozone Nonattainment Area | 9/23/94 | 9/11/95 60 FR 47081 | 52.2035
1990 Base Year Emission Inventory—Carbon Monoxide | Philadelphia County | 9/8/95 10/30/95 | 1/30/96 61 FR 2982 | 52.2036(a)
1990 Base Year Emission Inventory—VOC | Pittsburgh-Beaver Valley Ozone Nonattainment Area | 3/22/96 2/18/97 7/22/98 | 4/3/01 66 FR 17634 | 52.2036(d)
1990 Base Year Emission Inventory—VOC, CO, NOX | Reading Area (Berks County) | 1/28/97 | 5/7/97 62 FR 24846 | 52.2036(e)
1990 Base Year Emission Inventory—VOC | Philadelphia-Wilmington-Trenton Ozone Nonattainment Area | 9/12/96 | 6/9/97 62 FR 31343 | 52.2036(i)
1990 Base Year Emission Inventory—NOX | Philadelphia-Wilmington-Trenton Ozone Nonattainment Area | 7/31/98 | 6/17/99 64 FR 32422 | 52.2036(l)
1990 Base Year Emission Inventory—NOX | Pittsburgh-Beaver Valley Ozone Nonattainment Area | 3/22/96 2/18/97 | 10/19/01 66 FR 53094 | 52.2036(m)
1990 Base Year Emission Inventory—Carbon Monoxide | City of Pittsburgh—CBD & Oakland | 11/12/92 8/17/01 | 11/12/02 67 FR 68521 | 52.2036(n)
Post 1996 Rate of Progress Plan | Philadelphia-Wilmington-Trenton Ozone Nonattainment Area | 7/31/98 2/25/00 | 10/26/01 66 FR 54143 | 52.2037(i)
One-Hour Ozone Attainment Demonstration | Philadelphia-Wilmington-Trenton Ozone Nonattainment Area | 4/30/98 8/21/98 2/25/00 7/19/01 | 10/26/01 66 FR 54143 | 52.2037(j)
Mobile Budgets for Post-1996 and 2005 attainment plans | Philadelphia-Wilmington-Trenton Ozone Nonattainment Area | 2/25/00 | 10/26/01 66 FR 54143 | 52.2037(k)
|  | 2/23/04 | 5/21/04 69 FR 29238 | 52.2037(k)
15% Rate of Progress Plan | Pittsburgh-Beaver Valley Ozone Nonattainment Area | 3/22/96 2/18/97 7/22/98 | 4/3/01 66 FR 17634 | 52.2038(a)
15% Rate of Progress Plan | Philadelphia-Wilmington-Trenton Ozone Nonattainment Area | 9/12/96 4/10/97 6/5/98 | 8/24/01 66 FR 44547 | 52.2038(b)
Control of Asphalt Paving Material (Emission offset) | Defined 16-county area in Western PA and Southwestern PA | 5/20/77 7/15/77 | 10/6/77 42 FR 54417 | 52.1120(c)(15) ¹ 52.2054
Particulate matter SIP | Allegheny County-Clairton PM10 nonattainment area | 1/6/94 | 9/8/98 63 FR 47434 | 52.2059
Small Business Assistance Program | Statewide | 2/1/93 | 1/6/95 60 FR 1738 | 52.2060
Source Testing Manual | Allegheny County | 9/10/79 | 10/21/81 46 FR 51607 | 52.2063(c)(4)
Ozone Nonattainment Plan | Statewide | 4/24/79 | 5/20/80 46 FR 33607 | 52.2063(c)(22)
Non-regulatory measures | Southwest Pa. AQCR | 9/17/79 | 5/20/80 46 FR 33607 | 52.2063(c)(30)
Air Quality Monitoring Network | Statewide (except Allegheny County) | 1/25/80 | 8/5/81 46 FR 39822 | 52.2063(c)(34)
Attainment plan for sulfur dioxide | Armstrong County | 4/9/81 | 8/18/81 46 FR 43423 | 52.2063(c)(36)
Air Quality Monitoring Network | Allegheny County | 12/24/80 | 9/15/81 46 FR 45762 | 52.2063(c)(38)
Expanded Ridesharing Program | Metro. Philadelphia AQCR | 12/9/81 | 10/7/82 47 FR 44259 | 52.2063(c)(46)
Lead (Pb) SIP | Allegheny County | 9/6/83 | 2/6/84 49 FR 4379 | 52.2063(c)(59)
Lead (Pb) SIP | Philadelphia | 8/29/83 5/15/84 | 8/1/84 49 FR 30696 | 52.2063(c)(61)
Lead (Pb) SIP | Statewide (except Philadelphia and Allegheny Counties) | 9/30/82 6/8/84 | 7/27/84 49 FR 30179 | 52.2063(c)(62)
Ozone and Carbon Monoxide Plan | Metro. Philadelphia AQCR | 6/30/82 10/24/83 | 2/26/85 45 FR 7772 | 52.2063(c)(63)
Ozone and Carbon Monoxide Plan | Southwestern Pa. ACQR | 6/30/82 10/24/83 | 2/26/85 45 FR 7772 | 52.2063(c)(63)
Ozone and Carbon Monoxide Plan | Allentown-Bethlehem-Easton Air Basin | 6/30/82 10/24/83 | 2/26/85 45 FR 7772 | 52.2063(c)(63)
Carbon Monoxide Maintenance Plan | Philadelphia County | 9/8/95 10/30/95 | 1/30/96 61 FR 2982 | 52.2063(c)(105)
|  | 9/3/04 | 04/04/05 70 FR 16958 | Revised Carbon Monoxide Maintenance Plan Base Year Emissions Inventory using MOBILE6
Source Testing Manual | Statewide | 11/26/94 | 7/30/96 61 FR 39497 | 52.2063(c)(110) (i)(D); cross-referenced in Section 139.5
Continuous Source | Statewide Testing Manual | 11/26/94 | 7/30/96 61 FR 39497 | 52.2063(c)(110) (i)(D); cross-referenced in Section 139.5
Ozone Maintenance Plan | Reading Area (Berks County) | 1/28/97 | 5/7/97 62 FR 24846 | 52.2063(c)(123)
|  | 12/09/2003 | 2/26/04 68 FR 8824 | 52.2063(c)(222)
Ozone Maintenance Plan | Pittsburgh-Beaver Valley Ozone Nonattainment Area | 5/21/01 | 10/19/01 66 FR 53094 | 52.2063(c)(188)
|  | 4/11/03 | 8/5/03 68 FR 46099 | 52.2063(c)(210)
|  | 4/22/04 | 12/10/04 69 FR 71212 | 52.2063(c)(226)
Carbon Monoxide Maintenance Plan | City of Pittsburgh—CBD & Oakland | 8/17/01 | 11/12/02 67 FR 68521 | 52.2063(c)(189)
PM10 Maintenance Plan | Allegheny County-Clairton PM10 nonattainment area | 9/14/02 | 9/11/03 68 FR 53515 | 52.2063(c)(215)
Sulfur Dioxide Maintenance Plan | Allegheny County-sulfur dioxide area defined in 40 CFR 81.339 | 8/15/03 | 7/21/04 69 FR 43522 | 52.2063(c)(216) (i)(B)
Sulfur Dioxide Maintenance Plan | Conewego, Pleasant, and Glade Townships; City of Warren (Warren Co.) | 5/7/04 | 7/1/04 69 FR 39860 | 52.2063(c)(224)
¹ Because of an editing error, this section was placed in the wrong subpart of 40 CFR part 52 (subpart W instead of subpart NN), and subsequently removed. However, EPA considers this provision to be a current Federally-enforceable portion of the SIP. The “removed” paragraph reads as follows:
“Pennsylvania Department of Transportation change to section 7.5.9.8 of the Paving Maintenance Manual creditable as emission offsets submitted by the Secretary of the Pennsylvania Department of Environmental Resources on July 15, 1997, as addenda to the Pennsylvania Air Quality Implementation Plan.”

(2) EPA-Approved Source-Specific Reasonably Available Control Technology (RACT) Requirements for Volatile Organic Compounds (VOC) and Oxides of Nitrogen (NOX) Not Incorporated by Reference
Name of source | Permit No. | County | State submittal date | EPA approval date | Additional explanation/§ 52.2063 citation
USX Corp./ US Steel Group—Fairless Hills | 09-0006 | Bucks | 8/11/95 11/15/95 | 04/09/96 61 FR 15709 | 52.2036(b); 52.2037(c); source shutdown date is 8/1/91.
General Glass—Jeannette | 65-0675 | Westmoreland | 7/5/95 | 05/16/96 61 FR 24727 | 52.2036(c); 52.2037(d).
Sharon Steel Company | 43-0017 | Mercer | 12/8/95 | 12/20/96 61 FR 67275 | 52.2036(f); 52.2037(e).
R. R. Donnelley and Sons Co.—Lancaster East Plant | 36-2027 | Lancaster | 9/20/95 | 07/21/97 62 FR 33891 | 52.2036(j).
Rockwell Heavy Vehicle, Inc.—New Castle Forge Plant | 37-065 | Lawrence | 4/8/98 | 04/16/99 64 FR 18818 | 52.2036(k); source shutdown date is 4/1/93.
Pennsylvania Electric Co.—(PENELEC)—Williamsburg Station | 07-2006 | Blair | 8/1/95 | 12/20/96 61 FR 67275 | 52.2037(f); 52.2063(c)(113)(i)(A) & (ii)(A).
Caparo Steel Company | 43-0285 | Mercer | 12/8/95 | 12/20/96 61 FR 67275 | 52.2037(g).
Mercersburg Tanning Co. | 28-2008 | Franklin | 4/26/95 | 03/12/97 62 FR 11079 | 52.2037(h); 52.2063(c)(114)(i)(A)(3) & (ii)(A).
Duquesne Light Co.—Brunot Island Station | 214 | Allegheny | 3/5/01 | 10/18/01 66 FR 52867 | 52.2063(c)(161)(ii)(A).
Duquesne Light Co.—Phillips Station | 212 | Allegheny | 4/15/99 | 10/18/01 66 FR 52867 | 52.2063(c)(161)(ii)(B).

[FR Doc. E6-22284 Filed 12-29-06; 8:45 am]

BILLING CODE 6560-50-P